DEPARTMENT OF COMMERCE

National Oceanic and Atmospheric Administration

15 CFR Part 922

[Docket No. 240213-0047]

RIN 0648-BL33

Proposed Papahānaumokuākea National Marine Sanctuary

AGENCY: Office of National Marine Sanctuaries (ONMS), National Ocean Service (NOS), National Oceanic and Atmospheric Administration (NOAA), Department of Commerce (DOC).

ACTION: Proposed rule; notification of availability of draft environmental impact statement and draft management plan; request for public comments.

SUMMARY: NOAA proposes to designate marine portions of Papahānaumokuākea Marine National Monument as Papahānaumokuākea National Marine Sanctuary (proposed sanctuary) to protect nationally significant biological, cultural, and historical resources and to manage this special place as part of the National Marine Sanctuary System. The proposed sanctuary consists of an area of approximately 582,570 square statute miles (439,910 square nautical miles) of Pacific Ocean waters surrounding the Northwest Hawaiian Islands and the submerged lands thereunder. NOAA proposes to establish the terms of designation for the proposed sanctuary and proposes regulations to implement the designation of the national marine sanctuary. NOAA is also publishing a draft environmental impact statement (DEIS), prepared in coordination with the State of Hawai'i, and a draft management plan (DMP). NOAA is soliciting public comments on the proposed rule, the DEIS and the DMP.

DATES: NOAA will consider all comments received by May 7, 2024. NOAA will host public meetings and will allow for comments in both English and Hawaiian ('Ōlelo Hawai'i) at the following dates and times:

Meeting #1: Virtual Meeting—April 6, 2024, 9 a.m.-12 p.m. HST.

Meeting #2: Honolulu, O'ahu—April 8, 2024, 5 p.m.-8 p.m. HST, Aloha Tower, Multipurpose Room 3, 1 Aloha Tower Drive, Honolulu, Hawai'i 96813.

Meeting #3: Kāne'ohe, O'ahu—April 9, 2024, 5 p.m.-8 p.m. HST, He'eia State Park, 46-465 Kamehameha Hwy., Kāne'ohe, Hawai'i 96744.

Meeting #4: Wai'anae, O'ahu—April 10, 2024, 5 p.m.-8 p.m. HST, Wai'anae District Park Gym, 85-601 Farrington Highway, Wai'anae, Hawai'i 96792.

Meeting #5: Waimea, Kaua'i—April 11, 2024, 5 p.m.-8 p.m. HST, Waimea High School—Cafeteria, 9707 Tsuchiya Rd., Waimea, Hawai'i 96796.

Meeting #6: Hanalei, Kaua'i—April 12, 2024, 5 p.m.-8 p.m. HST, location address to be determined.

Meeting #7: Hilo, Hawai'i—April 15, 2024, 5 p.m.-8 p.m. HST, Mokupāpapa Discovery Center, 76 Kamehameha Ave., Hilo, Hawai'i 96720.

Meeting #8: Kahalu'u Kona, Hawai'iApril 16, 2024, 5 p.m.-8 p.m. HST, Kahalu'u Ma Kai Site—Kamehameha Schools, 78-6780 Ali'i Drive, Kailua-Kona, Hawai'i 96740.

Meeting #9: Kahului, Maui—April 17, 2024, 5 p.m.-8 p.m. HST, Maui Community College Dining Room, 310 W Ka'ahumanu Avenue, Kahului, Hawai'i 96732.

Meeting #10: Kaunakakai, Moloka'i—April 18, 2024, 5 p.m.-8 p.m. HST, location address to be determined.

Please check the website (https://sanctuaries.noaa.gov/papahanaumokuakea/) for the most up-to-date information on public meetings, including meeting locations and the virtual meeting link. NOAA may end a virtual or in-person meeting before the time noted above if all participants have concluded their oral comments.

ADDRESSES: You may submit comments on this document, identified by NOAA-NOS-2021-0114, by any of the following methods:

• Electronic Submission: Submit all electronic comments via the Federal eRulemaking Portal. Go to https://www.regulations.gov and search for docket NOAA-NOS-2021-0114 (note: copying and pasting the FDMS Docket Number directly from this document may not yield search results). Click the “Comment Now!” icon, complete the required fields, and enter or attach your comments.

• Mail: Send any hard copy public comments by mail to PMNM-Sanctuary Designation, NOAA/ONMS, 1845 Wasp Blvd., Bldg. 176, Honolulu, HI 96818.

• Public Meetings: Provide oral comments during public meetings, as described under DATES. Details and additional information about how to participate in these public meetings is available at https://sanctuaries.noaa.gov/papahanaumokuakea/.

Instructions: Comments sent by any other method, to any other address or individual, or received after the end of the comment period, may not be considered by NOAA. All comments received are a part of the public record and will generally be posted for public viewing on www.regulations.gov without change. All personal identifying information (for example, name and address) voluntarily submitted by the commenter will be publicly accessible. Do not submit confidential business information or otherwise sensitive or protected information. NOAA will accept anonymous comments (enter N/A in the required fields to remain anonymous).

Copies of the proposed rule, the DEIS, DMP, maps of the proposed boundaries, and additional background materials can be downloaded or viewed at www.regulations.gov (search for docket #NOAA-NOS-2021-0114). Copies will also be available at https://sanctuaries.noaa.gov/papahanaumokuakea/.

FOR FURTHER INFORMATION CONTACT: Eric Roberts, Papahānaumokuākea Marine National Monument Superintendent, at Eric.Roberts@noaa.gov or 808-294-7470.

SUPPLEMENTARY INFORMATION:

I. Introduction

A. Background

The National Marine Sanctuaries Act (NMSA; 16 U.S.C. 1431 et seq.) authorizes the Secretary of Commerce (Secretary) to designate and protect as national marine sanctuaries areas of the marine environment that are of special national significance due to their conservation, recreational, ecological, historical, scientific, cultural, archaeological, educational, or aesthetic qualities. Day-to-day management of national marine sanctuaries has been delegated by the Secretary to NOAA. The primary objective of the NMSA is to protect the resources of the National Marine Sanctuary System.

NOAA proposes to designate marine portions of the Papahānaumokuākea Marine National Monument as a national marine sanctuary to provide comprehensive and coordinated management of the marine areas of Papahānaumokuākea to protect nationally significant biological, cultural, and historical resources. The original Papahānaumokuākea Marine National Monument (PMNM, 0-50 nm), and the Monument Expansion Area (MEA, 50-200 nm), (collectively “Monument”), located around the Northwestern Hawaiian Islands, were established under the Antiquities Act of 1906 (54 U.S.C. 320301 et seq.) through, respectively, Presidential Proclamation 8031 of June 15, 2006; as amended by Presidential Proclamation 8112 of February 28, 2007; and Presidential Proclamation 9478 of August 26, 2016. The Monument is administered jointly by four Co-Trustees—the Department of Commerce, the Department of the Interior, the State of Hawai'i, and the Office of Hawaiian Affairs.

In 2006, former President Bush established PMNM to protect and preserve the marine area of the Northwestern Hawaiian Islands and certain lands as necessary for the care and management of the historic and scientific objects therein. The Federal land and interests in land reserved included approximately 139,793 square miles of emergent and submerged lands and waters of the Northwestern Hawaiian Islands. NOAA and the United States Fish and Wildlife Service (USFWS) promulgated implementing regulations at 50 CFR part 404 for PMNM.

In 2016, Presidential Proclamation 9478 expanded the Monument into an adjacent area—the MEA—which includes the waters and submerged lands to the extent of the seaward limit of the United States Exclusive Economic Zone (U.S. EEZ) west of 163° West Longitude and covers an additional 442,781 square miles. Presidential Proclamation 9478 also directed the Secretary of Commerce to consider initiating the process to designate the MEA and PMNM seaward of the Hawaiian Islands National Wildlife Refuge and Midway Atoll National Wildlife Refuge and Battle of Midway National Memorial as a national marine sanctuary to supplement and complement existing authorities. On December 27, 2020, the Joint Explanatory Statement accompanying the Consolidated Appropriations Act, 2021, directed NOAA to initiate the process to designate the Monument as a national marine sanctuary.

The proposed sanctuary consists of a total area of approximately 582,570 square miles (439,910 square nautical miles). The precise boundary coordinates are defined in appendix A to the regulations at 15 CFR part 922, subpart W. The proposed sanctuary boundary encompasses the submerged lands, seamounts, and Pacific Ocean waters from the shoreline seaward to approximately 200 nautical miles west of 163° West Longitude surrounding the Northwest Hawaiian Islands which consist of the islands, atolls, and emergent lands stretching from Nihoa in the southeast to Kure Atoll in the northwest. The adjoining marine waters east of 163° West Longitude surrounding Nihoa extend seaward from the shoreline to approximately 50 nautical miles. This boundary reflects NOAA's preferred alternative, which is described in the DEIS as Alternative 1.

The proposed sanctuary is a place of unique environmental resources that provide large-scale ecosystem services for both the region and the world. The marine habitat includes several interconnected ecosystems, including coral islands surrounded by shallow reef, deeper reef habitat characterized by seamounts, banks, and shoals, mesophotic reefs with extensive algal beds, pelagic waters connected to the greater North Pacific Ocean, and deep-water habitats such as abyssal plains 5,000 meters below sea level. These ecosystems are connected as essential habitats for rare species such as the threatened green turtle and the critically endangered Hawaiian monk seal, as well as over 14 million seabirds that forage in the pelagic waters to nourish the chicks they are raising on the tiny islets. These waters are home to 20 cetacean species protected by the Marine Mammal Protection Act (MMPA), with some listed as endangered under the Endangered Species Act (ESA). The importance of these waters to the Hawaiian humpback whale is only recently becoming understood. At least a quarter of the nearly 7,000 known marine species found in the region are found nowhere else on Earth.

The area of the proposed sanctuary is also a sacred place to Native Hawaiians, who regard the islands and wildlife as kūpuna, or ancestors. The region holds deep cosmological and traditional significance for living Native Hawaiian culture. Papahānaumokuākea is as much a spiritual as well as a physical geography, deeply rooted in Native Hawaiian creation and settlement stories. Since Native Hawaiian culture considers nature and culture to be one and the same, the protection of one of the last nearly pristine, natural, marine ecosystems in the archipelago is seen as being akin to preserving the living culture.

The area of the proposed sanctuary also includes the location of the Battle of Midway, a turning point in World War II for the allies in the Pacific Theater. Research indicates that there are 60-80 military vessels and hundreds of aircraft on the seafloor. In addition to Navy steamers and aircraft, there are whaling ships, Japanese junks, Hawaiian fishing sampans, Pacific colliers, and other vessels from the 19th and 20th centuries. Of these, the locations of more than 30 vessel wreck sites have been confirmed by diving or bathymetric surveys, with only a handful of those identified by vessel name or otherwise evaluated.

B. Purpose and Need for Action

The National Marine Sanctuaries Act (NMSA; 16 U.S.C. 1431 et seq.) authorizes the Secretary to designate national marine sanctuaries to meet the purposes and policies of the NMSA, including:

• “to provide authority for comprehensive and coordinated conservation and management of these marine areas, and activities affecting them, in a manner which complements existing regulatory authorities” (16 U.S.C. 1431(b)(2));

• “to maintain the natural biological communities in the national marine sanctuaries, and to protect, and, where appropriate, restore and enhance natural habitats, populations, and ecological processes” (16 U.S.C. 1431(b)(3));

• “to enhance public awareness, understanding, appreciation, and wise and sustainable use of the marine environment, and the natural, historical, cultural, and archaeological resources of the National Marine Sanctuary System” (16 U.S.C. 1431(b)(4));

• “to support, promote, and coordinate scientific research on, and long-term monitoring of, the resources of these marine areas” (16 U.S.C. 1431(b)(5));

• “to facilitate to the extent compatible with the primary objective of resource protection, all public and private uses of the resources of these marine areas not prohibited pursuant to other authorities” (16 U.S.C. 1431(b)(6));

NOAA's proposed action is to designate marine areas of Papahānaumokuākea as a national marine sanctuary. The purpose of this action is to provide comprehensive and coordinated management of the marine areas of Papahānaumokuākea to protect nationally significant biological, cultural, and historical resources. Additionally, the purpose of the designation is to implement the provisions of Executive Order 13178, Presidential Proclamation 9478, and the Joint Explanatory Statement accompanying the Consolidated Appropriations Act, 2021.

Accordingly, NOAA is proposing to designate this area as a national marine sanctuary to:

• Develop objectives and actions that ensure lasting protection consistent with the existing Monument proclamations;

• Safeguard natural and cultural values of the marine environment;

• Apply additional regulatory and non-regulatory tools to augment and strengthen existing protections for Papahānaumokuākea ecosystems, wildlife, and cultural and maritime heritage resources;

• Authorize NOAA to assess civil penalties for violations of provisions of the NMSA and regulations and permits issued pursuant to the NMSA (16 U.S.C. 1437(d));

• Impose liability for destruction, loss of, or injury to sanctuary resources and provide natural resource damage assessment authorities for destruction, loss of, or injury to any sanctuary resource (16 U.S.C. 1443); and

• Require interagency consultation for any Federal agency action that is likely to destroy, cause the loss of, or injure any sanctuary resource (16 U.S.C. 1434(d));

C. Designation Process

1. Notice of Intent To Designate a National Marine Sanctuary

On November 19, 2021, NOAA initiated the process to designate marine portions of the Monument as a national marine sanctuary by publishing a Notice of Intent to Conduct Scoping and to Prepare an Environmental Impact Statement for the Proposed Designation of a National Marine Sanctuary within Papahānaumokuākea Marine National Monument (86 FR 64904). The notice of intent stated that NOAA would prepare a DEIS per the requirements of the National Environmental Policy Act (42 U.S.C. 4321 et seq.) and the NMSA. The notice of intent (NOI) also announced NOAA's intent to fulfill its responsibilities under the National Historic Preservation Act (NHPA; 54 U.S.C. 300101 et seq.). The State of Hawai'i published its EIS preparation notice on December 8, 2021. Following publication of these notices, NOAA conducted four virtual public scoping meetings. During the 74-day public comment period from November 19, 2021 through January 31, 2022, 73 individuals and organizations provided written input. An estimated 165 people attended the four scoping meetings, with 9 people providing oral comments. The Summary of Scoping Input on the Notice of Intent and EIS Preparation Notice and State of Hawai'i Responses to Public Scoping Comments are included in the DEIS as appendix G.

2. Development of Proposed Terms of Designation and Proposed Regulations

Section 304(a)(4) of the NMSA requires that the terms of designation include: (1) the geographic area that is proposed to be included within the sanctuary; (2) the characteristics of the area that give it conservation, recreational, ecological, historical, research, educational, or esthetic value; and (3) the types of activities that would be subject to regulation by the Secretary to protect these characteristics. Section 304(a)(4) of the NMSA also specifies that the terms of designation may be modified only by the same procedures by which the original designation was made.

The purpose and need for the sanctuary provide the overarching basis for developing the proposed regulations. The designation of the proposed sanctuary would not replace the area's current status as a marine national monument. The proposed rule would supplement the existing provisions for management of the Monument and further protect resources in the Northwest Hawaiian Islands. To draft these regulations, NOAA reviewed the following, which currently guide Monument management:

• Executive Order 13178—Northwestern Hawaiian Islands Coral Reef Ecosystem Reserve, December 4, 2000;

• Presidential Proclamation 8031—Establishment of the Northwestern Hawaiian Islands Marine National Monument, June 15, 2006;

• Presidential Proclamation 8112, Amending Proclamation 8031 of June 15, 2006 to Read “Establishment of the Papahānaumokuākea Marine National Monument,” February 29, 2007;

• Regulations implementing Presidential Proclamations 8031 and 8112 at 50 CFR part 404; and

• Presidential Proclamation 9478—Papahānaumokuākea Marine National Monument Expansion, August 26, 2016.

These executive orders, presidential proclamations, and regulations served as benchmarks for drafting the proposed rule for the proposed sanctuary. The proposed rule would only add to, and would not diminish, Monument management measures and protections. NOAA has adopted the management measures from these benchmarks, and, in a few areas, added onto those measures to allow for consistency in regulation and management across the proposed sanctuary. The proposed rule unifies management of the area by removing discrepancies and gaps in prohibitions, regulated activities, and permit criteria, providing clarity and comprehensive protection for the proposed sanctuary.

In developing this proposed rule and the proposed sanctuary terms of designation, NOAA also considered: (1) information received through public scoping comments, cooperating agency review, and coordination with the Monument Co-Trustees through the seven-member Monument Management Board (MMB), which consists of NOAA ONMS, NOAA National Marine Fisheries Service, USFWS Ecological Services, USFWS Refuges, Hawai'i Department of Land and Natural Resources (DLNR) Division of Aquatic Resources, DLNR-Division of Forestry and Wildlife, and the Office of Hawaiian Affairs (OHA); and (2) information from analysis of issues in the DEIS, interagency coordination, and internal staff analysis and expertise. NOAA also consulted with the Western Pacific Regional Fishery Management Council as required under the NMSA.

A detailed discussion of the proposed rule is contained below in section III, subsections A through M. The proposed terms of designation are contained below in section II, and are incorporated as an annex to the DMP.

3. Development of Draft Management Plan

A DMP has been prepared in accordance with NMSA section 304(a)(2)(C). Management plans are site-specific documents that ONMS uses to manage individual sanctuaries. The DMP: (1) articulates the sanctuary's vision, mission, goals, and objectives; (2) describes the management activities and initiatives that NOAA proposes to conduct; and (3) provides strategies and assessment measures to guide the sanctuary's short and mid-range management. The DMP for the sanctuary is included as appendix A to the DEIS.

4. Draft Environmental Impact Statement

In accordance with National Environmental Policy Act (NEPA) (42 U.S.C. 4321 et seq.), the NMSA, and the Hawai'i Environmental Policy Act (HEPA, Chapter 343 HRS, HAR Chapter 11-200.1), NOAA is releasing a DEIS for the proposed national marine sanctuary designation in conjunction with the publication of this proposed rule. NOAA is the lead Federal agency in the preparation of the environmental impact statement. The USFWS, State of Hawai'i, and the Department of the Navy are cooperating agencies for the NEPA process. The DEIS (https://sanctuaries.noaa.gov/papahanaumokuakea/) describes the purpose and need for the proposed action of designating a national marine sanctuary, identifies a range of alternatives including the preferred alternative, provides an assessment of resources and uses in the area, and evaluates the potential environmental consequences of the proposed designation including by comparing the beneficial and adverse impacts among alternatives.

The DEIS analyzes four alternatives; including a “no action” alternative, in which the area would not be designated as a national marine sanctuary; and three boundary alternatives:

• Alternative 1 is coextensive with the marine portions of the Monument. The boundary includes the marine environment surrounding the Northwestern Hawaiian Islands from the shoreline of the islands and atolls seaward to 200 nautical miles, including all State waters and waters of the Northwestern Hawaiian Islands Coral Reef Ecosystem Reserve, Midway Atoll and Hawaiian Islands National Wildlife Refuges, and State of Hawai'i Northwestern Hawaiian Islands Marine Refuge. The area encompassed in Alternative 1 is approximately 582,570 square miles (439,910 square nautical miles).

• Alternative 2 includes the marine environment from the shoreline of the islands and atolls seaward to 50 nautical miles. This alternative includes all State waters and waters of the Reserve, Midway Atoll and Hawaiian Islands National Wildlife Refuges, and State of Hawai'i Northwestern Hawaiian Islands Marine Refuge. This alternative does not include the MEA. The area encompassed in Alternative 2 is approximately 139,782 square miles (105,552 square nautical miles).

• Alternative 3 has the same boundaries as Alternative 1, excluding waters within the Midway Atoll and Hawaiian Islands National Wildlife Refuges. The area encompassed in Alternative 3 is approximately 581,263 square miles (438,923 square nautical miles).

5. Agency-Preferred Alternative

NOAA is identifying Alternative 1 as the agency-preferred alternative (preferred alternative) based on its comparative merits; this alternative serves as the foundation of this proposed rule (section 3.3 of the DEIS presents a map and an additional explanation of the reasons for this selection). NOAA selected its preferred alternative after considering input from the Monument Management Board, the State of Hawai'i, cooperating agencies, and public scoping meetings. Through the analysis in the DEIS, NOAA has found that the preferred alternative would provide numerous beneficial impacts, including increased protection and conservation of resources, and improved coordination of conservation and management. NOAA has also considered the potential adverse impacts of the preferred alternative and anticipates that there would be no significant adverse impacts to biological and physical resources, cultural and historic resources, or socioeconomic resources.

NOAA's identification of Alternative 1 as the preferred alternative is based on the need for additional resource protection, scientific research, and public education in areas that would be excluded by selecting the boundaries of Alternatives 2 or 3. Alternative 1 includes the MEA, an area which would benefit from the establishment of a NOAA permitting process, and the promulgation of sanctuary regulations to protect resources. Alternative 1 also includes the waters of Midway Atoll and Hawaiian Islands National Wildlife Refuges National Wildlife Refuges, which are the areas of the proposed sanctuary subject to the highest level of human activity.

Based on the public comments NOAA receives on the draft designation documents and NOAA's experience administering the national marine sanctuary program, pursuant to NEPA and the Administrative Procedure Act, NOAA may choose to select a different alternative in the final rule and final EIS that is within the geographic and regulatory scope of the alternatives currently considered in the DEIS, and that is a logical outgrowth of this proposed rule.

II. Proposed Sanctuary Terms of Designation

Section 304(a)(4) of the NMSA as amended, 16 U.S.C. 1434(a)(4), requires that the terms of designation be described at the time a sanctuary is designated, including: (1) the geographic area proposed to be included within the sanctuary; (2) the characteristics of the area that give it conservation, recreational, ecological, historical, research, educational, or aesthetic value; and (3) the types of activities that will be subject to regulation by the Secretary of Commerce to protect these characteristics. The following represents the proposed terms of designation:

Under the authority of the National Marine Sanctuaries Act, as amended (the “Act” or “NMSA”), 16 U.S.C. 1431 et seq., approximately 439,910 square nmi (582,570 square mi) of the waters of the Pacific Ocean surrounding the Northwestern Hawaiian Islands are hereby designated as a National Marine Sanctuary for the purpose of providing long-term protection and management of the ecological, cultural, and historical resources and the conservation, recreational, scientific, educational, and aesthetic qualities of the area.

Article I: Effect of Designation

The NMSA authorizes the issuance of such regulations as are necessary and reasonable to implement the designation, including managing and protecting the ecological, cultural, and historical resources and the conservation, recreational, scientific, educational, and aesthetic qualities of Papahānaumokuākea National Marine Sanctuary (the “Sanctuary”). Section 1 of Article IV of these terms of designation lists those activities that may be regulated on the effective date of designation, or at some later date, in order to protect Sanctuary resources and qualities. Listing an activity does not necessarily mean that it will be regulated. However, if an activity is not listed it may not be regulated, except on an emergency basis, unless section 1 of Article IV is amended by the same procedures by which the original Sanctuary designation was made.

Article II: Description of the Area

The sanctuary encompasses the submerged lands, seamounts, and Pacific Ocean waters from the shoreline seaward to approximately 200 nautical miles west of 163° West Longitude surrounding the Northwestern Hawaiian Islands which consist of the islands, atolls, and emergent lands stretching from Nihoa in the southeast to Hōlanikū (Kure Atoll) in the northwest. The marine waters east of 163° West Longitude surrounding Nihoa extend seaward from the shoreline to approximately 50 nautical miles. The total area of the sanctuary comprises approximately 582,570 square miles (439,910 square nautical miles). The precise boundary coordinates are defined in appendix A to the regulations at 15 CFR part 922, subpart W.

Article III: Special Characteristics of the Area

Papahānaumokuākea is a place of special national significance that provides large-scale ecosystem services for the region and the world. The marine habitat includes several interconnected ecosystems, including coral islands surrounded by shallow reef, deeper reef habitat characterized by seamounts, banks, and shoals scattered across the area of the sanctuary, mesophotic reefs with extensive algal beds, pelagic waters connected to the greater North Pacific Ocean, and deep-water habitats and abyssal plains 5,000 meters below sea level. These connected ecosystems provide essential habitats for rare species such as the threatened green sea turtle and the critically endangered Hawaiian monk seal, as well as habitat for more than 14 million seabirds that forage in the pelagic waters to nourish the chicks they are raising on the tiny islets. Papahānaumokuākea is home to 20 cetacean species, protected by the MMPA, with some listed as endangered under the ESA. At least a quarter of the nearly 7,000 known marine species found in the region are found nowhere else on Earth.

The area of the proposed sanctuary is also a place of historic and cultural significance. The area of the proposed sanctuary includes the location of the Battle of Midway, a turning point in World War II for the allies in the Pacific Theater. Research indicates that 60-80 military vessels and hundreds of aircraft are scattered across the seafloor. In addition to Navy steamers and aircraft, there are whaling ships, Japanese junks, Hawaiian fishing sampans, Pacific colliers, and other vessels from the 19th and 20th centuries.

Papahānaumokuākea is also a sacred place to Native Hawaiians, who regard the islands and wildlife as kūpuna, or ancestors. The region holds deep cosmological and traditional significance to living Native Hawaiian culture and contains a host of intact and significant archaeological sites found on the islands of Nihoa and Mokumanamana, both of which are on the National Register of Historic Places and Hawai'i Register of Historic Places. Papahānaumokuākea is as much a spiritual as a physical geography, rooted deep in Native Hawaiian creation and settlement stories.

Article IV: Scope of Regulations

Section 1. Activities Subject to Regulation

The following activities are subject to regulation, including prohibition, as may be necessary to ensure the protection and effective management of the ecological, cultural, historical, conservation, recreational, scientific, educational, or aesthetic resources or qualities of the area:

1. Access to the sanctuary;

2. Ship reporting;

3. Vessel monitoring;

4. Vessel discharge;

5. Exploring for, developing, or producing oil, gas, or minerals, or any energy development activities;

6. Using or attempting to use poisons, electrical charges, or explosives in the collection or harvest of a sanctuary resource;

7. Introducing or otherwise releasing an introduced species from within or into the sanctuary;

8. Deserting a vessel;

9. Commercial fishing;

10. Non-commercial fishing;

11. Possessing fishing gear;

12. Anchoring on or having a vessel anchored on any living or dead coral with an anchor, anchor chain, or anchor rope;

13. Drilling into, dredging, or otherwise altering the submerged lands; or constructing, placing, or abandoning any structure, material, or other matter on the submerged lands;

14. Removing, moving, taking, harvesting, possessing, injuring, disturbing, or damaging; or attempting to remove, move, take, harvest, possess, injure, disturb, or damage any living or nonliving sanctuary resource;

15. Attracting any living sanctuary resource;

16. Touching coral, living or dead;

17. Swimming, snorkeling, or closed or open circuit SCUBA diving; or

18. Discharging or depositing any material or other matter, or discharging or depositing any material or other matter outside of the sanctuary that subsequently enters the sanctuary and injures or has the potential to injure any resources of the sanctuary;

19. Anchoring a vessel;

20. Native Hawaiian practices;

21. Research and scientific exploration;

22. Scientific research and development by Federal agencies;

23. Activities that will further the educational value of the sanctuary or will assist in the conservation and management of the sanctuary; and

24. Recreational activities.

Listing an activity here means that the Secretary of Commerce can regulate the activity, after complying with all applicable laws, without going through the designation procedures required by paragraphs (a) and (b) of section 304 of the NMSA. No term of designation issued under the authority of the NMSA may take effect in Hawaii State waters within the Sanctuary if the Governor of Hawaii certifies to the Secretary of Commerce that such term of designation is unacceptable within the review period specified in the NMSA.

Section 2. Emergencies

Where necessary to prevent or minimize the destruction of, loss of, or injury to a Sanctuary resource or quality, or to minimize the imminent risk of such destruction, loss, or injury, any and all activities, including those not listed in section 1, are subject to immediate temporary regulation, including prohibition.

Article V: Alteration of This Designation

The terms of designation, as defined under section 304(a)(4) of the NMSA, may be modified only by the same procedures by which the original designation is made, including public hearings, consultations with interested Federal, Tribal, State, regional, and local authorities and agencies, review by the appropriate Congressional committees, and approval by the Secretary of Commerce, or his or her designee.

III. Summary of Proposed Regulations

A. Adding New Subpart W

NOAA is proposing to amend 15 CFR part 922 by adding a new subpart (subpart W) that contains site-specific regulations for the proposed sanctuary. This subpart would include the proposed boundary, contain definitions of common terms used in the new subpart, identify prohibited activities and exceptions, and establish procedures for permitting otherwise prohibited activities.

B. Proposed Sanctuary Boundary

NOAA proposes to designate the marine environment surrounding the Northwestern Hawaiian Islands from the shoreline of the islands and atolls seaward to 200 nautical miles, including all waters of the Monument. NOAA estimates the area encompassed in the proposed designation is approximately 582,570 square miles (439,910 square nautical miles).

C. Definitions

This proposed rule incorporates and adopts common terms defined in the national regulations at 15 CFR 922.11. In addition, NOAA proposes to include 19 site-specific definitions. To the extent that a term appears in § 922.11 and the definitions section of the proposed rule, the definition in the proposed rule would govern.

• The definitions for “Bottomfish Species” and “Pelagic Species” are adopted from regulations for Fisheries in the Western Pacific, 50 CFR 665.201 and 50 CFR 665.800.

• “Ecological integrity”, “Midway Atoll Special Management Area”, “Native Hawaiian practices”, “Pono”, “Recreational activity”, “Special Preservation Area (SPA)”, “Stowed and not available for immediate use”, “Sustenance fishing”, and “Vessel monitoring system or VMS”, are adopted from Presidential Proclamation 8031.

• “Commercial fishing” and “Non-commercial fishing” are adopted from the MSA and, in part, from regulations for Fisheries in the Western Pacific, 50 CFR 665.12.

• “Particularly Sensitive Sea Area (PSSA)” is adopted from IMO Resolution A.982(24), December 1, 2005.

• “Areas to be avoided (ATBA)” and “Office of Law Enforcement” are adopted from Papahānaumokuākea Marine National Monument regulations, 50 CFR 404.3.

• “Outer Sanctuary Zone (OSZ)” refers to the area of the sanctuary that would extend from approximately 50 nautical miles from all the islands and emergent lands of the Northwestern Hawaiian Islands to the extent of the seaward limit of the United States Exclusive Economic Zone west of 163° West Longitude. This area of the proposed sanctuary would correspond with the area designated as a marine national monument by Presidential Proclamation 9478, referred to as the “Papahānaumokuākea Marine National Monument Expansion” or MEA. NOAA is proposing this definition to provide clarity to the public where there is a regulation that only applies to this area of the sanctuary, and not the entire sanctuary. The name “OSZ” is a placeholder, and NOAA is soliciting public comment on possible names for this area of the proposed sanctuary.

• “Reporting Area” refers to the area of the proposed sanctuary that extends outward ten nautical miles from the PSSA boundary, as designated by the IMO, and excludes the ATBAs that fall within the PSSA boundary. The reporting area is defined by the coordinates set forth in appendix E to the proposed rule. NOAA is proposing to define the “reporting area” to clarify in which areas of the proposed sanctuary ship reporting requirements apply.

• “Scientific instrument” is a term used in Presidential Proclamation 9478, but the term was not defined. Specifically, Presidential Proclamation 9478 prohibits “drilling into, dredging, or otherwise altering the submerged lands, or constructing, placing, or abandoning any structure, material, or other matter on the submerged lands, except for scientific instruments”. NOAA proposes to define “scientific instrument” to clarify what may or may not be permitted. NOAA proposes to define “scientific instrument” to mean “a device, vehicle, or tool used for scientific purposes and is inclusive of structures, materials, or other matter incidental to proper use of such device, vehicle, or tool.” In defining “scientific instruments,” NOAA's definition provides for the inclusion of “structures, materials, or other matter incidental to proper use of such device, vehicle, or tool” because, based on the type of activities previously permitted in the Monument, proper deployment and use of most scientific instruments requires more than the instrument itself. For example, there may be incidental ballast discharge associated with the use of a scientific instrument like a remotely operated vehicle, or ROV. A narrower definition of “scientific instruments” could unduly restrict NOAA's ability to permit activities in the area of the proposed sanctuary that overlaps with the MEA, the OSZ. NOAA believes a narrower definition would be inconsistent with the intent of Presidential Proclamation 9478, which states “Undisturbed seamount communities in the adjacent area are of significant scientific interest because they provide opportunities to examine the impacts of physical, biological, and geological processes on ecosystem diversity, including understanding the impacts of climate change on these deep-sea communities. These seamounts and ridges also provide the opportunity for identification and discovery of many species not yet known to humans, with possible implications for research, medicine, and other important uses. Recent scientific research, utilizing new technology, has shown that many species identified as objects in Proclamation 8031 inhabit previously unknown geographical ranges that span beyond the existing Monument, and in some cases the adjacent area also provides important foraging habitat for these species.” These statements clearly demonstrate the significant scientific value of the MEA and underscore the opportunities for research and discovery to occur in that area of the proposed sanctuary.

D. Co-Management of the Sanctuary

To enhance opportunities and build on existing protections, NOAA and the State of Hawai'i would collaboratively manage the sanctuary. NOAA would establish the framework for co-management in section 922.242 of the proposed rule and may develop a Memorandum of Agreement (MOA) with the State of Hawai'i to provide greater details of the terms of co-management. NOAA and the State may develop additional agreements as necessary to provide details on the execution of sanctuary management, such as activities, programs, and permitting that can be updated to adapt to changing conditions or threats to the sanctuary resources. Any proposed changes to sanctuary regulations or boundaries would be coordinated with the State and subject to public review as mandated by the NMSA and other Federal statutes. Co-management of the proposed sanctuary with the State of Hawaii would not supplant the existing co-management structure for the Monument.

E. Access

In PMNM, pursuant to Presidential Proclamation 8031, access is prohibited except under the following circumstances: (1) for emergency response and law enforcement purposes; (2) for activities and exercises of the Armed Forces; (3) for persons who have been issued Monument permits; and (4) for passage without interruption. For consistency, and to protect sanctuary resources, NOAA proposes extending the access restrictions which apply to the area of the proposed sanctuary that overlaps the PMNM to the area of the proposed sanctuary that overlaps with the MEA as follows:

Access to the sanctuary would be prohibited and thus unlawful except under the following circumstances: (1) for emergency response actions, law enforcement activities, and activities and exercises of the Armed Forces; (2) pursuant to a sanctuary permit; (3) when conducting non-commercial fishing activities in the OSZ authorized under the Magnuson-Stevens Fishery Conservation and Management Act provided that no sale of harvested fish occurs; and (4) when passing through the sanctuary without interruption.

A vessel may pass without interruption through the sanctuary without requiring a permit as long as the vessel does not stop, anchor or engage in prohibited activities within the sanctuary, and vessel discharges are limited to the following:

• Vessel engine cooling water, weather deck runoff, and vessel engine exhaust within a Special Preservation Areas or the Midway Atoll Special Management Area; and

• Discharge incidental to vessel operations such as deck wash, approved marine sanitation device effluent, cooling water, and engine exhaust in areas other than Special Preservation Areas or the Midway Atoll Special Management Area.

A vessel passing through the sanctuary without interruption may be subject to the ship reporting system, as described below.

The proposed access restrictions would be applied in accordance with generally recognized principles of international law, in accordance with sections 305(a) and 307(k) of the NMSA and the NMSA's Regulations of General Applicability at 15 CFR 922.1(b). No regulation shall apply to or be enforced against a person who is not a citizen, national, or resident alien of the United States vessels unless in accordance with generally recognized principles of international law.

F. Ship Reporting

NOAA also proposes regulations to implement the ship reporting system (CORAL SHIPREP) adopted by the International Maritime Organization (IMO), which would require entrance and exit notifications for vessels that pass without interruption through the sanctuary areas contained within a reporting area. NOAA proposes to establish this reporting area, which would be defined as “the area of the proposed sanctuary that extends outward ten nautical miles from the PSSA [Particularly Sensitive Sea Area] boundary, as designated by the IMO, and excludes the ATBAs [Areas to be avoided] that fall within the PSSA boundary.” The reporting area would be further defined by the coordinates set forth in appendix E to the proposed rule. Appendix E includes a coordinates table for the “Reporting Area Outer Boundary,” which contains the reporting area's boundary surrounding the PSSA. Appendix E also includes coordinate tables for the “Inner Reporting Area Boundary” for each of the four ATBAs that fall within the PSSA, but which are not part of the reporting area.

NOAA proposes exemptions for emergency response and law enforcement purposes, and for activities and exercises of the Armed Forces. Therefore, CORAL SHIPREP's requirements would not apply to vessels covered by those exemptions. The proposed regulations do not apply to vessels conducting activities pursuant to a sanctuary permit or vessels conducting non-commercial fishing activities in the OSZ authorized under the Magnuson-Stevens Fishery Conservation and Management Act. The proposed regulations also do not apply to sovereign immune vessels. This is consistent with sections 305(a) and 307(k) of the NMSA, and the NMSA's Regulations of General Applicability at 15 CFR 922.1(b), which state that sanctuary regulations shall be applied in accordance with generally recognized principles of international law. No regulation shall apply to or be enforced against a person who is not a citizen, national, or resident alien of the United States vessels unless in accordance with generally recognized principles of international law.

Requiring vessels to notify NOAA immediately upon entering the reporting area, will help make the operators of these vessels aware that they are traveling through a fragile area with potential navigational hazards such as the extensive coral reefs found in many shallow areas of the proposed sanctuary contained within the reporting area. The reporting area for the proposed sanctuary would not include the four voluntary ATBAs adopted by the IMO that are also within the PSSA. An ATBA is an area within which either navigation is particularly hazardous or it is exceptionally important to avoid casualties. While ATBAs can be mandatory (i.e., vessels are required by applicable law to avoid and operate outside of the area) most are voluntary and vessels may travel through them. Because the four ATBAs in the PSSA are voluntary, as adopted by the IMO and implemented by these proposed regulations, the ATBAs are outside of the reporting area. Nonetheless, by virtue of entering or exiting an ATBA, vessels would also be departing or entering the reporting area, and, therefore be subject to the reporting area's requirements four times: (1) once when it enters the reporting area; (2) once when it leaves the reporting area to enter the ATBA; (3) once when it exits the ATBA and enters the reporting area on the other side of the ATBA; and (4) once when it once again leaves the reporting area. The potential burden of reporting four times is justified by the navigational hazards that exist within the ATBAs. The reporting area also includes three large areas within the PSSA that are not within the ATBAs. These breaks between the four ATBAs allow for north-south passages through the sanctuary areas contained within the reporting area that can be utilized for navigation to avoid ATBAs. Vessels passing through the sanctuary in these areas would only send email notification twice: once upon entering the reporting area, and again upon leaving the reporting area.

NOAA is proposing to implement CORAL SHIPREP's requirements under the NMSA in keeping with the United States' and IMO's long-standing interest in providing additional protection to the natural, cultural, and historic resources in PMNM through ship reporting requirements. In June 2006, Presidential Proclamation 8031 directed the Secretary of Commerce and Secretary of Interior to require notification from any person passing through PMNM without interruption at least 72 hours, but no longer than 1 month, prior to the entry date, and within 12 hours of departure. Presidential Proclamation 8031 further indicated the specific types of information that must be provided in the notification. These notification requirements were subsequently codified in 50 CFR 404.4. Presidential Proclamation 8031 also directed the Secretary of State, in consultation with the Secretary of Commerce and Secretary of Interior, to seek the cooperation of other governments and international organizations in furtherance of the purposes of the proclamation and consistent with applicable regional and multilateral arrangements for the protection and management of special marine areas.

In accordance with Proclamation 8031, in April 2007, the United States proposed to the IMO that PMNM be designated as a PSSA to protect the attributes of the fragile and integrated coral reef ecosystem from potential hazards associated with international shipping activities. The U.S. noted in its proposal that the proposed PSSA and its associated protective measures would result in a minimal burden to international shipping, would significantly further increase maritime safety, protection of the fragile environment, preservation of cultural resources and areas of cultural importance significant to Native Hawaiians, and would facilitate responses to developing maritime emergencies. On April 3, 2008, the IMO designated the PMNM as a PSSA. As part of the PSSA designation process, the IMO adopted U.S. proposals for associated protective measures consisting of expanding and consolidating the six existing recommendatory ATBAs in the PMNM into four larger areas and enlarging the class of vessels to which they apply and establishing a ship reporting area and system for vessels transiting the PMNM, which is mandatory for ships 300 gross tons or greater that are entering or departing a U.S. port or place and recommended for other ships. The system requires that ships notify the U.S. shore-based authority (i.e., the U.S. Coast Guard; NOAA will be receiving all messages associated with this program on behalf of the Coast Guard) at the time they begin transiting the reporting area and again when they exit. In December 2008, NOAA and the USFWS published final regulations to establish a ship reporting system for PMNM, that implemented measures adopted by the IMO requiring notification by ships passing through PMNM without interruption (73 FR 73592). These regulations modified the previous notification requirements at 50 CFR 404.4.

NOAA is proposing to implement the ship reporting system as adopted by the IMO and to establish the reporting area using the boundary coordinates in appendix E to the proposed rule to provide additional protection to the natural, cultural, and historic resources in the proposed sanctuary. Accordingly, NOAA's proposed regulations build upon the requirements outlined in Presidential Proclamation 8031, and reflect additions made through the IMO's adoption of a ship reporting system and the implementation of that system in 50 CFR 404.4. NOAA proposes minor language changes from the process adopted by IMO Resolution MEPC.171(57) and IMO Resolution MSC.279(85) to provide clarity to the public on which vessels are required to participate in ship reporting and the type of information that should be reported. NOAA proposes one substantive addition to the types of reporting information in the IMO Resolutions, that vessels report “[a]ny pollution incident or goods lost overboard within the PSSA, the reporting area, or the U.S. EEZ.” This addition was included in the December 2008 final regulations to establish a ship reporting system for PMNM.

The NMSA provides NOAA with the authority to designate a national marine sanctuary and promulgate regulations implementing the designation if NOAA determines, among other things, that the area is of special national significance (see 16 U.S.C. 1433(a)(2)). NOAA's determination of special national significance is to be based on (1) the area's conservation, recreational, ecological, historical, scientific, cultural, archaeological, educational, or aesthetic qualities; (2) the communities of living marine resources it harbors; or (3) its resource or human-use values. In designating PMNM as a PSSA, the IMO expressly recognized the ecological, socio-economic, and scientific attributes of the area—including, a “unique, fragile, and pristine coral reef ecosystem” and “significant cultural and archaeological resources”—and their vulnerability to international shipping activities (see IMO Resolution MEPC.171(57)). The IMO highlighted PMNM's (1) more than 7,000 species of fish, mammals, plants, coral, and other invertebrates; (2) critical habitat, spawning, and breeding grounds; (3) cultural significance to Native Hawaiians, rich underwater cultural heritage from the World War II Battle of Midway; and (4) unparalleled opportunities in scientific research. Given the IMO's findings in designating the PSSA and adopting a ship reporting system as an associated protective measure, NOAA's proposed regulations implementing CORAL SHIPREP are necessary and reasonable to conserve and manage this area of special national and international significance as part of the proposed sanctuary (see 16 U.S.C. 1434(a)(1)(A)).

G. Activities That Are Prohibited or Otherwise Regulated

NOAA is proposing to supplement and complement existing management of this area by proposing prohibited or otherwise regulated activities in section 922.244. Presidential Proclamations 8031, 8112, and 9478, and regulations implementing Presidential Proclamations 8031 and 8112 at 50 CFR part 404 provide the foundation for the proposed prohibitions. However, minor changes are made in the proposed rule to remove discrepancies and gaps in prohibitions and regulated activities between PMNM and the MEA in order to allow for consistency in management across the proposed sanctuary.

Within PMNM, the proposed prohibitions are all currently in place through 50 CFR part 404 except for prohibitions 1 and 4 (detailed below). Minor changes are proposed to prohibitions 1 and 4 to remove discrepancies across the two zones (PMNM and MEA). Regulations implementing Presidential Proclamation 9478 have not yet been promulgated for the MEA. Many of the prohibitions adopted in the proposed rule are identified in Presidential Proclamation 9478, which established the MEA. Any prohibitions proposed for the area of the proposed sanctuary that overlaps with the MEA that are not adopted directly from Presidential Proclamation 9478 are identified below.

1. Prohibition on Exploring for, Developing, or Producing Oil, Gas, or Minerals, or Any Energy Development Activities

Consistent with the presidential proclamations establishing the Monument, NOAA is proposing to prohibit exploring for, developing, or producing oil, gas, or minerals to protect sanctuary resources and create a seamless management area throughout the proposed sanctuary. The addition of the prohibition on `any energy development activities' would be new for PMNM, and was added to further the underlying intent of the prohibition on oil, gas, and mineral development by accounting for technological advances in other forms of energy development.

In addition to creating consistency across the two zones, this prohibition will help advance the proposed sanctuary's draft goals and objectives by protecting sensitive marine ecosystems such as fragile coral reefs and deep-sea corals, benthic habitat, and seamounts. Prohibiting oil, gas, and mineral development reduces the risk of offshore spills, such as the Deepwater Horizon oil spill, that could significantly harm sanctuary resources. Deep seabed mining, oil and gas drilling, and other energy development activities, such as renewable energy system installation, destroys fragile benthic habitat, releases sequestered carbon, and spreads sediment plumes that can suffocate both sensitive shallow and deep-sea coral reefs, which negatively impacts nursery and foraging habitat for fish, and reduces the ecosystem's overall resilience.

2. Prohibition on Using or Attempting To Use Poisons, Electrical Charges, or Explosives in the Collection or Harvest of a Sanctuary Resource

NOAA is proposing this prohibition to be consistent with prohibitions identified in the presidential proclamations establishing the Monument.

3. Prohibition on Introducing or Otherwise Releasing an Introduced Species From Within or Into the Sanctuary

NOAA is proposing this prohibition to be consistent with prohibitions identified in the presidential proclamations establishing the Monument.

4. Prohibition on Deserting a Vessel

Deserting a vessel is currently a regulated activity (allowed only with a permit) in PMNM pursuant to Presidential Proclamation 8031. Deserting a vessel is a prohibited activity in the MEA pursuant to Presidential Proclamation 9478. NOAA does not see a need to permit this activity and is proposing this prohibition in part to create consistency in management across the proposed sanctuary. Prohibiting this activity would help to prevent desertion of a vessel following a sinking, grounding, or other incident. Prevention is much less expensive than responding to a deserted vessel and can optimally prevent impacts and damage to sanctuary resources as well as to private property.

5. Prohibition on Anchoring on or Having a Vessel Anchored on Any Living or Dead Coral With an Anchor, Anchor Chain, or Anchor Rope

NOAA is proposing this prohibition to be consistent with prohibitions identified in the presidential proclamations establishing the Monument.

6. Prohibition on Commercial Fishing and Possessing Commercial Fishing Gear Except When Stowed and Not Available for Immediate Use

Presidential Proclamation 8031 provided that commercial fishing for bottomfish and pelagic fish in PMNM that was permitted by NOAA prior to June 16, 2006 was allowed to continue for 5 years from the date of the proclamation, until June 15, 2011. After that date, Presidential Proclamation 8031 prohibited commercial fishing for bottomfish and associated pelagic species in PMNM. Presidential Proclamation 9478 also prohibits commercial fishing, as well as possessing commercial fishing gear except when stowed and not available for immediate use during passage without interruption in the MEA. NOAA is proposing a sanctuary-wide prohibition on commercial fishing and possessing commercial fishing gear except when stowed and not available for immediate use to be consistent with the presidential proclamations establishing the Monument.

7. Prohibition on Non-Commercial Fishing and Possessing Non-Commercial Fishing Gear Except When Stowed and Not Available for Immediate Use

The presidential proclamations establishing the Monument broadly restrict the harvest of fishery resources by prohibiting removing, moving, taking, harvesting, possessing, injuring, disturbing, or damaging any living or nonliving monument resource, as well as attempts to do the same, except as may be allowed with a permit. As noted above, Presidential Proclamations 8031 and 9478 further specify prohibitions on commercial fishing and the possession of commercial fishing gear. The presidential proclamations also identify certain types of non-commercial fishing that may be regulated (i.e., allowed pursuant to a permit or incidental to a permitted activity). Presidential Proclamation 8031, for example, authorizes sustenance fishing incidental to an activity permitted in PMNM. Presidential Proclamation 9478, for example, provides that non-commercial fishing is a regulated activity (i.e., allowed only with a permit) in the MEA. In the sanctuary, NOAA is proposing, for consistency with the proclamations, that “non-commercial fishing” is prohibited unless conducted pursuant to a sanctuary permit or, as discussed below, authorized under the Magnuson-Stevens Fishery Conservation and Management Act (MSA) in the OSZ. The proposed rule adopts the definition of “non-commercial fishing” from the regulations for Fisheries in the Western Pacific, which is defined as “fishing that does not meet the definition of commercial fishing in the Magnuson-Stevens Fishery Conservation and Management Act, and includes, but is not limited to, sustenance, subsistence, traditional indigenous, and recreational fishing.” 50 CFR 665.12.

NOAA also proposes that “possessing non-commercial fishing gear except when stowed and not available for immediate use” is prohibited unless conducted pursuant to a sanctuary permit or, as discussed below, authorized under the MSA in the OSZ. Presidential Proclamation 8031 includes “possessing fishing gear,” as a regulated activity (allowed only with a permit) in PMNM. Presidential Proclamation 9478 prohibits possessing commercial fishing gear. NOAA's proposal creates continuity between the two areas, and aims to ensure that non-commercial gear is not utilized in an unauthorized manner that could lead to injury to sanctuary resources.

8. Prohibition on Drilling Into, Dredging, or Otherwise Altering the Submerged Lands; or Constructing, Placing, or Abandoning Any Structure, Material, or Other Matter on the Submerged Lands

This activity is a regulated activity (i.e., allowed only with a permit) in PMNM under Presidential Proclamation 8031. In the MEA, Presidential Proclamation 9478 prohibits this type of activity, except for when conducted for the use of scientific instruments, which is allowed only with a permit, subject to such terms and conditions as the Secretaries deem appropriate. In the sanctuary, NOAA is proposing that these activities are prohibited unless conducted pursuant to a sanctuary permit. In the OSZ, such a permit may only be issued for scientific instruments.

9. Prohibition on Removing, Moving, Taking, Harvesting, Possessing, Injuring, Disturbing, or Damaging; or Attempting To Remove, Move, Take, Harvest, Possess, Injure, Disturb, or Damage Any Living or Nonliving Sanctuary Resource

NOAA is proposing that these activities are prohibited unless conducted pursuant to a sanctuary permit, consistent with the presidential proclamations establishing the Monument.

10. Prohibition on Attracting Any Living Sanctuary Resource

NOAA is proposing that these activities are prohibited unless conducted pursuant to a sanctuary permit. NOAA is proposing this prohibition to be consistent with a regulated activity identified in Presidential Proclamation 8031 for PMNM. This prohibition would be new in the area of sanctuary that overlaps with the MEA, the OSZ. Prohibiting this activity is intended to address the potential for harassment and disturbance from human interactions with living sanctuary resources.

11. Prohibition on Touching Coral, Living or Dead

NOAA is proposing that this activity is prohibited unless conducted pursuant to a sanctuary permit. NOAA is proposing this prohibition to be consistent with a regulated activity (i.e., allowed only with a permit) identified in Presidential Proclamation 8031 for PMNM. This prohibition would be new for the area of sanctuary that overlaps with the MEA, the OSZ. However, prohibition 9 effectively includes this activity, as touching coral is considered a disturbance which may cause injury or damage. Therefore, regulating this activity for the area of the proposed sanctuary that overlaps with the MEA, the OSZ, is primarily a technical addition which provides clarity to the public and resource managers.

12. Prohibition on Swimming, Snorkeling, or Closed or Open Circuit SCUBA Diving

NOAA is proposing that these activities are prohibited unless conducted pursuant to a sanctuary permit. NOAA is proposing this prohibition to be consistent with a regulated activity identified in Presidential Proclamation 8031 for any Special Preservation Area or the Midway Atoll Special Management Area. This prohibition would be new for areas of PMNM that fall outside of any Special Preservation Area or the Midway Atoll Special Management Area, and for the MEA. Expanding this regulated activity to the entire area of the proposed sanctuary allows NOAA to ensure that all in-water activities are done in compliance with the permit findings criteria and requirements, and are consistent with the care and management of sanctuary resources.

13. Prohibition on Discharging or Depositing Any Material or Other Matter Into the Sanctuary, or Discharging or Depositing Any Material or Other Matter Outside of the Sanctuary That Subsequently Enters the Sanctuary and Injures or Has the Potential To Injure Any Resources of the Sanctuary, Except as Described for Vessel Passage Without Interruption

NOAA is proposing that these activities are prohibited unless conducted pursuant to a sanctuary permit. NOAA is proposing this prohibition to be consistent with regulated activities identified in Presidential Proclamation 8031 for PMNM. NOAA proposes an exception to this activity for vessel passage without interruption, so long as any discharge is limited to “vessel engine cooling water, weather deck runoff, and vessel engine exhaust within Special Preservation Areas or the Midway Atoll Special Management Area; and discharge incidental to vessel operations such as deck wash, approved marine sanitation device effluent, cooling water, and engine exhaust in areas other than Special Preservation Areas or the Midway Atoll Special Management Area.” While this prohibition would technically be new for the area of the proposed sanctuary that overlaps with the MEA, the OSZ, Presidential Proclamation 9478 effectively includes this activity. Regulating this activity for the OSZ provides clarity to the public and resource managers. Further, the prohibition on discharges within or into the sanctuary is proposed in recognition that various substances can be discharged from vessels or from infrastructure or individuals along the shoreline that can harm sanctuary resources or qualities. Establishing a cohesive regulatory framework across the proposed sanctuary would benefit sanctuary resources and sanctuary users.

14. Prohibition on Anchoring a Vessel

NOAA is proposing that this activity is prohibited unless conducted pursuant to a sanctuary permit. While this activity may be permitted via a sanctuary permit, anchoring on living or dead coral may never be permitted, as noted above under prohibition 5. NOAA is proposing this prohibition on anchoring a vessel, for consistency with a regulated activity identified in Presidential Proclamation 8031 for PMNM and because there is the potential for sanctuary resources, other than corals, to be impacted by anchoring. This prohibition would be new for the area of the proposed sanctuary that overlaps with the MEA, the OSZ. As stated above in Section E, NOAA proposes that a vessel may pass through the sanctuary without requiring a permit as long as the vessel does not stop, anchor or engage in prohibited activities within the sanctuary. Therefore, including this prohibition on anchoring a vessel also provides clarity to the public, resource managers, and enforcement personnel that all users of the proposed sanctuary—vessels conducting passage without interruption and permittees—are subject to the same prohibition on anchoring a vessel unless conducted pursuant to a sanctuary permit.

H. Exemptions for Emergencies

Consistent with existing management of this area, the proposed prohibitions for the proposed sanctuary would not apply to any activity necessary to respond to emergencies that threaten life, property, or the environment, or to activities necessary for law enforcement purposes.

I. U.S. Armed Forces Exemption

Consistent with existing management of this area, NOAA proposes a broad exemption to allow activities and exercises of the U.S. Armed Forces, including those carried out by the U.S. Coast Guard. NOAA recognizes that this broad exemption is necessary to ensure military readiness for the Department of Defense to conduct existing training, operations, and military readiness activities in the area proposed to be designated as a national marine sanctuary. The United States military has been able to maintain readiness and conduct training and other operations in other national marine sanctuaries based on similar broad exemptions.

All activities and exercises of the Armed Forces shall be carried out in a manner that avoids, to the extent practicable and consistent with operational requirements, adverse impacts on sanctuary resources and qualities. For any actions of the Armed Forces that are likely to destroy, cause the loss of, or injure sanctuary resources, the Armed Forces must comply with the Interagency Cooperation requirements outlined in section 304(d) of the NMSA, regardless of whether those actions are exempted from the proposed sanctuary's prohibitions.

J. Exemption for Non-Commercial Fishing

NOAA is proposing to exempt non-commercial fishing authorized under the MSA in the area of the sanctuary that overlaps with the MEA, the OSZ, from prohibitions 7 through 14 in the proposed rule, provided that no sale of harvested fish occurs. NOAA has prepared a separate proposed rule under the MSA which shall serve as the primary mechanism for authorizing non-commercial fishing activities. NOAA would periodically evaluate the effect of non-commercial fishing activities on sanctuary resources. Such evaluations would take into consideration the best scientific information available and evaluate whether additional actions are necessary for the proper care and management of Sanctuary resources, including fishery resources, consistent with goals and objectives of the Sanctuary. This exemption would only apply to the OSZ.

K. Sanctuary Permit Procedures and Criteria

1. Sanctuary General Permits

NOAA is proposing to include authority to issue sanctuary general permits to allow certain activities that would otherwise violate prohibitions 7 through 14. The proposed permitting system is modeled after the existing Monument permitting system. The proposed permitting system would not supplant the joint permitting system for PMNM, and was developed to ensure a continued joint permitting system administered by Monument co-managers. NOAA may develop Memorandum of Agreements in the future to add further clarification on joint-permitting within portions of the sanctuary that overlap with existing permitting programs for the Monument.

National marine sanctuary program-wide regulations at 15 CFR 922.30 describe different purposes for which a sanctuary general permit can be issued. Three of these which would apply to this proposed sanctuary are:

• Research—activities that constitute scientific research or scientific monitoring of a national marine sanctuary resource or quality;

• Education—activities that enhance public awareness, understanding, or appreciation of a national marine sanctuary or national marine sanctuary resource or quality; and

• Management—activities that assist in managing a national marine sanctuary.

NOAA is proposing to add two additional permit categories to 15 CFR 922.30 under which a sanctuary general permit could be issued in the proposed sanctuary:

• Native Hawaiian Practices—activities that allow for Native Hawaiian practices within the proposed sanctuary; and

• Recreation—recreational activities within the proposed sanctuary limited to the Midway Atoll Special Management Area.

NOAA is proposing these two additional general permit categories to be consistent with the types of activities permitted for the PMNM.

The general regulations in 15 CFR part 922, subpart D, relating to the permit application process, review procedures, amendments, and other permitting stipulations would apply. These national permitting regulations include a list of factors NOAA considers in deciding whether or not to issue the permit, such as whether the activity must be conducted within the sanctuary, and whether the activity will be compatible with the primary objective of protection of sanctuary resources and qualities. NOAA would be able to impose specific terms and conditions through a permit as appropriate.

In addition to permit review procedures and evaluation criteria in 15 CFR 922.33, some additional permit review criteria would apply in the proposed sanctuary, including additional criteria specific to Native Hawaiian Practices permits and Recreation permits. NOAA is proposing these additional permit criteria to be consistent with the permit criteria for PMNM.

2. Special Use Permits

NOAA has the authority to issue special use permits (SUPs) in national marine sanctuaries, as established by section 310 of the NMSA (16 U.S.C. 1441) and by 15 CFR 922 subpart D. SUPs can be used to authorize specific activities in a sanctuary if such authorization is necessary to establish conditions of access to, and use of, any sanctuary resource or to promote public use and understanding of a sanctuary resource. Section 310 of the NMSA establishes four requirements for SUPs: (1) activities must be compatible with the purposes for which the sanctuary is designated and with protection of sanctuary resources; (2) SUPs shall not authorize the conduct of any activity for a period of more than five years unless otherwise renewed; (3) activities carried out under the SUP must be conducted in a manner that does not destroy, cause the loss of, or injure sanctuary resources; and (4) permittees are required to purchase and maintain comprehensive general liability insurance, or post an equivalent bond, against claims arising out of activities conducted under the SUP and to agree to hold the United States harmless against such claims. The NMSA authorizes NOAA to assess and collect fees for the conduct of any activity under an SUP, including costs incurred, or expected to be incurred, in issuing the permit and the fair market value use of sanctuary resources. Implementing regulations at 15 CFR 922.35 provide additional detail on assessment of fees for SUPs. As is the case with sanctuary general permits, NOAA can place conditions on SUPs specific to the activity being permitted. NOAA shall provide appropriate public notice before identifying any category of activity subject to a special use permit.

NOAA is not proposing any new SUP category as part of this designation. In evaluating applications for special use permits, NOAA would consider all applicable permitting requirements, including permitting procedures and criteria under the Monument's existing management framework. For example, certain activities may be subject to the requirements of special ocean use permits, as authorized by Presidential Proclamation 8031, and issued by Monument managers in the PMNM via 40 CFR 404.11. Special ocean use permit requirements were modeled after SUPs, but also include a few additional requirements, such as for activities within the Midway Atoll Special Management Area.

3. Sustenance Fishing

NOAA may authorize sustenance fishing outside of any Special Preservation Area as a term or condition of any sanctuary permit. Sustenance fishing is fishing for bottomfish or pelagic species in which all catch is consumed within the sanctuary. Sustenance Fishing is allowed incidental to an activity permitted in the PMNM under Presidential Proclamation 8031, and in regulations at 50 CFR part 404. Sustenance fishing was not specifically identified in Presidential Proclamation 9478 governing the MEA but is allowable. For consistency in management and permitting, NOAA proposes allowing for this activity as a term or condition of a general permit or special use permit.

4. VMS

To complement existing management and provide consistency across the entirety of the sanctuary, an owner or operator of a vessel that has been issued a general permit or special use permit under 15 CFR subpart D must ensure that such vessel has a NOAA Office of Law Enforcement (OLE)-approved Vessel Monitoring System (VMS) on board when operating within the sanctuary. Presidential Proclamation 8031 requires an owner or operator of a vessel that has been issued a permit for accessing the PMNM to have an OLE-approved VMS on board. Such a requirement was not included in Presidential Proclamation 9478. For consistency in permitting, and for the reasons identified below, NOAA proposes to impose this requirement across the proposed sanctuary.

NOAA proposes this requirement to support permit compliance, enforcement, and other incidental uses, consistent with the long-standing history of considering and implementing the use of vessel monitoring systems in the area of the proposed sanctuary, beginning with Executive Order 13178 in 2000. In directing the Secretary to manage the Northwestern Hawaiian Islands Coral Reef Ecosystem Reserve, section 5(b) of Executive Order 13178 indicated that priority issues and actions must include enforcement and surveillance, including the use of new technologies, as well as the use of vessel monitoring systems, if warranted. The 2005 Final Reserve Operations Plan included an Enforcement Action Plan with strategies to investigate innovative technology that would be effective for this large, remote area, as well as to implement VMS. In 2006, Presidential Proclamation 8031, as noted above, required an OLE-approved VMS on board of vessels with permits to access the PMNM. VMS is currently being utilized in the PMNM and is part of the Monument Management Plan's Enforcement Action Plan. The Monument Management Plan highlights, as an example, that when the 85-foot longliner Swordman I, carrying more than 6,000 gallons of diesel fuel and hydraulic oil, ran aground at Pearl and Hermes Reef in 2000, vessel monitoring system technology allowed agents to track the disaster and quickly send out equipment for an extensive cleanup.

L. Scientific Exploration and Research by the Department of Commerce and the Department of the Interior

Presidential Proclamation 9478 stipulates that the prohibitions required by the proclamation “shall not restrict scientific exploration or research activities by or for the Secretaries and nothing in this proclamation shall be construed to require a permit or other authorization from the other Secretary for their respective scientific activities.” NOAA is proposing to exempt these activities within the OSZ to be consistent with Presidential Proclamation 9478.

M. Other Conforming Amendments

The Regulations of General Applicability at 15 CFR part 922, subpart A, and the regulations related to National Marine Sanctuary Permitting, 15 CFR part 922, subpart D, would have to be amended so that the regulations are accurate and up-to-date. The modified sections to conform to adding a new sanctuary are as follows:

• Section 922.1 Purposes and applicability of the regulations;

• Section 922.4 Boundaries;

• Section 922.6 Prohibited or otherwise regulated activities;

• 922.30 National Marine Sanctuary general permits;

• 922.33 Review procedures and evaluation; and

• 922.37 Appeals of permitting decisions.

IV. Requests for Comments

NOAA is requesting comments on this proposed rule, including comments on the terms of designation and the proposed regulations, the DEIS, and the DMP for the proposed sanctuary. NOAA will publish the final EIS and final management plan following public review and comment on this proposed rule and following NOAA's consideration of substantive comments received. NOAA also requests comments on the Regulatory Flexibility Act certification and economic analysis. The preamble of the final rule will include responses to substantive comments received on the proposed rule. The full response to comments, which includes responses to comments made on the proposed rule, the DEIS, and the draft management plan, will be provided as an Appendix to the Final EIS.

Sensitive personally identifiable information, such as account numbers and Social Security numbers, should not be included with the comment. Comments that are not related to designation of the proposed sanctuary or that contain profanity, vulgarity, threats, or other inappropriate language will not be considered.

V. Classification

A. National Marine Sanctuaries Act

NOAA consulted with the Western Pacific Regional Fishery Management Council (Council) as required by section 304(a)(5) of the NMSA. Through this consultation, NOAA provided the Council with the opportunity to recommend any draft fishing regulations it deemed necessary to implement the proposed sanctuary designation. NOAA initiated the consultation on November 19, 2021. On March 22, 2022, the Council agreed to develop draft fishing regulations for the proposed sanctuary. NOAA participated in six public meetings hosted by the Council on November 1st, 3rd, 4th, 5th, 8th, and 10th of 2022, which were focused on the development of fishing regulations for the area of the proposed sanctuary that overlaps with the MEA. At its 193rd meeting in December of 2022, the Council provided a final recommendation. NOAA found that the final recommendation, in part, did not fulfill the purposes and policies of the NMSA and the goals and objectives of the proposed designation. The Council amended their recommendation during their 194th meeting in March of 2023, and submitted a revised final recommendation to NOAA on April 14, 2023.

In May of 2023, NOAA accepted the majority of the Council's recommendation as it fulfilled the purposes and policies of the NMSA and the goals and objectives of the proposed sanctuary designation. However, the Council's recommendation for the disposition of Native Hawaiian Subsistence Practices Fishing catch, which would provide permit applicants the ability to request limited cost recovery by selling their catch was rejected by NOAA via a decision letter dated May 31, 2023. As NOAA explained in the letter, any recommendation for the allowance of “sale” is inconsistent with the goals and objectives of the proposed sanctuary designation. NOAA Fisheries has prepared a proposed rule under the MSA and ONMS has prepared this proposed rule under the NMSA to reflect the outcome of the NMSA section 304(a)(5) process.

Pursuant to section 304(a)(1)(C) of the NMSA, the Committee on Natural Resources of the House of Representatives, the Committee on Commerce, Science, and Transportation of the Senate, and the Governor of Hawai'i will have the opportunity to review this proposed action.

B. National Environmental Policy Act

As described in section I above, NOAA and the State of Hawai'i prepared a DEIS to evaluate the impacts of this proposed action of designating a national marine sanctuary, which considers four alternatives for the proposed designation of a national marine sanctuary in marine portions of the Monument. Copies of the DEIS and related draft management plan are available at the website listed in the ADDRESSES section of this proposed rule. NOAA is also soliciting public comments on the DEIS and DMP. The full response to comments, which includes responses to comments made on the proposed rule, the DEIS, and the draft management plan, will be provided as an Appendix to the Final EIS.

C. Executive Orders 12866: Regulatory Impact, 13563 Improving Regulation and Regulatory Review, and 14094: Modernizing Regulatory Review

The Office of Management and Budget (OMB) has determined this proposed rule to be not significant within the meaning of Executive Order 12866, as supplemented by Executive Order 14094.

D. Executive Order 13132: Federalism Assessment

NOAA has concluded that this regulatory action does not have federalism implications sufficient to warrant preparation of a federalism assessment under Executive Order 13132 because NOAA supplements and complements State and local laws under the NMSA rather than supersedes or conflicts with them. This proposed rule will not have substantial direct effects on State or local governments. NOAA has coordinated closely with State partners throughout the development of this proposed rule and, where applicable and practicable, the proposed rule aligns with existing State regulations. NOAA has aimed for consistent regulations throughout sanctuary waters including those within State and Federal jurisdiction.

E. Regulatory Flexibility Act

The Regulatory Flexibility Act (RFA; 5 U.S.C. 601 et seq.) requires Federal agencies to prepare an analysis of a rule's impact on small entities whenever the agency is required to publish a notice of proposed rulemaking, unless the agency certifies, pursuant to 5 U.S.C. 605, that the action will not have significant economic impact on a substantial number of small entities. The RFA requires agencies to consider, but not necessarily minimize, the effects of proposed rules on small entities. The goal of the RFA is to inform the agency and public of expected economic effects of the proposed rule and to ensure the agency considers alternatives that minimize the expected economic effects on small entities while meeting applicable goals and objectives.

Pursuant to section 605(b) of the RFA, the Chief Counsel for Regulation of the Department of Commerce certified to the Chief Counsel for Advocacy of the Small Business Administration that this proposed rule, if adopted, would not have a significant economic impact on a substantial number of small entities. The purpose, context, and statutory basis for this action is described above and not repeated here. The analysis below discusses the potential effects of the proposed designation of marine portions of Papahānaumokuākea Marine National Monument as a national marine sanctuary and serves as the factual basis for the certification. In summary, with this proposed rulemaking, small entities are not expected to experience significant impacts.

1. Description and Estimate of the Number of Small Entities to Which the Proposed Action Would Apply

Under the Monument's existing management framework, activities in the Monument, with limited exceptions, require a permit. The same would be true in the proposed sanctuary. Based on permitting data for the Monument, there are six primary categories of regulated uses: (1) research; (2) conservation and management; (3) education; (4) Native Hawaiian practices; (5) recreation; and (6) special ocean use. Table 1 shows the number of permits issued by category from 2018 to 2022. Based on permitting data, the types of entities applying for permits include, government, non-profits, artists, film and entertainment entities, education providers, and research organizations. Additionally, ship reporting is required for vessels that transit through portions of the Monument, and the types of entities impacted are identified as finfish fishing or deep-sea freight transit (73 FR 38375 (July 7, 2008)).

Table 1—Permits Issued by Year and Type
| Research | Conservation and management | Education | Native Hawaiian practices | Recreation | Special ocean use | Total
2018 | 7 | 3 | 4 | 4 | 0 | 3 | 21
2019 | 7 | 6 | 0 | 2 | 0 | 1 | 16
2020 | 1 | 5 | 0 | 0 | 0 | 2 | 8
2021 | 8 | 2 | 1 | 4 | 0 | 3 | 18
2022 | 5 | 3 | 0 | 0 | 0 | 1 | 9
2018-2022 Total | 28 | 19 | 5 | 10 | 0 | 10 | 72
2018-2022 Annual Average | 5.6 | 3.8 | 1 | 2 | 0 | 2 | 14.4
Source: (NOAA Office of National Marine Sanctuaries, Papahānaumokuākea Marine National Monument Permit Records, 2023).

The U.S. Small Business Administration establishes size standards for determining whether a business entity qualifies as small. NOAA has analyzed the types of entities that applied for permits by category and identified the relevant industries impacted by the proposed rule as colleges and universities, apprenticeship training, environment, conservation and wildlife organizations, civic and social organizations, television broadcasting stations, motion picture and video production, geophysical surveying and mapping services, independent artists, writers, performers, and museums. Each relevant industry is shown in the table below with the most recent size standards published by the U.S. Small Business Administration (2023). Size standards are based upon the average annual receipts (all revenue) or the average employment of a firm.

Table 2—Size Standard in Millions of Dollars by North American Classification System (NAICS) Code and Industry Description for Selected Industries
NAICS industry description | NAICS code | Size standard (millions of dollars)
Colleges, universities and professional schools | 611310 | $34.5
Apprenticeship Training | 611513 | 11.5
Environment, Conservation and Wildlife Organizations | 813312 | 19.5
Civic and Social Organizations | 813410 | 9.5
Television Broadcasting Stations | 516120 | 47.0
Motion Picture and Video Production | 512110 | 40.0
Geophysical Surveying and Mapping Services | 541360 | 28.5
Independent Artists, Writers, and Performers | 711510 | 9.0
Museums | 712110 | 34.0
Finfish Fishing | 114111 | 25.0
Deep Sea Freight | 483111 | * 1,050
Source: 13 CFR part 121, 2023.
* Number of employees. A size standard is not identified in dollars.

Table 3 provides the approximate number of permits issued for each corresponding industry. The Monument permit application itself does not ask the applicant for their industry or if the applicant is a small entity. Therefore, the data presented below is based on limited information from the permit application, specifically the applicant's name and stated purpose for the permit.

Table 3—Approximate Permits by Industry Description
NAICS industry description | 2018 | 2019 | 2020 | 2021 | 2022
Colleges, universities and professional schools | 7 | 2 | 1 | 9 | 4
Apprenticeship Training | 2 | 0 | 0 | 2 | 0
Environment, Conservation and Wildlife Organizations | 1 | 2 | 2 | 3 | 0
Civic and Social Organizations | 2 | 1 | 0 | 2 | 0
Television Broadcasting Stations | 2 | 0 | 0 | 0 | 0
Motion Picture and Video Production | 1 | 0 | 1 | 4 | 1
Geophysical Surveying and Mapping Services | 1 | 1 | 0 | 2 | 1
Independent Artists, Writers, and Performers | 0 | 1 | 1 | 0 | 0
Museums | 1 | 0 | 0 | 0 | 0
Source: (NOAA Office of National Marine Sanctuaries, Papahānaumokuākea Marine National Monument Permit Records, 2023).

Regarding ship reporting requirements, NOAA estimated there would be approximately 200-250 vessels passing through reporting areas of the proposed sanctuary without interruption that would be subject to providing entry and exit notifications, based on vessel traffic reported between 2017 and 2023.

The data provided in Tables 1, 2, and 3 provide information on the type of permit applications, the industries that may be impacted, and the number of permits by corresponding industry. NOAA does not have economic data on whether the permittees within the corresponding industries are small entities or not. Due to the lack of quantitative data on the nature of businesses directly affected by the proposed rule including their levels of revenues, costs, and profits from their activities within the sanctuary, the analysis provided here is qualitative. Based upon site interactions and working relationships with permittees, the types of small entities that may be impacted by this proposed rule include academic and government institutions, non-profit organizations, and broadcast and video production entities. In addition, U.S. fishing vessels are expected to be impacted by this rulemaking, and all are considered to be small entities. U.S. freight transport vessels are expected to be affected by this rulemaking, though none are considered to be small entities.

2. Analysis of Small Entities

The proposed sanctuary regulations would largely mirror the existing management framework for the Monument. There would be no effective difference in the permitting process between the proposed action and the status quo for permitting within PMNM. The proposed regulatory action would establish new permitting requirements for entities that seek access to areas of the proposed sanctuary that overlap with the MEA, the OSZ. While access restrictions for portions of the proposed sanctuary that overlap with the MEA would be new, the activities that may be permitted would be consistent with Presidential Proclamation 9478.

Therefore, the proposed regulatory action would establish new reporting and recordkeeping requirements for entities that apply for permits in the area of the proposed sanctuary that overlaps with the MEA, the OSZ, but is not expected to have a significant economic impact on a substantial number of small entities for the following reasons. Based on the NOAA Monument manager's site knowledge and experience, the proposed regulatory action is not expected to result in an increase in the number of permit requests, as the majority of users operate in the area of the proposed sanctuary that overlaps with PMNM, and do not solely operate in the area of the proposed sanctuary that overlaps with the MEA. Additionally, the area under consideration is coextensive with the marine areas of the Monument, extremely remote (nearly 300 miles at its closest point from the main Hawaiian Islands), and very few entities operate there.

Through this proposed rule, NOAA does not expect a significant reduction in profits for small entities. NOAA does not charge a fee for review and issuance of general permits, and there are only minimal, indirect costs associated with the time for an individual to complete a permit application and respond to any follow-up questions from NOAA. While NOAA may assess fees for the conduct of any activity authorized under a special use permit, fees are not required, and decisions are made on a case-by-case basis. No unique professional skills are necessary to meet these reporting requirements. In addition, the process by which all applicants apply for a permit, or complete entry and exit notifications for passage without interruption through certain areas within the proposed sanctuary, would not substantially differ from the current process. Therefore, these additional permitting requirements would not significantly reduce profits for a substantial number of small entities. The public reporting burden for Monument permits is provided in table 4. The public reporting burden differs by permit category.

Table 4—Hourly Burden of the Information Collection for Papahānaumokuākea Marine National Monument Permits
Information collection | Annual # of responses/ respondent | Burden hours/ response | Mean occupational employment hourly wage rates (for type of respondent) | Annual wage burden costs per permit
General permit | 3 | 5 | $36.62 | $549.30
Special Ocean Use permit | 3 | 10 | 40.83 | 1,224.9
Native Hawaiian Practices permit | 3 | 8 | 36.62 | 878.88
Recreation permit | 3 | 6 | 24.98 | 449.64
Source: (NOAA Office of National Marine Sanctuaries, Papahānaumokuākea Marine National Monument Permit Records, 2023).

Under the existing Monument management framework, as a condition of a permit, permittees are required to have a NOAA OLE type-approved VMS on board when operating within the PMNM. The cost of a VMS unit is $3,150. Annualized over 3 years (the life of the unit) the cost per year is $1,050.00 per year with an additional estimated $100.00 in annual maintenance costs, and $192.00 in VMS report transmission costs ($1.28 daily cost based on a high estimate that a permitted vessel may spend on average, 150 days per year in the Monument), for a total annual VMS cost of $1,342. The proposed rule includes this requirement for areas of the proposed sanctuary that overlap with both the PMNM and MEA. However, the proposed rule is not expected to result in an increase in the number of permit requests, as the majority of users operate in the area of the proposed sanctuary that overlaps with PMNM, and do not solely operate in the area of the proposed sanctuary that overlaps with the MEA. Therefore, this additional permit requirement is not expected to result in an increase in the number of required VMS units, or a significant financial burden to small entities.

Through this proposed rule, the process for ship reporting for vessels transiting through areas of the proposed sanctuary would not substantially differ from the current process. The proposed regulatory action would not establish any new reporting or record-keeping requirements related to ship reporting.

As described above, NOAA does not expect a significant reduction in profits for small entities, as the expected costs are minimal, indirect costs for permit applications, and does not expect an increase in permit applications as users are already required to have a permit to access PMNM. NOAA has concluded that the proposed rule would not have a significant impact on a substantial number of small entities. Therefore, an Initial Regulatory Flexibility Analysis is not required and none was prepared.

F. Paperwork Reduction Act

Notwithstanding any other provisions of the law, no person is required to respond to, nor shall any person be subject to a penalty for failure to comply with a collection of information subject to the requirements of the Paperwork Reduction Act (PRA), 44 U.S.C. 3501 et seq., unless that collection of information displays a currently valid OMB control number.

NOAA has an OMB control number (0648-0548) for the collection of public information related to the processing of PMNM permit applications and reports for permits. In the most recent Information Collection Request revision and approval for PMNM permits, NOAA reported approximately 74 permit respondents per year. NOAA's proposal to create a national marine sanctuary in the marine portions of the Monument is not expected to result in an increase in the number of requests for permits under this control number. Therefore, the annual public reporting burden hours for permits under OMB control number 0648-0548 is not expected to increase. A large increase in the number of permit requests would require a change to the reporting burden certified for OMB control number 0648-0548. While not expected, if such permit requests do increase, a revision to this control number for the processing of permits would be requested.

Please send any comments regarding the burden estimate for this data collection requirement or any other aspect of this data collection, including suggestions for reducing the burden, to NOAA (see ADDRESSES above). Comments can also be submitted to www.reginfo.gov/public/do/PRAMain. Before an agency submits a collection of information to OMB for approval, the agency shall provide 60-day notice in the Federal Register, and otherwise consult with members of the public and affected agencies concerning each proposed collection of information, to solicit comments to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

G. National Historic Preservation Act

Section 106 of the National Historic Preservation Act (NHPA, 54 U.S.C. 306108) requires Federal agencies to take into account the effects of their undertakings on historic properties and afford the Advisory Council on Historic Preservation (ACHP) a reasonable opportunity to comment with regard to the undertaking. “Historic property” means any prehistoric or historic district, site, building, structure, or object included in or eligible for inclusion in the National Register of Historic Places maintained by the Secretary of the Interior. This term includes artifacts, records, and material remains that are related to and located within such properties, including properties of traditional religious and cultural importance to an Indigenous nation or Tribe or Native Hawaiian organization (see 36 CFR 800.16(l)).

The regulations implementing section 106 of the NHPA (36 CFR part 800) establish a process requiring Federal agencies to: (1) determine whether the undertaking is a type of activity that could affect historic properties; (2) identify historic properties in the area of potential effects; (3) assess potential adverse effects; and (4) resolve adverse effects. The regulations require that Federal agencies consult with States, Tribes, and other interested parties when making their effect determinations. NOAA has determined that the designation of a national marine sanctuary and related rulemaking for sanctuary-specific regulations meet the definition of an undertaking as defined at § 800.16(y).

In fulfilling its responsibilities under section 106 of the NHPA, NOAA initiated the section 106 review process with the State Historic Preservation Officer (SHPO) for the proposed sanctuary designation via letter to the State Historic Preservation Division (SHPD) through the Hawai'i Cultural Resource Information System on November 21, 2021. NOAA also provided notice to the Advisory Council on Historic Preservation (ACHP) on November 21, 2021. These letters and supporting documentation identified the proposed Area of Potential Effect (APE) and began the process to identify consulting parties (CP). Invitations were sent to over 500 families and organizations having lineal and cultural connections to Papahānaumokuākea, including cultural practitioners, Native Hawaiian Organizations, fishers (subsistence, recreational, commercial), and government agencies. As of January 21, 2023, NOAA received 31 requests to be a CP for the proposed sanctuary designation and NOAA has officially recognized the 31 CPs. NOAA will complete the identification of historic properties in the proposed APE and the assessment of the undertaking's potential to affect historic properties in consultation with the recognized consulting parties. To date, ONMS has conducted 6 meetings with recognized consulting parties. The NHPA section 106 review is ongoing, and additional consultations will be held following the release of the DEIS and DMP. As the DEIS is a joint Federal-State action, the State is also preparing a Cultural Impact Assessment (CIA) and Legal Analysis pursuant to the Hawai'i Environmental Policy Act (HEPA), Hawai'i Revised Statutes (HRS) section 343, the corresponding Hawai'i Administrative Rules (HAR) section 11-200.1, and the Environmental Council's 1997 Guidelines for Assessing Cultural Impacts.

H. Sunken Military Craft Act

The Sunken Military Craft Act of 2004 (SMCA; Pub. L. 108-375, Title XIV, sections 1401 to 1408; 10 U.S.C. 113 note) preserves and protects from unauthorized disturbance all sunken military craft that are owned by the United States government, as well as foreign sunken military craft that lie within United States waters, as defined in the SMCA. Thousands of U.S. sunken military craft lie in waters around the world, many accessible to looters, treasure hunters, and others who may cause damage to them. These craft, and their associated contents, represent a collection of non-renewable and significant historical resources that often serve as war graves, carry unexploded ordnance, and contain oil and other hazardous materials. By protecting sunken military craft, the SMCA helps reduce the potential for irreversible harm to these nationally important historical and cultural resources.

The 1942 Battle of Midway occurred both at Midway Atoll as well as some 100-150 nautical miles north of the atoll in the northwestern portion of Papahānaumokuākea. Aircraft carriers from the historic conflict have been located in the deep ocean, and multiple aircraft and sunken military vessels have been surveyed within the Midway Atoll Special Management Area. Yet, hundreds of aircraft, and several other aircraft carriers and destroyers from the battle remain to be discovered in Papahānaumokuākea. Sunken military craft fall under the jurisdiction of a number of Federal agencies such as the U.S. Navy and the U.S. Coast Guard. NOAA and FWS coordinate very closely with the U.S. Navy and any other applicable Federal agency, foreign State, or State agency if found within State waters, regarding activities directed at sunken military craft discovered within the sanctuary.

K. Coastal Zone Management Act (CZMA)

Section 307 of the Coastal Zone Management Act (CZMA; 16 U.S.C. 1456) requires Federal agencies to consult with a State's coastal program on potential Federal agency activities that affect any land or water use or natural resource of the coastal zone. Because the proposed sanctuary lies partially within State waters, NOAA intends to submit a copy of this proposed rule and supporting documents, including the DEIS, to the State of Hawaii's Office of Planning and Sustainable Development for evaluation of Federal consistency under the CZMA. NOAA will publish the final rule and designation only after completion of the Federal consistency process under the CZMA.

L. Executive Order 12898: Environmental Justice

Executive Order 12898 directs Federal agencies to identify and address disproportionately high and adverse effects of their actions on human health and the environment of minority or low-income populations. The designation of national marine sanctuaries by NOAA helps to ensure the enhancement of environmental quality for all populations in the United States. The proposed sanctuary designation would not result in disproportionate negative impacts on any minority or low-income population. In addition, many of the potential impacts from designating the proposed sanctuary would result in long-term or permanent beneficial impacts by protecting resources, which may have a positive impact on communities by providing employment and educational opportunities, and potentially result in improved ecosystem services.

List of Subjects in 15 CFR Part 922

Administrative practice and procedure; Coastal zone; Cultural resources; Environmental; Protection; Fishing; Historic preservation; Marine protected areas; Marine resources; Natural resources; National marine sanctuaries; Penalties; Recreation and recreation areas; Reporting and recordkeeping requirements; Shipwrecks; Wildlife.

Nicole R. LeBoeuf,
Assistant Administrator for Ocean Services and Coastal Zone Management, National Ocean Service, National Oceanic and Atmospheric Administration.

Regulatory Amendments and Additions

For the reasons set forth above, NOAA proposes to amend part 922, title 15 of the Code of Federal Regulations as follows:

PART 922—NATIONAL MARINE SANCTUARY PROGRAM REGULATIONS

1. The authority citation for part 922 continues to read as follows:

Authority: 16 U.S.C. 1431 et seq.

2. Amend § 922.1 by revising paragraph (a)(2) to read as follows:

§ 922.1 Purposes and applicability of the regulations.

(a) * * *

(2) To implement the designations of the national marine sanctuaries, for which specific regulations appear in subpart F through subsequent subparts, by regulating activities affecting them, consistent with their respective terms of designation, in order to protect, restore, preserve, manage, and thereby ensure the health, integrity, and continued availability of the conservation, recreational, ecological, historical, scientific, educational, cultural, archaeological, and aesthetic resources and qualities of these areas.

* * * * *

3. Revise § 922.4 to read as follows:

§ 922.4 Boundaries.

Subpart F and subsequent subparts of this part set forth the boundaries for all national marine sanctuaries.

4. Revise § 922.6 to read as follows:

§ 922.6 Prohibited or otherwise regulated activities.

Subpart F and subsequent subparts of this part set forth site-specific regulations applicable to the activities specified therein.

5. Amend § 922.30 by:

a. Revising paragraph (a)(2);

b. Removing the word “and” at the end of paragraph (b)(5);

c. Removing the period at the end of paragraph (b)(6) and adding “; and” in its place; and

d. Adding paragraphs (b)(7) and (8).

The additions read as follows:

§ 922.30 National Marine Sanctuary general permits

(a) * * *

(2) The permit procedures and criteria for all national marine sanctuaries in which the proposed activity is to take place in accordance with relevant site-specific regulations appearing in subpart F and subsequent subparts of this part.

* * * * *

(b) * * *

(7) Native Hawaiian Practices—activities that allow for Native Hawaiian practices within Papahānaumokuākea and

(8) Recreation—recreational activities within Papahānaumokuākea limited to the Midway Atoll Special Management Area.

6. Amend § 922.33 by removing the word “and” at the end of paragraph (a)(8), removing the period at the end of paragraph (a)(9) and adding “; and” in its place, and by adding paragraphs (a)(10), (11), and (12).

The additions read as follows:

§ 922.33 Review procedures and evaluation.

(a) * * *

(10) For Papahānaumokuākea National Marine Sanctuary, there is no practicable alternative to conducting the activity within the sanctuary and the activity can be conducted with adequate safeguards for the resources and ecological integrity of the sanctuary.

(11) For Native Hawaiian Practices within Papahānaumokuākea National Marine Sanctuary:

(i) The activity is non-commercial and will not involve the sale of any organism or material collected;

(ii) The purpose and intent of this activity is appropriate and deemed necessary by traditional standards in the Native Hawaiian culture (pono), and demonstrates an understanding of, and background in, the traditional practice, and its associated values and protocols;

(iii) The activity benefits the resources of the Northwestern Hawaiian Islands and the Native Hawaiian community; the activity supports or advances the perpetuation of traditional knowledge and ancestral connections of Native Hawaiians to the Northwestern Hawaiian Islands; and

(iv) Any sanctuary resource harvested from the sanctuary will be consumed in the sanctuary.

(12) For Recreation permits within Papahānaumokuākea National Marine Sanctuary:

(i) The activity is for the purpose of recreation within the Midway Special Management Area;

(ii) The activity is not associated with any for-hire operation; and

(iii) The activity does not involve any extractive use.

* * * * *

7. Amend 922.37 by revising paragraphs (a)(2) and (3) to read as follows:

§ 922.37 Appeals of permitting decisions.

(a) * * *

(2) Except for Papahānaumokuākea National Marine Sanctuary, an applicant or a holder of a National Marine Sanctuary permit issued pursuant to § 922.30 or pursuant to site-specific regulations appearing in subparts F through subsequent subparts of this part;

(3) Except for Papahānaumokuākea National Marine Sanctuary, an applicant or a holder of a special use permit issued pursuant to section 310 of the Act and § 922.31;

* * * * *

8. Add subpart W to read as follows:

Subpart W—Papahānaumokuākea National Marine Sanctuary
Sec.
922.240 Boundary.
922.241 Definitions.
922.242 Co-management.
922.243 Access.
922.244 Prohibited or otherwise regulated activities.
922.245 Permit procedures and criteria.
Appendix A to Subpart W of Part 922—Papahānaumokuākea National Marine Sanctuary Boundary Description and Coordinates
Appendix B to Subpart W of Part 922—Coordinates for the Outer Sanctuary Zone
Appendix C to Subpart W of Part 922—Coordinates for the Midway Atoll Special Management Area
Appendix D to Subpart W of Part 922—Coordinates for the Special Preservation Areas (SPAs)
Appendix E to Subpart W of Part 922—Coordinates for the Ship Reporting Area
Appendix F to Subpart W of Part 922—IMO Standard Reporting Format and Data Syntax for Ship Reporting System

Subpart W—Papahānaumokuākea National Marine Sanctuary

§ 922.240 Boundary.

Papahānaumokuākea National Marine Sanctuary consists of an area of approximately 582,570 square miles (439,910 square nautical miles) of Pacific Ocean waters surrounding the Northwest Hawaiian Islands and the submerged lands thereunder. The precise boundary coordinates are listed in appendix A to this subpart. The outer seaward sanctuary boundary begins approximately 200 nautical miles SW of Kure Atoll at Point 1 and continues from this point roughly north to each successive point in numerical order to Point 232 which is approximately 204 nautical miles north of Kure Atoll. From Point 232 the sanctuary boundary continues roughly ESE to each successive point in numerical order to Point 609 which is approximately 200 nautical miles NE of Necker Island. From Point 609 the sanctuary boundary continues south to Point 610 which is approximately 90 nautical miles ENE of Necker Island. From Point 610 the sanctuary boundary continues roughly east and then SE and south to Point 635 which is approximately 50 nautical miles east of Nihoa. From Point 635 the sanctuary boundary continues roughly south and then SW and west to each successive point in numerical order to Point 662 which is approximately 71 nautical miles SW of Nihoa. From Point 662 the sanctuary boundary continues south to Point 663 which is approximately 236 nautical miles SSW of Nihoa. From Point 663 the sanctuary boundary continues roughly NW to each successive point in numerical order to Point 703 which is approximately 200 nautical miles SSE of Necker Island. From Point 703 the boundary continues roughly NW to each successive point in numerical order to Point 1128 where it ends approximately 200 nautical miles SW of Kure Atoll. The inner landward boundary of the sanctuary follows the shoreline as defined by the State of Hawai'i (HAR § 13-222).

§ 922.241 Definitions.

In addition to those definitions found at § 922.11, the following definitions apply to this subpart. To the extent that a term appears in § 922.11 and this section, the definition in this section governs.

Areas to be avoided (ATBA) means the four designated areas that should be avoided by vessels that are conducting passage without interruption through the sanctuary. The precise boundary coordinates for the ATBAs are listed in appendix E to this subpart.

Bottomfish species means all species of bottomfish as defined at 50 CFR 665.201.

Commercial fishing means, as defined in the Magnuson-Stevens Fishery Conservation and Management Act, fishing in which the fish harvested, either in whole or in part, are intended to enter commerce or enter commerce through sale, barter, or trade.

Ecological integrity means a condition determined to be characteristic of an ecosystem that has the ability to maintain the function, structure, and abundance of natural biological communities, including rates of change in response to natural environmental variation.

Midway Atoll Special Management Area means the area of the sanctuary surrounding Midway Atoll out to a distance of 12 nautical miles. The coordinates are listed in appendix C to this subpart.

Native Hawaiian practices means cultural activities conducted for the purposes of perpetuating traditional knowledge, caring for and protecting the environment and strengthening cultural and spiritual connections to the Northwestern Hawaiian Islands that have demonstrable benefits to the Native Hawaiian community. This may include, but is not limited to, the non-commercial use of sanctuary resources for direct personal consumption while in the sanctuary.

Non-commercial fishing means fishing that does not meet the definition of commercial fishing in the Magnuson-Stevens Fishery Conservation and Management Act, and includes, but is not limited to, sustenance, subsistence, traditional indigenous, and recreational fishing.

Office of Law Enforcement (OLE) means NOAA, National Marine Fisheries, Office of Law Enforcement.

Outer Sanctuary Zone (OSZ) means the waters and submerged lands extending from approximately 50 nautical miles from all islands and emergent lands of the Northwestern Hawaiian Islands to the extent of the seaward limit of the United States Exclusive Economic Zone (U.S. EEZ) west of 163° West Longitude. The precise boundary coordinates for the OSZ are listed in appendix B to this subpart.

Particularly Sensitive Sea Area (PSSA) means an area that needs special protection through action by IMO because of its significance for recognized ecological, socio-economic, or scientific attributes where such attributes may be vulnerable to damage by international shipping activities.

Pelagic species means Western Pacific Pelagic Management Unit Species as defined at 50 CFR 665.800.

Pono means appropriate, correct, and deemed necessary by traditional standards in Hawaiian culture.

Recreational activity means an activity conducted for personal enjoyment within the Midway Atoll Special Management Area that does not result in the extraction of sanctuary resources and that does not involve a fee-for-service transaction. This includes, but is not limited to, wildlife viewing, SCUBA diving, snorkeling, and boating.

Reporting area means the area of the proposed sanctuary that extends outward ten nautical miles from the PSSA boundary, as designated by the IMO, and excludes the ATBAs that fall within the PSSA boundary. The precise boundary coordinates for the reporting area are listed in appendix E to this subpart.

Scientific instrument means a device, vehicle, or tool used for scientific purposes and is inclusive of structures, materials, or other matter incidental to proper use of such device, vehicle, or tool.

Special Preservation Area (SPA) means discrete, biologically important areas of the sanctuary within which uses are subject to certain conditions, restrictions, and prohibitions, including but not limited to access restrictions. The coordinates are listed in Appendix D to this subpart.

Stowed and not available for immediate use means not readily accessible for immediate use, e.g., by being securely covered and lashed to a deck or bulkhead, tied down, unbaited, unloaded, or partially disassembled (e.g., spear shafts being kept separate from spear guns).

Sustenance fishing means fishing for bottomfish or pelagic species in which all catch is consumed within the sanctuary, and that is incidental to an activity permitted under this part.

Vessel monitoring system (VMS) means a mobile transceiver unit that is approved by NOAA's Office for Law Enforcement for use on vessels permitted to access the sanctuary.

§ 922.242 Co-management.

NOAA's Office of National Marine Sanctuaries has primary responsibility for the management of the sanctuary pursuant to the National Marine Sanctuaries Act. However, as the sanctuary includes State waters, NOAA will co-manage Papahānaumokuākea National Marine Sanctuary with the State of Hawai'i. The Office of National Marine Sanctuaries may enter into a Memorandum of Agreement with the State of Hawai'i regarding this collaboration that may address, but not be limited to, sanctuary resource protection, educational programs, permitting, research activities, development, and threats to sanctuary resources.

§ 922.243 Access.

(a) Access to the Sanctuary is prohibited and thus unlawful except:

(1) When conducting emergency response actions, law enforcement activities, and activities and exercises of the Armed Forces in accordance with § 922.244(b) and (c);

(2) Pursuant to a permit issued under § 922.245;

(3) When conducting non-commercial fishing activities in the OSZ authorized under the Magnuson-Stevens Fishery Conservation and Management Act provided that no sale of harvested fish occurs;

(4) When conducting passage without interruption in accordance with paragraphs (b), (c), and (d) of this section.

(b) A vessel may pass without interruption through the sanctuary without requiring a permit as long as the vessel does not stop, anchor, or engage in the prohibited activities listed in § 922.244 within the sanctuary;

(c) When conducting passage without interruption vessel discharges are limited to the following:

(1) Vessel engine cooling water, weather deck runoff, and vessel engine exhaust within Special Preservation Areas or the Midway Atoll Special Management Area;

(2) Discharge incidental to vessel operations such as deck wash, approved marine sanitation device effluent, cooling water, and engine exhaust in areas other than Special Preservation Areas or the Midway Atoll Special Management Area.

(d) For areas of the sanctuary that are contained within the reporting area surrounding the PSSA designated by the International Maritime Organization (IMO), a ship reporting system (CORAL SHIPREP) specified below shall be in effect. The coordinates for the Reporting Area are listed in appendix E to this subpart.

(1) The ship reporting system as specified in paragraphs (d)(3) through (7) of this section does not apply to the following vessels:

(i) Vessels conducting emergency response actions, law enforcement activities, and activities and exercises of the Armed Forces in accordance with § 922.244(b) and (c);

(ii) Vessels conducting activities pursuant to a permit issued under § 922.245;

(iii) Vessels conducting non-commercial fishing activities in the OSZ authorized under the Magnuson-Stevens Fishery Conservation and Management Act; and

(iv) Vessels entitled to sovereign immunity in accordance with generally recognized principles of international law.

(2) The following vessels, passing through the reporting area of the sanctuary without interruption must participate in the ship reporting system as specified in paragraphs (d)(3) through (7) of this section:

(i) Vessels of the United States of any size;

(ii) All other ships 300 gross tonnage or greater that are entering or departing a United States port or place; and

(iv) All other ships of any size entering or departing a United States port or place and experiencing an emergency while transiting through the reporting area.

(3) All vessels passing through the reporting area of the sanctuary without interruption other than those described in paragraph (d)(2) of this section are encouraged to participate in the ship reporting system set forth in paragraphs (d)(3) through (7) of this section.

(4) Immediately upon entering the reporting area, vessels described in paragraph (d)(2) of this section must provide the following information by email sent to nwhi.notifications@noaa.gov in the IMO standard reporting format and data syntax shown in appendix F to this subpart:

(i) Vessel name, call sign or ship station identity, flag, and IMO identification number if applicable, and either Federal documentation or State registration number if applicable;

(ii) Date, time (UTC) and month of entry;

(iii) Position;

(iv) True course;

(v) Speed in knots and tenths;

(vi) Destination and estimated time of arrival;

(vii) Intended route through the reporting area;

(viii) Vessel draft (in meters);

(ix) Categories of hazardous cargoes on board;

(x) Any vessel defects or deficiencies that restrict maneuverability or impair normal navigation;

(xi) Any pollution incident or goods lost overboard within the PSSA, the reporting area, or the U.S. EEZ;

(xii) Contact information for the vessel's agent or owner;

(xiii) Vessel size (length overall, gross tonnage) and type;

(xiv) Total number of persons on board;

(5) Immediately upon leaving the reporting area, vessels described in paragraph (d)(2) of this section must provide the following information by email sent to nwhi.notifications@noaa.gov in the IMO standard reporting format and data syntax shown in appendix F to this subpart:

(i) Vessel name, call sign or ship station identity, flag, and IMO identification number if applicable, and either Federal documentation or State registration number if applicable;

(ii) Date, time (UTC), and month of exit;

(iii) Position; and

(iv) Any pollution incident or goods lost overboard within the PSSA, the reporting area, or the U.S. EEZ.

(6) For vessels that are not equipped with on-board email capability, advanced notice of entrance (as outlined in paragraph (d)(4) of this section) shall be provided at least 72 hours, but not more than one month, prior to entering the reporting area. Notification of departure (as outlined in paragraph (d)(5) of this section) must be provided within 12 hours of leaving. Notification under this paragraph may be made by email, telephone, or fax, by contacting:

(i) Email: nwhi.notifications@noaa.gov;

(ii) Telephone: 1-808-395-6944 or 1-866-478-6944; or

(iii) Fax: 1-808-455-3093

(7) Further reports shall be made by the vessels described in paragraph (d)(2) of this section, and are encouraged for the vessels described in paragraph (d)(3) of this section, whenever there is a change in navigation status or circumstances, particularly in relation to the intended route, defects or deficiencies.

§ 922.244 Prohibited or otherwise regulated activities.

(a) The following activities are prohibited and thus are unlawful for any person to conduct or to cause to be conducted within the sanctuary, except as specified in paragraphs (b) through (f) of this section:

(1) Exploring for, developing, or producing oil, gas, or minerals, or any energy development activities;

(2) Using or attempting to use poisons, electrical charges, or explosives in the collection or harvest of a sanctuary resource;

(3) Introducing or otherwise releasing an introduced species from within or into the sanctuary;

(4) Deserting a vessel;

(5) Commercial fishing and possessing commercial fishing gear except when stowed and not available for immediate use;

(6) Anchoring on or having a vessel anchored on any living or dead coral with an anchor, anchor chain, or anchor rope;

(7) Non-commercial fishing and possessing non-commercial fishing gear except when stowed and not available for immediate use;

(8) Drilling into, dredging, or otherwise altering the submerged lands; or constructing, placing, or abandoning any structure, material, or other matter on the submerged lands;

(9) Removing, moving, taking, harvesting, possessing, injuring, disturbing, or damaging; or attempting to remove, move, take, harvest, possess, injure, disturb, or damage any living or nonliving sanctuary resource;

(10) Attracting any living sanctuary resource;

(11) Touching coral, living or dead;

(12) Swimming, snorkeling, or closed or open circuit SCUBA diving;

(13) Discharging or depositing any material or other matter into the sanctuary, or discharging or depositing any material or other matter outside of the sanctuary that subsequently enters the sanctuary and injures or has the potential to injure any resources of the sanctuary, except as described at § 922.243 for vessel passage without interruption; and

(14) Anchoring a vessel.

(b) The prohibitions in paragraph (a) of this section do not apply to activities necessary to respond to emergencies threatening life, property, or the environment, or to activities necessary for law enforcement purposes.

(c) The prohibitions in paragraph (a) of this section do not apply to activities and exercises of the U.S. Armed Forces (including those carried out by the U.S. Coast Guard). This includes the U.S. Armed Forces' response to emergencies posing an unacceptable threat to human health or safety or to the marine environment and admitting of no other feasible solution. All activities and exercises of the U.S. Armed Forces shall be carried out in a manner that avoids, to the extent practicable and consistent with operational requirements, adverse impacts on sanctuary resources and qualities. These regulations shall not limit or otherwise affect the U.S. Armed Forces discretion to use, maintain, improve, manage, or control any property under their administrative control or otherwise limit the availability of such property for military mission purposes, including, but not limited to, defensive areas and airspace reservations.

(d) The prohibitions in paragraphs (a)(7) through (14) of this section do not apply to non-commercial fishing activities in the OSZ authorized under the Magnuson-Stevens Fishery Conservation and Management Act provided that no sale of harvested fish occurs.

(e) The prohibitions in paragraphs (a)(7) through (14) of this section, do not apply to any activity conducted under and in accordance with the scope, purpose, terms, and conditions of a sanctuary general permit, or special use permit issued pursuant to subpart D of this part. In no event, may the Director issue a National Marine Sanctuary general permit or special use permit authorizing or otherwise approving activities listed in paragraph (a)(8) of this section for anything other than scientific instruments, when the activity occurs within the OSZ.

(f) The prohibitions in paragraph (a) of this section shall not restrict scientific exploration or research activities by or for the Secretary of Commerce or the Secretary of the Interior when the activity occurs within the OSZ.

§ 922.245 Permit procedures and criteria.

(a) A person may conduct an activity otherwise prohibited by § 922.244(a)(7) through (14), if such activity is conducted in accordance with the scope, purpose, terms, and conditions of, a permit issued under this section and subpart D of this part.

(b) Applications for permits should be addressed to the NOAA Inouye Regional Center, Office of National Marine Sanctuaries; ATT: Permit Coordinator, Papahānaumokuākea, 1845 Wasp Blvd., Building 176, Honolulu, HI 96818.

(c) The Secretary may authorize sustenance fishing outside of any Special Preservation Area as a term or condition of any general permit or special use permit issued under this section and subpart D of this part. Sustenance fishing in the Midway Atoll Special Management Area shall not be allowed unless the activity has been determined by the Director of the U.S. Fish and Wildlife Service or their designee to be compatible with the purposes for which the Midway Atoll National Wildlife Refuge was established. Sustenance fishing must be conducted in a manner compatible with this part, including considering the extent to which the conduct of the activity may diminish Sanctuary resources, qualities, and ecological integrity, as well as any indirect, secondary, or cumulative effects of the activity and the duration of such effects. The Secretary will develop procedures for systematic reporting of sustenance fishing.

(d) An owner or operator of a vessel that has been issued a general permit or special use permit under this section and subpart D of this part must ensure that such vessel has a NOAA OLE type-approved VMS on board when operating within the sanctuary. OLE has authority over the type of VMS used and the installation and operation of the VMS unit. OLE may authorize the connection or order the disconnection of additional equipment, including a computer, to any VMS unit when deemed appropriate by OLE. The owner or operator of a vessel must coordinate with OLE to install and activate an approved VMS prior to departure.

(1) When a vessel's VMS is not operating properly at sea, the owner or operator must immediately contact OLE, and follow instructions from that office. If notified by OLE that a vessel's VMS is not operating properly, the owner and operator must follow instructions from that office. In either event, such instructions may include, but are not limited to:

(i) Manually communicating a vessel's location as directed by OLE; or

(ii) Returning to port until the VMS is operable.

(2) The following activities regarding VMS are prohibited and thus unlawful for any person to conduct or cause to be conducted:

(i) Operating any vessel within the sanctuary without an OLE type approved VMS;

(ii) Failing to install, activate, repair, or replace a VMS prior to leaving port;

(iii) Failing to operate and maintain a VMS on board the vessel at all times;

(iv) Tampering with, damaging, destroying, altering, or in any way distorting, rendering useless, inoperative, ineffective, or inaccurate the VMS, or VMS signal;

(v) Failing to contact OLE or follow OLE instructions when automatic position reporting has been interrupted;

(vi) Registering a VMS to more than one vessel at the same time;

(vii) Connecting or leaving connected additional equipment to a VMS unit without the prior approval of OLE; and

(viii) Making a false statement, oral or written, to an authorized officer regarding the installation, use, operation, or maintenance of a VMS unit or communication service provider.

(3) As a condition of authorized access to the sanctuary, a vessel owner or operator subject to the requirements for a VMS in this section must allow OLE, the U.S. Coast Guard, and their authorized officers and designees access to the vessel's position data obtained from the VMS. Consistent with other applicable laws, including the limitations on access to, and use of, VMS data collected under the Magnuson-Stevens Fishery Conservation and Management Act, the Secretary of Commerce and the Secretary of the Interior may have access to, and use of, collected data for scientific, statistical, and management purposes.

Appendix A to Subpart W of Part 922—Papahānaumokuākea National Marine Sanctuary Boundary Description and Coordinates

[Coordinates listed in this appendix are unprojected (Geographic) and based on the North American Datum of 1983]

Point No. | Longitude | Latitude
1 | 180.00000 | 25.38976
2 | 179.99985 | 25.38982
3 | 179.96681 | 25.40451
4 | 179.93392 | 25.41950
5 | 179.90119 | 25.43478
6 | 179.86863 | 25.45034
7 | 179.83622 | 25.46619
8 | 179.78793 | 25.49050
9 | 179.75595 | 25.50707
10 | 179.72415 | 25.52391
11 | 179.69252 | 25.54104
12 | 179.66108 | 25.55844
13 | 179.62981 | 25.57612
14 | 179.59874 | 25.59408
15 | 179.56786 | 25.61231
16 | 179.53716 | 25.63081
17 | 179.50667 | 25.64959
18 | 179.47637 | 25.66863
19 | 179.44627 | 25.68794
20 | 179.41638 | 25.70751
21 | 179.38670 | 25.72735
22 | 179.35722 | 25.74745
23 | 179.32796 | 25.76781
24 | 179.28448 | 25.79883
25 | 179.25576 | 25.81983
26 | 179.22255 | 25.84463
27 | 179.18175 | 25.87583
28 | 179.15383 | 25.89770
29 | 179.12613 | 25.91982
30 | 179.09868 | 25.94218
31 | 179.07146 | 25.96479
32 | 179.03108 | 25.99915
33 | 179.00447 | 26.02235
34 | 178.97810 | 26.04578
35 | 178.93902 | 26.08137
36 | 178.91329 | 26.10537
37 | 178.88781 | 26.12961
38 | 178.86259 | 26.15407
39 | 178.82525 | 26.19117
40 | 178.80068 | 26.21618
41 | 178.77639 | 26.24141
42 | 178.75236 | 26.26685
43 | 178.71683 | 26.30540
44 | 178.69349 | 26.33136
45 | 178.65901 | 26.37068
46 | 178.63637 | 26.39715
47 | 178.61378 | 26.42409
48 | 178.59171 | 26.45096
49 | 178.56993 | 26.47801
50 | 178.54844 | 26.50526
51 | 178.52725 | 26.53270
52 | 178.49601 | 26.57420
53 | 178.46544 | 26.61611
54 | 178.44544 | 26.64427
55 | 178.41601 | 26.68685
56 | 178.39677 | 26.71544
57 | 178.37784 | 26.74421
58 | 178.35922 | 26.77314
59 | 178.34092 | 26.80223
60 | 178.30653 | 26.85803
61 | 178.28885 | 26.88744
62 | 178.26294 | 26.93185
63 | 178.24606 | 26.96164
64 | 178.22951 | 26.99158
65 | 178.21329 | 27.02166
66 | 178.19632 | 27.05394
67 | 178.17402 | 27.09774
68 | 178.15895 | 27.12831
69 | 178.14422 | 27.15901
70 | 178.12274 | 27.20529
71 | 178.10884 | 27.23631
72 | 178.08864 | 27.28305
73 | 178.06920 | 27.33006
74 | 178.05667 | 27.36154
75 | 178.03853 | 27.40896
76 | 178.02687 | 27.44071
77 | 178.01003 | 27.48851
78 | 177.99924 | 27.52051
79 | 177.98881 | 27.55259
80 | 177.97873 | 27.58477
81 | 177.96901 | 27.61703
82 | 177.95509 | 27.66559
83 | 177.94198 | 27.71432
84 | 177.93368 | 27.74690
85 | 177.92568 | 27.77984
86 | 177.91811 | 27.81256
87 | 177.90744 | 27.86176
88 | 177.90079 | 27.89464
89 | 177.89149 | 27.94406
90 | 177.88574 | 27.97707
91 | 177.88037 | 28.01014
92 | 177.87300 | 28.05982
93 | 177.86647 | 28.10959
94 | 177.86258 | 28.14281
95 | 177.85744 | 28.19271
96 | 177.85447 | 28.22601
97 | 177.85073 | 28.27600
98 | 177.84871 | 28.30936
99 | 177.84706 | 28.34273
100 | 177.84529 | 28.39281
101 | 177.84436 | 28.44291
102 | 177.84422 | 28.47631
103 | 177.84445 | 28.50971
104 | 177.84551 | 28.55981
105 | 177.84670 | 28.59348
106 | 177.84844 | 28.63098
107 | 177.85148 | 28.68101
108 | 177.85399 | 28.71434
109 | 177.85761 | 28.75561
110 | 177.86197 | 28.79830
111 | 177.86786 | 28.84813
112 | 177.87226 | 28.88131
113 | 177.87543 | 28.90360
114 | 177.87967 | 28.93173
115 | 177.88514 | 28.96554
116 | 177.89133 | 29.00123
117 | 177.90063 | 29.05066
118 | 177.90735 | 29.08379
119 | 177.91806 | 29.13300
120 | 177.92567 | 29.16572
121 | 177.93780 | 29.21468
122 | 177.94636 | 29.24722
123 | 177.95989 | 29.29590
124 | 177.96959 | 29.32896
125 | 177.97946 | 29.36122
126 | 177.98970 | 29.39340
127 | 178.00575 | 29.44148
128 | 178.01692 | 29.47341
129 | 178.03438 | 29.52113
130 | 178.04647 | 29.55280
131 | 178.06531 | 29.60012
132 | 178.08497 | 29.64717
133 | 178.09853 | 29.67840
134 | 178.11268 | 29.71000
135 | 178.13426 | 29.75642
136 | 178.15665 | 29.80255
137 | 178.17203 | 29.83313
138 | 178.19577 | 29.87875
139 | 178.21216 | 29.90921
140 | 178.22879 | 29.93930
141 | 178.25439 | 29.98416
142 | 178.27525 | 30.01949
143 | 178.29311 | 30.04905
144 | 178.31861 | 30.09001
145 | 178.34009 | 30.12350
146 | 178.35931 | 30.15271
147 | 178.38857 | 30.19588
148 | 178.41018 | 30.22681
149 | 178.43934 | 30.26737
150 | 178.47063 | 30.30946
151 | 178.49239 | 30.33792
152 | 178.51400 | 30.36556
153 | 178.54703 | 30.40666
154 | 178.57973 | 30.44608
155 | 178.60482 | 30.47552
156 | 178.62805 | 30.50216
157 | 178.65341 | 30.53061
158 | 178.68811 | 30.56854
159 | 178.71589 | 30.59815
160 | 178.75298 | 30.63662
161 | 178.77809 | 30.66199
162 | 178.80351 | 30.68713
163 | 178.84220 | 30.72443
164 | 178.88157 | 30.76121
165 | 178.90818 | 30.78543
166 | 178.94864 | 30.82133
167 | 178.97598 | 30.84496
168 | 179.00360 | 30.86835
169 | 179.04556 | 30.90297
170 | 179.07393 | 30.92578
171 | 179.11693 | 30.95947
172 | 179.14594 | 30.98161
173 | 179.18995 | 31.01433
174 | 179.21963 | 31.03582
175 | 179.26463 | 31.06757
176 | 179.29516 | 31.08855
177 | 179.34112 | 31.11928
178 | 179.38763 | 31.14941
179 | 179.41894 | 31.16915
180 | 179.45050 | 31.18861
181 | 179.49827 | 31.21728
182 | 179.54657 | 31.24532
183 | 179.57905 | 31.26365
184 | 179.61792 | 31.28512
185 | 179.65085 | 31.30287
186 | 179.70065 | 31.32895
187 | 179.73411 | 31.34598
188 | 179.77707 | 31.36728
189 | 179.81095 | 31.38371
190 | 179.86214 | 31.40779
191 | 179.89652 | 31.42346
192 | 179.94844 | 31.44640
193 | 179.98329 | 31.46131
194 | −180.00000 | 31.46823
195 | −179.96410 | 31.48309
196 | −179.92880 | 31.49722
197 | −179.89333 | 31.51105
198 | −179.83980 | 31.53119
199 | −179.78591 | 31.55062
200 | −179.74978 | 31.56318
201 | −179.71350 | 31.57542
202 | −179.65880 | 31.59317
203 | −179.62215 | 31.60460
204 | −179.56692 | 31.62114
205 | −179.51138 | 31.63695
206 | −179.47371 | 31.64721
207 | −179.41770 | 31.66179
208 | −179.38021 | 31.67109
209 | −179.33210 | 31.68252
210 | −179.28243 | 31.69383
211 | −179.23675 | 31.70369
212 | −179.19878 | 31.71149
213 | −179.16071 | 31.71896
214 | −179.10344 | 31.72953
215 | −179.06516 | 31.73615
216 | −179.00758 | 31.74546
217 | −178.94983 | 31.75399
218 | −178.90738 | 31.75980
219 | −178.86874 | 31.76473
220 | −178.82975 | 31.76934
221 | −178.79099 | 31.77358
222 | −178.75218 | 31.77748
223 | −178.71332 | 31.78104
224 | −178.67441 | 31.78425
225 | −178.63547 | 31.78712
226 | −178.59650 | 31.78964
227 | −178.55749 | 31.79182
228 | −178.51846 | 31.79366
229 | −178.47941 | 31.79515
230 | −178.43412 | 31.79649
231 | −178.39504 | 31.79729
232 | −178.35596 | 31.79775
233 | −178.32396 | 31.79786
234 | −178.28487 | 31.79769
235 | −178.24553 | 31.79717
236 | −178.20645 | 31.79631
237 | −178.16738 | 31.79510
238 | −178.12834 | 31.79354
239 | −178.08931 | 31.79165
240 | −178.05031 | 31.78940
241 | −178.01134 | 31.78682
242 | −177.97241 | 31.78389
243 | −177.93351 | 31.78061
244 | −177.89466 | 31.77699
245 | −177.85585 | 31.77303
246 | −177.81646 | 31.76865
247 | −177.77776 | 31.76401
248 | −177.73912 | 31.75902
249 | −177.70055 | 31.75369
250 | −177.66205 | 31.74802
251 | −177.62362 | 31.74202
252 | −177.58526 | 31.73567
253 | −177.54140 | 31.72800
254 | −177.50321 | 31.72097
255 | −177.46512 | 31.71361
256 | −177.42712 | 31.70592
257 | −177.38921 | 31.69789
258 | −177.35141 | 31.68952
259 | −177.31372 | 31.68082
260 | −177.27613 | 31.67179
261 | −177.23866 | 31.66242
262 | −177.20131 | 31.65273
263 | −177.16094 | 31.64185
264 | −177.12384 | 31.63149
265 | −177.08687 | 31.62082
266 | −177.04995 | 31.60978
267 | −176.99406 | 31.60543
268 | −176.95227 | 31.60174
269 | −176.91352 | 31.59795
270 | −176.87481 | 31.59382
271 | −176.83616 | 31.58934
272 | −176.79756 | 31.58453
273 | −176.73979 | 31.57666
274 | −176.70136 | 31.57100
275 | −176.66300 | 31.56499
276 | −176.60561 | 31.55534
277 | −176.56718 | 31.54844
278 | −176.52911 | 31.54125
279 | −176.49114 | 31.53372
280 | −176.45325 | 31.52586
281 | −176.41282 | 31.51708
282 | −176.37095 | 31.50759
283 | −176.33338 | 31.49873
284 | −176.29414 | 31.48910
285 | −176.23818 | 31.47469
286 | −176.20102 | 31.46467
287 | −176.14552 | 31.44902
288 | −176.10869 | 31.43818
289 | −176.07199 | 31.42701
290 | −176.03543 | 31.41553
291 | −175.99902 | 31.40371
292 | −175.94468 | 31.38539
293 | −175.90865 | 31.37278
294 | −175.87278 | 31.35985
295 | −175.83644 | 31.34637
296 | −175.80089 | 31.33281
297 | −175.76551 | 31.31893
298 | −175.72777 | 31.30370
299 | −175.67361 | 31.30264
300 | −175.62462 | 31.30118
301 | −175.58577 | 31.29962
302 | −175.56300 | 31.29856
303 | −175.50480 | 31.29533
304 | −175.44667 | 31.29132
305 | −175.38862 | 31.28654
306 | −175.33066 | 31.28099
307 | −175.27281 | 31.27467
308 | −175.21509 | 31.26757
309 | −175.15433 | 31.25928
310 | −175.10019 | 31.25117
311 | −175.05021 | 31.24316
312 | −174.99307 | 31.23327
313 | −174.93613 | 31.22261
314 | −174.87938 | 31.21120
315 | −174.82112 | 31.19865
316 | −174.78357 | 31.19012
317 | −174.74612 | 31.18126
318 | −174.69017 | 31.16735
319 | −174.65301 | 31.15766
320 | −174.61598 | 31.14764
321 | −174.57907 | 31.13730
322 | −174.54229 | 31.12663
323 | −174.48737 | 31.11001
324 | −174.43277 | 31.09266
325 | −174.39656 | 31.08069
326 | −174.36049 | 31.06840
327 | −174.32457 | 31.05579
328 | −174.28881 | 31.04287
329 | −174.25322 | 31.02962
330 | −174.21779 | 31.01607
331 | −174.16782 | 30.99630
332 | −174.12317 | 30.97807
333 | −174.08834 | 30.96342
334 | −174.03646 | 30.94087
335 | −174.00210 | 30.92545
336 | −173.95092 | 30.90176
337 | −173.91394 | 30.88410
338 | −173.88027 | 30.86763
339 | −173.83015 | 30.84236
340 | −173.79699 | 30.82515
341 | −173.74828 | 30.79912
342 | −173.71286 | 30.77965
343 | −173.67333 | 30.75735
344 | −173.63202 | 30.73339
345 | −173.60020 | 30.71444
346 | −173.56860 | 30.69522
347 | −173.52165 | 30.66586
348 | −173.49065 | 30.64594
349 | −173.45306 | 30.62120
350 | −173.40817 | 30.59091
351 | −173.37804 | 30.57004
352 | −173.34479 | 30.54651
353 | −173.30046 | 30.51431
354 | −173.25673 | 30.48153
355 | −173.22791 | 30.45935
356 | −173.19936 | 30.43692
357 | −173.15960 | 30.40490
358 | −173.12000 | 30.37227
359 | −173.09242 | 30.34897
360 | −173.06512 | 30.32542
361 | −173.02470 | 30.28965
362 | −172.98494 | 30.25335
363 | −172.95880 | 30.22886
364 | −172.93295 | 30.20413
365 | −172.89474 | 30.16662
366 | −172.85721 | 30.12860
367 | −172.83096 | 30.10131
368 | −172.79458 | 30.06247
369 | −172.77072 | 30.03631
370 | −172.74717 | 30.00995
371 | −172.71244 | 29.97001
372 | −172.67843 | 29.92961
373 | −172.65616 | 29.90243
374 | −172.62336 | 29.86129
375 | −172.60190 | 29.83362
376 | −172.57892 | 29.80334
377 | −172.55812 | 29.77530
378 | −172.52756 | 29.73290
379 | −172.50760 | 29.70441
380 | −172.48798 | 29.67574
381 | −172.46870 | 29.64690
382 | −172.44976 | 29.61789
383 | −172.42200 | 29.57406
384 | −172.40392 | 29.54464
385 | −172.37746 | 29.50021
386 | −172.35178 | 29.45544
387 | −172.33510 | 29.42540
388 | −172.31074 | 29.38007
389 | −172.29495 | 29.34967
390 | −172.27193 | 29.30382
391 | −172.25703 | 29.27308
392 | −172.23535 | 29.22673
393 | −172.22135 | 29.19567
394 | −172.20103 | 29.14885
395 | −172.18794 | 29.11749
396 | −172.18269 | 29.10461
397 | −172.14425 | 29.10857
398 | −172.10644 | 29.11211
399 | −172.06858 | 29.11531
400 | −172.01172 | 29.11947
401 | −171.95480 | 29.12286
402 | −171.91682 | 29.12469
403 | −171.87882 | 29.12618
404 | −171.82179 | 29.12776
405 | −171.78376 | 29.12839
406 | −171.73360 | 29.12869
407 | −171.67655 | 29.12830
408 | −171.63852 | 29.12761
409 | −171.60049 | 29.12658
410 | −171.54349 | 29.12439
411 | −171.50552 | 29.12249
412 | −171.45928 | 29.11977
413 | −171.42136 | 29.11719
414 | −171.38347 | 29.11427
415 | −171.32671 | 29.10925
416 | −171.28892 | 29.10547
417 | −171.25118 | 29.10135
418 | −171.21350 | 29.09689
419 | −171.17551 | 29.09204
420 | −171.13794 | 29.08690
421 | −171.10043 | 29.08142
422 | −171.04430 | 29.07256
423 | −171.00697 | 29.06623
424 | −170.96972 | 29.05956
425 | −170.93255 | 29.05256
426 | −170.89547 | 29.04522
427 | −170.85848 | 29.03755
428 | −170.82159 | 29.02954
429 | −170.78479 | 29.02120
430 | −170.74809 | 29.01253
431 | −170.69325 | 28.99890
432 | −170.65683 | 28.98940
433 | −170.60242 | 28.97453
434 | −170.56630 | 28.96421
435 | −170.53030 | 28.95356
436 | −170.49444 | 28.94259
437 | −170.44089 | 28.92552
438 | −170.40537 | 28.91374
439 | −170.36999 | 28.90164
440 | −170.33476 | 28.88922
441 | −170.29968 | 28.87648
442 | −170.24735 | 28.85678
443 | −170.21266 | 28.84325
444 | −170.16441 | 28.82380
445 | −170.11868 | 28.81843
446 | −170.06241 | 28.81110
447 | −170.00627 | 28.80301
448 | −169.95029 | 28.79415
449 | −169.89448 | 28.78454
450 | −169.85736 | 28.77770
451 | −169.80186 | 28.76683
452 | −169.74655 | 28.75519
453 | −169.69147 | 28.74281
454 | −169.63661 | 28.72968
455 | −169.60017 | 28.72051
456 | −169.54573 | 28.70614
457 | −169.49155 | 28.69103
458 | −169.45559 | 28.68055
459 | −169.40188 | 28.66422
460 | −169.34847 | 28.64716
461 | −169.29538 | 28.62937
462 | −169.24262 | 28.61087
463 | −169.19019 | 28.59165
464 | −169.13811 | 28.57172
465 | −169.08640 | 28.55108
466 | −169.03506 | 28.52974
467 | −169.00106 | 28.51513
468 | −168.95037 | 28.49263
469 | −168.90010 | 28.46945
470 | −168.85025 | 28.44559
471 | −168.81726 | 28.42931
472 | −168.76813 | 28.40432
473 | −168.71946 | 28.37867
474 | −168.67125 | 28.35237
475 | −168.62352 | 28.32541
476 | −168.58344 | 28.30203
477 | −168.53902 | 28.30813
478 | −168.48296 | 28.31510
479 | −168.42677 | 28.32131
480 | −168.37049 | 28.32675
481 | −168.33291 | 28.32995
482 | −168.27648 | 28.33411
483 | −168.21998 | 28.33750
484 | −168.16342 | 28.34011
485 | −168.10683 | 28.34195
486 | −168.05021 | 28.34302
487 | −168.00043 | 28.34332
488 | −167.94380 | 28.34293
489 | −167.88718 | 28.34177
490 | −167.83059 | 28.33983
491 | −167.77404 | 28.33713
492 | −167.73621 | 28.33488
493 | −167.67976 | 28.33089
494 | −167.62339 | 28.32613
495 | −167.56712 | 28.32059
496 | −167.51095 | 28.31429
497 | −167.45490 | 28.30722
498 | −167.39898 | 28.29939
499 | −167.34321 | 28.29079
500 | −167.30612 | 28.28464
501 | −167.25063 | 28.27477
502 | −167.21374 | 28.26778
503 | −167.15856 | 28.25665
504 | −167.10359 | 28.24478
505 | −167.04884 | 28.23215
506 | −166.99432 | 28.21878
507 | −166.94004 | 28.20466
508 | −166.88603 | 28.18981
509 | −166.85017 | 28.17950
510 | −166.81444 | 28.16886
511 | −166.79269 | 28.16220
512 | −166.76001 | 28.15196
513 | −166.72461 | 28.14051
514 | −166.68934 | 28.12874
515 | −166.65422 | 28.11665
516 | −166.61924 | 28.10424
517 | −166.58441 | 28.09152
518 | −166.54974 | 28.07847
519 | −166.51522 | 28.06511
520 | −166.48086 | 28.05144
521 | −166.42964 | 28.03034
522 | −166.39570 | 28.01589
523 | −166.36193 | 28.00113
524 | −166.31162 | 27.97842
525 | −166.27830 | 27.96290
526 | −166.24517 | 27.94707
527 | −166.21223 | 27.93095
528 | −166.17948 | 27.91452
529 | −166.14693 | 27.89780
530 | −166.11458 | 27.88078
531 | −166.06622 | 27.85459
532 | −166.03438 | 27.83684
533 | −166.00275 | 27.81881
534 | −165.97134 | 27.80048
535 | −165.94014 | 27.78187
536 | −165.90917 | 27.76298
537 | −165.87842 | 27.74381
538 | −165.83251 | 27.71439
539 | −165.80234 | 27.69452
540 | −165.77240 | 27.67438
541 | −165.74243 | 27.65378
542 | −165.71297 | 27.63310
543 | −165.68375 | 27.61215
544 | −165.65478 | 27.59094
545 | −165.62607 | 27.56946
546 | −165.59760 | 27.54773
547 | −165.56939 | 27.52573
548 | −165.54144 | 27.50348
549 | −165.50001 | 27.46963
550 | −165.47272 | 27.44675
551 | −165.44570 | 27.42363
552 | −165.41895 | 27.40026
553 | −165.39248 | 27.37664
554 | −165.36628 | 27.35279
555 | −165.34036 | 27.32870
556 | −165.30201 | 27.29213
557 | −165.27680 | 27.26746
558 | −165.25188 | 27.24256
559 | −165.21504 | 27.20478
560 | −165.19085 | 27.17932
561 | −165.16695 | 27.15365
562 | −165.14335 | 27.12775
563 | −165.12006 | 27.10164
564 | −165.09707 | 27.07533
565 | −165.07732 | 27.05226
566 | −165.03132 | 27.03829
567 | −164.99614 | 27.02718
568 | −164.96109 | 27.01574
569 | −164.90877 | 26.99799
570 | −164.85677 | 26.97951
571 | −164.82201 | 26.96670
572 | −164.70700 | 26.92271
573 | −164.68299 | 26.92268
574 | −164.64572 | 26.92233
575 | −164.58983 | 26.92117
576 | −164.55259 | 26.91997
577 | −164.51536 | 26.91843
578 | −164.45955 | 26.91547
579 | −164.40380 | 26.91174
580 | −164.34813 | 26.90724
581 | −164.29254 | 26.90197
582 | −164.25554 | 26.89803
583 | −164.21858 | 26.89375
584 | −164.16325 | 26.88669
585 | −164.10804 | 26.87887
586 | −164.05299 | 26.87029
587 | −164.01637 | 26.86414
588 | −163.97983 | 26.85766
589 | −163.92516 | 26.84731
590 | −163.87068 | 26.83620
591 | −163.81641 | 26.82434
592 | −163.78034 | 26.81602
593 | −163.74438 | 26.80737
594 | −163.69063 | 26.79377
595 | −163.63712 | 26.77943
596 | −163.58387 | 26.76435
597 | −163.54853 | 26.75389
598 | −163.51331 | 26.74310
599 | −163.46071 | 26.72632
600 | −163.40842 | 26.70881
601 | −163.35645 | 26.69058
602 | −163.30480 | 26.67164
603 | −163.27056 | 26.65861
604 | −163.21948 | 26.63848
605 | −163.16876 | 26.61765
606 | −163.13516 | 26.60337
607 | −163.08506 | 26.58138
608 | −163.03536 | 26.55870
609 | −163.00000 | 26.54202
610 | −163.00000 | 24.11409
611 | −161.74242 | 23.88042
612 | −161.68679 | 23.86839
613 | −161.63210 | 23.85316
614 | −161.57857 | 23.83478
615 | −161.52642 | 23.81332
616 | −161.47586 | 23.78888
617 | −161.42708 | 23.76155
618 | −161.38029 | 23.73144
619 | −161.33566 | 23.69868
620 | −161.29337 | 23.66338
621 | −161.25360 | 23.62570
622 | −161.21650 | 23.58578
623 | −161.18221 | 23.54379
624 | −161.15087 | 23.49989
625 | −161.12260 | 23.45425
626 | −161.09751 | 23.40707
627 | −161.07569 | 23.35851
628 | −161.05724 | 23.30879
629 | −161.04221 | 23.25809
630 | −161.03067 | 23.20662
631 | −161.02266 | 23.15458
632 | −161.01820 | 23.10217
633 | −161.01730 | 23.04961
634 | −161.01998 | 22.99711
635 | −161.02620 | 22.94485
636 | −161.03595 | 22.89307
637 | −161.04919 | 22.84195
638 | −161.06584 | 22.79170
639 | −161.08586 | 22.74252
640 | −161.10915 | 22.69460
641 | −161.13562 | 22.64812
642 | −161.16516 | 22.60327
643 | −161.19766 | 22.56023
644 | −161.23298 | 22.51916
645 | −161.27099 | 22.48022
646 | −161.31153 | 22.44356
647 | −161.35444 | 22.40934
648 | −161.39956 | 22.37767
649 | −161.44671 | 22.34869
650 | −161.49571 | 22.32250
651 | −161.54635 | 22.29922
652 | −161.59846 | 22.27892
653 | −161.65181 | 22.26168
654 | −161.70621 | 22.24758
655 | −161.76145 | 22.23667
656 | −161.81730 | 22.22899
657 | −161.87356 | 22.22458
658 | −161.93000 | 22.22343
659 | −161.98641 | 22.22557
660 | −162.04257 | 22.23099
661 | −162.09826 | 22.23966
662 | −163.00000 | 22.40727
663 | −163.00000 | 19.23458
664 | −163.02954 | 19.26137
665 | −163.05474 | 19.28472
666 | −163.07971 | 19.30831
667 | −163.10443 | 19.33213
668 | −163.12891 | 19.35619
669 | −163.15314 | 19.38047
670 | −163.18902 | 19.41731
671 | −163.21262 | 19.44214
672 | −163.23597 | 19.46720
673 | −163.25906 | 19.49248
674 | −163.28189 | 19.51796
675 | −163.31564 | 19.55659
676 | −163.33781 | 19.58261
677 | −163.35971 | 19.60883
678 | −163.38134 | 19.63525
679 | −163.41328 | 19.67526
680 | −163.43423 | 19.70218
681 | −163.45490 | 19.72929
682 | −163.47678 | 19.75859
683 | −163.49689 | 19.78608
684 | −163.51671 | 19.81376
685 | −163.54591 | 19.85562
686 | −163.56501 | 19.88376
687 | −163.58383 | 19.91207
688 | −163.60235 | 19.94056
689 | −163.62957 | 19.98361
690 | −163.64735 | 20.01252
691 | −163.66483 | 20.04159
692 | −163.68201 | 20.07083
693 | −163.69888 | 20.10022
694 | −163.71545 | 20.12977
695 | −163.73841 | 20.17192
696 | −163.75664 | 20.18197
697 | −163.78708 | 20.19906
698 | −163.81734 | 20.21644
699 | −163.84743 | 20.23409
700 | −163.87734 | 20.25202
701 | −163.90706 | 20.27022
702 | −163.93659 | 20.28870
703 | −163.95588 | 20.30099
704 | −163.98535 | 20.29532
705 | −164.02014 | 20.28893
706 | −164.07244 | 20.27996
707 | −164.12487 | 20.27171
708 | −164.17742 | 20.26419
709 | −164.23008 | 20.25739
710 | −164.28284 | 20.25133
711 | −164.33569 | 20.24599
712 | −164.38861 | 20.24139
713 | −164.44159 | 20.23752
714 | −164.49463 | 20.23438
715 | −164.54771 | 20.23197
716 | −164.58106 | 20.23084
717 | −164.60571 | 20.23016
718 | −164.65884 | 20.22922
719 | −164.71217 | 20.22902
720 | −164.74760 | 20.22929
721 | −164.78302 | 20.22990
722 | −164.83614 | 20.23141
723 | −164.88922 | 20.23366
724 | −164.92459 | 20.23557
725 | −164.97761 | 20.23904
726 | −165.01292 | 20.24176
727 | −165.04914 | 20.24489
728 | −165.10201 | 20.25007
729 | −165.13720 | 20.25393
730 | −165.18992 | 20.26033
731 | −165.24253 | 20.26745
732 | −165.27754 | 20.27261
733 | −165.31250 | 20.27808
734 | −165.36483 | 20.28690
735 | −165.41702 | 20.29644
736 | −165.45173 | 20.30321
737 | −165.50401 | 20.31402
738 | −165.54798 | 20.32372
739 | −165.60124 | 20.31609
740 | −165.65391 | 20.30930
741 | −165.70669 | 20.30323
742 | −165.75955 | 20.29790
743 | −165.81249 | 20.29329
744 | −165.86549 | 20.28942
745 | −165.91855 | 20.28628
746 | −165.97164 | 20.28388
747 | −166.02477 | 20.28221
748 | −166.07792 | 20.28127
749 | −166.13108 | 20.28107
750 | −166.18423 | 20.28161
751 | −166.23737 | 20.28287
752 | −166.29049 | 20.28488
753 | −166.34357 | 20.28762
754 | −166.36478 | 20.28892
755 | −166.39682 | 20.29110
756 | −166.43214 | 20.29382
757 | −166.48507 | 20.29852
758 | −166.52032 | 20.30205
759 | −166.57311 | 20.30796
760 | −166.61798 | 20.31350
761 | −166.65308 | 20.31816
762 | −166.70563 | 20.32577
763 | −166.74060 | 20.33125
764 | −166.77552 | 20.33705
765 | −166.82777 | 20.34635
766 | −166.87988 | 20.35637
767 | −166.91453 | 20.36345
768 | −166.94911 | 20.37085
769 | −166.99267 | 20.38061
770 | −167.02709 | 20.38865
771 | −167.07857 | 20.40130
772 | −167.11278 | 20.41012
773 | −167.14689 | 20.41926
774 | −167.19433 | 20.43226
775 | −167.22830 | 20.44187
776 | −167.26218 | 20.45180
777 | −167.29596 | 20.46203
778 | −167.32963 | 20.47258
779 | −167.36319 | 20.48344
780 | −167.39664 | 20.49460
781 | −167.44659 | 20.51193
782 | −167.47975 | 20.52386
783 | −167.51278 | 20.53610
784 | −167.54695 | 20.54912
785 | −167.57973 | 20.56197
786 | −167.61238 | 20.57511
787 | −167.64489 | 20.58856
788 | −167.67726 | 20.60230
789 | −167.70949 | 20.61635
790 | −167.74158 | 20.63068
791 | −167.77351 | 20.64532
792 | −167.80530 | 20.66024
793 | −167.83694 | 20.67546
794 | −167.86841 | 20.69097
795 | −167.91533 | 20.71478
796 | −167.94640 | 20.73101
797 | −167.97731 | 20.74752
798 | −168.00804 | 20.76432
799 | −168.03861 | 20.78140
800 | −168.08412 | 20.80755
801 | −168.11424 | 20.82533
802 | −168.14417 | 20.84338
803 | −168.17392 | 20.86172
804 | −168.20348 | 20.88032
805 | −168.24746 | 20.90873
806 | −168.27653 | 20.92801
807 | −168.31977 | 20.95743
808 | −168.36255 | 20.98744
809 | −168.40487 | 21.01804
810 | −168.43282 | 21.03877
811 | −168.47433 | 21.07033
812 | −168.50174 | 21.09169
813 | −168.54244 | 21.12420
814 | −168.58263 | 21.15727
815 | −168.62230 | 21.19089
816 | −168.66145 | 21.22506
817 | −168.68726 | 21.24813
818 | −168.71283 | 21.27145
819 | −168.75073 | 21.30685
820 | −168.77569 | 21.33074
821 | −168.81266 | 21.36701
822 | −168.83700 | 21.39147
823 | −168.87302 | 21.42858
824 | −168.90847 | 21.46618
825 | −168.93178 | 21.49152
826 | −168.96624 | 21.52992
827 | −168.99177 | 21.55913
828 | −169.02276 | 21.59546
829 | −169.04473 | 21.62184
830 | −169.07716 | 21.66178
831 | −169.09844 | 21.68866
832 | −169.12982 | 21.72934
833 | −169.15039 | 21.75669
834 | −169.18071 | 21.79808
835 | −169.20232 | 21.82840
836 | −169.21703 | 21.84743
837 | −169.23883 | 21.85466
838 | −169.27247 | 21.86611
839 | −169.32272 | 21.88387
840 | −169.37269 | 21.90231
841 | −169.42237 | 21.92143
842 | −169.47175 | 21.94123
843 | −169.52083 | 21.96170
844 | −169.56958 | 21.98284
845 | −169.61800 | 22.00464
846 | −169.66608 | 22.02710
847 | −169.71382 | 22.05022
848 | −169.76119 | 22.07399
849 | −169.80819 | 22.09840
850 | −169.85481 | 22.12345
851 | −169.90103 | 22.14914
852 | −169.94686 | 22.17546
853 | −169.97718 | 22.19335
854 | −170.00653 | 22.21103
855 | −170.05123 | 22.20415
856 | −170.08671 | 22.19907
857 | −170.12225 | 22.19430
858 | −170.15783 | 22.18987
859 | −170.19345 | 22.18575
860 | −170.22911 | 22.18196
861 | −170.28268 | 22.17688
862 | −170.31843 | 22.17390
863 | −170.35421 | 22.17125
864 | −170.39001 | 22.16891
865 | −170.42584 | 22.16691
866 | −170.46169 | 22.16523
867 | −170.51548 | 22.16332
868 | −170.55136 | 22.16245
869 | −170.58725 | 22.16191
870 | −170.62314 | 22.16170
871 | −170.65929 | 22.16181
872 | −170.69518 | 22.16224
873 | −170.73106 | 22.16301
874 | −170.76693 | 22.16410
875 | −170.80279 | 22.16551
876 | −170.83863 | 22.16725
877 | −170.89236 | 22.17047
878 | −170.92815 | 22.17302
879 | −170.96391 | 22.17590
880 | −170.99964 | 22.17910
881 | −171.03533 | 22.18262
882 | −171.07099 | 22.18647
883 | −171.12440 | 22.19286
884 | −171.15995 | 22.19751
885 | −171.19545 | 22.20249
886 | −171.23089 | 22.20780
887 | −171.28396 | 22.21635
888 | −171.33689 | 22.22563
889 | −171.38967 | 22.23563
890 | −171.42477 | 22.24269
891 | −171.47727 | 22.25389
892 | −171.52961 | 22.26579
893 | −171.58175 | 22.27841
894 | −171.63370 | 22.29174
895 | −171.68543 | 22.30577
896 | −171.73694 | 22.32050
897 | −171.78823 | 22.33594
898 | −171.83927 | 22.35207
899 | −171.89005 | 22.36889
900 | −171.94057 | 22.38641
901 | −171.99082 | 22.40461
902 | −172.03998 | 22.42318
903 | −172.09233 | 22.42751
904 | −172.12811 | 22.43088
905 | −172.18170 | 22.43653
906 | −172.21738 | 22.44070
907 | −172.25302 | 22.44519
908 | −172.28861 | 22.45001
909 | −172.32414 | 22.45515
910 | −172.37735 | 22.46346
911 | −172.41274 | 22.46941
912 | −172.46572 | 22.47892
913 | −172.50095 | 22.48566
914 | −172.55367 | 22.49638
915 | −172.58872 | 22.50392
916 | −172.64114 | 22.51582
917 | −172.67599 | 22.52415
918 | −172.71075 | 22.53279
919 | −172.76272 | 22.54635
920 | −172.79725 | 22.55578
921 | −172.83168 | 22.56552
922 | −172.86601 | 22.57558
923 | −172.90023 | 22.58594
924 | −172.95136 | 22.60207
925 | −172.98531 | 22.61320
926 | −173.03602 | 22.63048
927 | −173.08645 | 22.64845
928 | −173.11992 | 22.66081
929 | −173.15325 | 22.67347
930 | −173.18646 | 22.68643
931 | −173.23601 | 22.70643
932 | −173.26888 | 22.72014
933 | −173.30160 | 22.73415
934 | −173.34556 | 22.75354
935 | −173.37723 | 22.74830
936 | −173.41276 | 22.74274
937 | −173.44836 | 22.73750
938 | −173.48400 | 22.73258
939 | −173.51970 | 22.72798
940 | −173.55544 | 22.72371
941 | −173.59122 | 22.71976
942 | −173.62704 | 22.71613
943 | −173.66290 | 22.71283
944 | −173.69879 | 22.70985
945 | −173.73471 | 22.70720
946 | −173.77065 | 22.70487
947 | −173.80661 | 22.70286
948 | −173.84260 | 22.70118
949 | −173.87860 | 22.69983
950 | −173.91461 | 22.69880
951 | −173.95063 | 22.69810
952 | −173.98666 | 22.69772
953 | −174.02268 | 22.69767
954 | −174.05871 | 22.69794
955 | −174.09473 | 22.69854
956 | −174.13075 | 22.69947
957 | −174.16675 | 22.70072
958 | −174.20274 | 22.70229
959 | −174.23871 | 22.70419
960 | −174.27466 | 22.70642
961 | −174.31059 | 22.70897
962 | −174.34649 | 22.71185
963 | −174.38235 | 22.71504
964 | −174.41819 | 22.71857
965 | −174.45398 | 22.72242
966 | −174.48974 | 22.72659
967 | −174.52545 | 22.73108
968 | −174.56111 | 22.73589
969 | −174.59672 | 22.74103
970 | −174.63227 | 22.74649
971 | −174.66777 | 22.75227
972 | −174.70321 | 22.75837
973 | −174.73859 | 22.76479
974 | −174.77389 | 22.77153
975 | −174.82672 | 22.78224
976 | −174.86184 | 22.78978
977 | −174.89689 | 22.79763
978 | −174.93185 | 22.80580
979 | −174.96673 | 22.81429
980 | −175.00151 | 22.82309
981 | −175.03621 | 22.83220
982 | −175.07081 | 22.84163
983 | −175.10531 | 22.85136
984 | −175.13972 | 22.86141
985 | −175.17401 | 22.87177
986 | −175.20820 | 22.88244
987 | −175.24228 | 22.89342
988 | −175.27624 | 22.90471
989 | −175.31009 | 22.91630
990 | −175.34381 | 22.92820
991 | −175.37741 | 22.94040
992 | −175.41089 | 22.95290
993 | −175.44423 | 22.96571
994 | −175.47744 | 22.97882
995 | −175.51051 | 22.99222
996 | −175.54345 | 23.00593
997 | −175.57624 | 23.01993
998 | −175.60888 | 23.03422
999 | −175.64138 | 23.04881
1000 | −175.67372 | 23.06370
1001 | −175.70591 | 23.07887
1002 | −175.73795 | 23.09434
1003 | −175.76982 | 23.11009
1004 | −175.81731 | 23.13426
1005 | −175.84877 | 23.15073
1006 | −175.88005 | 23.16748
1007 | −175.91116 | 23.18451
1008 | −175.94209 | 23.20183
1009 | −175.98815 | 23.22832
1010 | −176.01862 | 23.24633
1011 | −176.04891 | 23.26461
1012 | −176.09398 | 23.29254
1013 | −176.12379 | 23.31150
1014 | −176.15339 | 23.33073
1015 | −176.18280 | 23.35022
1016 | −176.21200 | 23.36998
1017 | −176.25542 | 23.40011
1018 | −176.28410 | 23.42052
1019 | −176.31256 | 23.44119
1020 | −176.35486 | 23.47268
1021 | −176.38278 | 23.49399
1022 | −176.41048 | 23.51554
1023 | −176.43795 | 23.53735
1024 | −176.46520 | 23.55940
1025 | −176.50563 | 23.59294
1026 | −176.53229 | 23.61560
1027 | −176.55872 | 23.63850
1028 | −176.59790 | 23.67330
1029 | −176.62372 | 23.69679
1030 | −176.66199 | 23.73246
1031 | −176.68719 | 23.75653
1032 | −176.71213 | 23.78082
1033 | −176.73682 | 23.80534
1034 | −176.76125 | 23.83007
1035 | −176.78542 | 23.85503
1036 | −176.80933 | 23.88021
1037 | −176.83297 | 23.90559
1038 | −176.85635 | 23.93119
1039 | −176.87945 | 23.95700
1040 | −176.90229 | 23.98302
1041 | −176.93602 | 24.02243
1042 | −176.96913 | 24.06229
1043 | −176.99085 | 24.08911
1044 | −177.01229 | 24.11613
1045 | −177.03344 | 24.14334
1046 | −177.06462 | 24.18450
1047 | −177.08505 | 24.21218
1048 | −177.10518 | 24.24004
1049 | −177.12502 | 24.26808
1050 | −177.14456 | 24.29630
1051 | −177.17331 | 24.33895
1052 | −177.19210 | 24.36760
1053 | −177.21058 | 24.39642
1054 | −177.22875 | 24.42540
1055 | −177.25544 | 24.46918
1056 | −177.27284 | 24.49856
1057 | −177.28992 | 24.52810
1058 | −177.30670 | 24.55779
1059 | −177.32315 | 24.58763
1060 | −177.33929 | 24.61762
1061 | −177.36249 | 24.66210
1062 | −177.38606 | 24.67081
1063 | −177.41985 | 24.68359
1064 | −177.45352 | 24.69667
1065 | −177.48704 | 24.71005
1066 | −177.53706 | 24.73067
1067 | −177.57023 | 24.74479
1068 | −177.60325 | 24.75920
1069 | −177.63612 | 24.77391
1070 | −177.66883 | 24.78890
1071 | −177.71760 | 24.81194
1072 | −177.74992 | 24.82767
1073 | −177.78207 | 24.84367
1074 | −177.81404 | 24.85997
1075 | −177.83690 | 24.87185
1076 | −177.88667 | 24.87745
1077 | −177.94111 | 24.88429
1078 | −177.97195 | 24.88850
1079 | −177.99642 | 24.89200
1080 | −178.05062 | 24.90028
1081 | −178.10469 | 24.90929
1082 | −178.14066 | 24.91569
1083 | −178.16577 | 24.92034
1084 | −178.21953 | 24.93078
1085 | −178.27313 | 24.94194
1086 | −178.32655 | 24.95380
1087 | −178.37978 | 24.96637
1088 | −178.43281 | 24.97965
1089 | −178.48563 | 24.99363
1090 | −178.53822 | 25.00832
1091 | −178.59058 | 25.02370
1092 | −178.61445 | 25.03096
1093 | −178.64360 | 25.04005
1094 | −178.67821 | 25.05115
1095 | −178.70077 | 25.05859
1096 | −178.72148 | 25.06052
1097 | −178.75794 | 25.06420
1098 | −178.81257 | 25.07031
1099 | −178.86732 | 25.07718
1100 | −178.90360 | 25.08214
1101 | −178.93984 | 25.08742
1102 | −178.98140 | 25.09383
1103 | −179.01755 | 25.09959
1104 | −179.07166 | 25.10883
1105 | −179.10765 | 25.11539
1106 | −179.14357 | 25.12227
1107 | −179.19731 | 25.13318
1108 | −179.25088 | 25.14480
1109 | −179.28649 | 25.15295
1110 | −179.32201 | 25.16141
1111 | −179.35744 | 25.17018
1112 | −179.38198 | 25.17642
1113 | −179.43515 | 25.19048
1114 | −179.47030 | 25.20018
1115 | −179.50534 | 25.21020
1116 | −179.55771 | 25.22581
1117 | −179.60982 | 25.24211
1118 | −179.66167 | 25.25910
1119 | −179.69609 | 25.27081
1120 | −179.73039 | 25.28283
1121 | −179.76456 | 25.29514
1122 | −179.79860 | 25.30776
1123 | −179.83251 | 25.32068
1124 | −179.86628 | 25.33389
1125 | −179.89991 | 25.34741
1126 | −179.93340 | 25.36122
1127 | −179.96674 | 25.37533
1128 | −180.00000 | 25.38976

Appendix B to Subpart W of Part 922—Coordinates for the Outer Sanctuary Zone

[Coordinates listed in this appendix are unprojected (Geographic) and based on the North American Datum of 1983]

The boundaries for the areas listed in this appendix, unless otherwise described in this rule, begin at Point 1 as indicated in the particular area's coordinate table and continue to each successive point in numerical order until ending at the last point in the table.

Point No. | Longitude | Latitude
1 | 180.00000 | 25.38976
2 | 179.99985 | 25.38982
3 | 179.96681 | 25.40451
4 | 179.93392 | 25.41950
5 | 179.90119 | 25.43477
6 | 179.86863 | 25.45034
7 | 179.83622 | 25.46619
8 | 179.78793 | 25.49050
9 | 179.75595 | 25.50707
10 | 179.72415 | 25.52391
11 | 179.69252 | 25.54104
12 | 179.66108 | 25.55844
13 | 179.62981 | 25.57612
14 | 179.59874 | 25.59408
15 | 179.56786 | 25.61231
16 | 179.53716 | 25.63081
17 | 179.50667 | 25.64959
18 | 179.47637 | 25.66863
19 | 179.44627 | 25.68794
20 | 179.41638 | 25.70751
21 | 179.38670 | 25.72735
22 | 179.35722 | 25.74745
23 | 179.32796 | 25.76781
24 | 179.28448 | 25.79883
25 | 179.25576 | 25.81983
26 | 179.22255 | 25.84463
27 | 179.18175 | 25.87583
28 | 179.15383 | 25.89770
29 | 179.12613 | 25.91982
30 | 179.09868 | 25.94218
31 | 179.07146 | 25.96479
32 | 179.03108 | 25.99915
33 | 179.00447 | 26.02235
34 | 178.97810 | 26.04578
35 | 178.93902 | 26.08137
36 | 178.91329 | 26.10537
37 | 178.88781 | 26.12961
38 | 178.86259 | 26.15407
39 | 178.82525 | 26.19117
40 | 178.80068 | 26.21618
41 | 178.77639 | 26.24141
42 | 178.75236 | 26.26685
43 | 178.71684 | 26.30540
44 | 178.69349 | 26.33136
45 | 178.65901 | 26.37068
46 | 178.63637 | 26.39715
47 | 178.61378 | 26.42409
48 | 178.59171 | 26.45096
49 | 178.56993 | 26.47801
50 | 178.54844 | 26.50526
51 | 178.52724 | 26.53270
52 | 178.49600 | 26.57420
53 | 178.46544 | 26.61611
54 | 178.44544 | 26.64427
55 | 178.41601 | 26.68685
56 | 178.39677 | 26.71544
57 | 178.37784 | 26.74421
58 | 178.35922 | 26.77314
59 | 178.34092 | 26.80223
60 | 178.30653 | 26.85803
61 | 178.28885 | 26.88744
62 | 178.26293 | 26.93184
63 | 178.24606 | 26.96164
64 | 178.22951 | 26.99158
65 | 178.21329 | 27.02166
66 | 178.19632 | 27.05394
67 | 178.17402 | 27.09775
68 | 178.15895 | 27.12831
69 | 178.14422 | 27.15901
70 | 178.12274 | 27.20530
71 | 178.10884 | 27.23631
72 | 178.08864 | 27.28305
73 | 178.06920 | 27.33006
74 | 178.05667 | 27.36154
75 | 178.03853 | 27.40896
76 | 178.02687 | 27.44071
77 | 178.01003 | 27.48851
78 | 177.99924 | 27.52051
79 | 177.98881 | 27.55259
80 | 177.97873 | 27.58477
81 | 177.96901 | 27.61703
82 | 177.95509 | 27.66559
83 | 177.94198 | 27.71432
84 | 177.93368 | 27.74690
85 | 177.92568 | 27.77984
86 | 177.91811 | 27.81256
87 | 177.90744 | 27.86176
88 | 177.90079 | 27.89464
89 | 177.89149 | 27.94406
90 | 177.88574 | 27.97707
91 | 177.88037 | 28.01014
92 | 177.87300 | 28.05982
93 | 177.86647 | 28.10958
94 | 177.86258 | 28.14281
95 | 177.85744 | 28.19271
96 | 177.85448 | 28.22601
97 | 177.85073 | 28.27601
98 | 177.84871 | 28.30936
99 | 177.84706 | 28.34273
100 | 177.84529 | 28.39281
101 | 177.84437 | 28.44291
102 | 177.84422 | 28.47631
103 | 177.84445 | 28.50971
104 | 177.84551 | 28.55981
105 | 177.84670 | 28.59348
106 | 177.84844 | 28.63098
107 | 177.85148 | 28.68101
108 | 177.85399 | 28.71434
109 | 177.85761 | 28.75561
110 | 177.86197 | 28.79830
111 | 177.86786 | 28.84813
112 | 177.87226 | 28.88131
113 | 177.87543 | 28.90359
114 | 177.87967 | 28.93174
115 | 177.88514 | 28.96554
116 | 177.89133 | 29.00123
117 | 177.90063 | 29.05066
118 | 177.90735 | 29.08379
119 | 177.91806 | 29.13300
120 | 177.92568 | 29.16572
121 | 177.93780 | 29.21468
122 | 177.94636 | 29.24723
123 | 177.95989 | 29.29590
124 | 177.96959 | 29.32896
125 | 177.97946 | 29.36123
126 | 177.98970 | 29.39340
127 | 178.00575 | 29.44148
128 | 178.01692 | 29.47341
129 | 178.03438 | 29.52113
130 | 178.04647 | 29.55280
131 | 178.06531 | 29.60012
132 | 178.08497 | 29.64717
133 | 178.09853 | 29.67840
134 | 178.11268 | 29.71000
135 | 178.13426 | 29.75642
136 | 178.15665 | 29.80255
137 | 178.17203 | 29.83313
138 | 178.19577 | 29.87875
139 | 178.21216 | 29.90921
140 | 178.22879 | 29.93930
141 | 178.25439 | 29.98416
142 | 178.27525 | 30.01949
143 | 178.29311 | 30.04905
144 | 178.31861 | 30.09002
145 | 178.34009 | 30.12350
146 | 178.35931 | 30.15271
147 | 178.38857 | 30.19588
148 | 178.41018 | 30.22681
149 | 178.43934 | 30.26737
150 | 178.47063 | 30.30946
151 | 178.49239 | 30.33792
152 | 178.51400 | 30.36556
153 | 178.54703 | 30.40666
154 | 178.57973 | 30.44608
155 | 178.60482 | 30.47552
156 | 178.62805 | 30.50217
157 | 178.65341 | 30.53062
158 | 178.68811 | 30.56854
159 | 178.71589 | 30.59815
160 | 178.75298 | 30.63662
161 | 178.77809 | 30.66199
162 | 178.80351 | 30.68714
163 | 178.84220 | 30.72443
164 | 178.88157 | 30.76121
165 | 178.90818 | 30.78543
166 | 178.94864 | 30.82133
167 | 178.97598 | 30.84496
168 | 179.00360 | 30.86835
169 | 179.04556 | 30.90298
170 | 179.07393 | 30.92578
171 | 179.11693 | 30.95947
172 | 179.14594 | 30.98161
173 | 179.18995 | 31.01433
174 | 179.21963 | 31.03582
175 | 179.26462 | 31.06757
176 | 179.29516 | 31.08855
177 | 179.34112 | 31.11929
178 | 179.38763 | 31.14941
179 | 179.41894 | 31.16915
180 | 179.45050 | 31.18861
181 | 179.49827 | 31.21728
182 | 179.54657 | 31.24532
183 | 179.57905 | 31.26365
184 | 179.61792 | 31.28512
185 | 179.65085 | 31.30287
186 | 179.70065 | 31.32895
187 | 179.73411 | 31.34597
188 | 179.77707 | 31.36728
189 | 179.81095 | 31.38371
190 | 179.86214 | 31.40779
191 | 179.89652 | 31.42346
192 | 179.94844 | 31.44640
193 | 179.98329 | 31.46131
194 | −180.00000 | 31.46823
195 | −179.96410 | 31.48309
196 | −179.92880 | 31.49723
197 | −179.89333 | 31.51105
198 | −179.83980 | 31.53119
199 | −179.78591 | 31.55062
200 | −179.74978 | 31.56318
201 | −179.71350 | 31.57542
202 | −179.65880 | 31.59317
203 | −179.62215 | 31.60460
204 | −179.56691 | 31.62114
205 | −179.51138 | 31.63695
206 | −179.47371 | 31.64721
207 | −179.41770 | 31.66178
208 | −179.38021 | 31.67109
209 | −179.33210 | 31.68252
210 | −179.28243 | 31.69383
211 | −179.23675 | 31.70369
212 | −179.19878 | 31.71149
213 | −179.16071 | 31.71896
214 | −179.10344 | 31.72953
215 | −179.06516 | 31.73615
216 | −179.00758 | 31.74546
217 | −178.94983 | 31.75399
218 | −178.90738 | 31.75980
219 | −178.86874 | 31.76473
220 | −178.82975 | 31.76934
221 | −178.79099 | 31.77358
222 | −178.75218 | 31.77748
223 | −178.71331 | 31.78104
224 | −178.67441 | 31.78425
225 | −178.63547 | 31.78712
226 | −178.59650 | 31.78964
227 | −178.55749 | 31.79182
228 | −178.51846 | 31.79366
229 | −178.47941 | 31.79515
230 | −178.43412 | 31.79649
231 | −178.39504 | 31.79729
232 | −178.35596 | 31.79775
233 | −178.32396 | 31.79786
234 | −178.28487 | 31.79769
235 | −178.24552 | 31.79717
236 | −178.20645 | 31.79631
237 | −178.16738 | 31.79510
238 | −178.12834 | 31.79355
239 | −178.08931 | 31.79165
240 | −178.05031 | 31.78940
241 | −178.01134 | 31.78682
242 | −177.97241 | 31.78389
243 | −177.93351 | 31.78061
244 | −177.89466 | 31.77699
245 | −177.85585 | 31.77303
246 | −177.81646 | 31.76865
247 | −177.77776 | 31.76401
248 | −177.73912 | 31.75902
249 | −177.70055 | 31.75369
250 | −177.66205 | 31.74802
251 | −177.62362 | 31.74202
252 | −177.58526 | 31.73567
253 | −177.54140 | 31.72800
254 | −177.50321 | 31.72097
255 | −177.46512 | 31.71361
256 | −177.42712 | 31.70592
257 | −177.38921 | 31.69788
258 | −177.35141 | 31.68952
259 | −177.31372 | 31.68082
260 | −177.27613 | 31.67179
261 | −177.23866 | 31.66242
262 | −177.20131 | 31.65273
263 | −177.16094 | 31.64185
264 | −177.12384 | 31.63150
265 | −177.08687 | 31.62082
266 | −177.04995 | 31.60978
267 | −176.99406 | 31.60543
268 | −176.95227 | 31.60174
269 | −176.91351 | 31.59795
270 | −176.87481 | 31.59382
271 | −176.83616 | 31.58934
272 | −176.79756 | 31.58453
273 | −176.73979 | 31.57666
274 | −176.70136 | 31.57100
275 | −176.66300 | 31.56499
276 | −176.60561 | 31.55534
277 | −176.56718 | 31.54844
278 | −176.52911 | 31.54125
279 | −176.49114 | 31.53372
280 | −176.45325 | 31.52586
281 | −176.41282 | 31.51708
282 | −176.37095 | 31.50759
283 | −176.33338 | 31.49873
284 | −176.29414 | 31.48910
285 | −176.23818 | 31.47469
286 | −176.20102 | 31.46467
287 | −176.14552 | 31.44902
288 | −176.10869 | 31.43818
289 | −176.07199 | 31.42701
290 | −176.03543 | 31.41553
291 | −175.99902 | 31.40371
292 | −175.94468 | 31.38539
293 | −175.90865 | 31.37278
294 | −175.87278 | 31.35985
295 | −175.83644 | 31.34637
296 | −175.80089 | 31.33281
297 | −175.76551 | 31.31893
298 | −175.72777 | 31.30370
299 | −175.67361 | 31.30264
300 | −175.62462 | 31.30118
301 | −175.58577 | 31.29962
302 | −175.56300 | 31.29856
303 | −175.50480 | 31.29533
304 | −175.44667 | 31.29132
305 | −175.38861 | 31.28654
306 | −175.33066 | 31.28099
307 | −175.27281 | 31.27467
308 | −175.21509 | 31.26757
309 | −175.15434 | 31.25928
310 | −175.10019 | 31.25117
311 | −175.05021 | 31.24316
312 | −174.99307 | 31.23327
313 | −174.93613 | 31.22261
314 | −174.87938 | 31.21120
315 | −174.82112 | 31.19865
316 | −174.78357 | 31.19012
317 | −174.74613 | 31.18126
318 | −174.69017 | 31.16735
319 | −174.65301 | 31.15766
320 | −174.61598 | 31.14765
321 | −174.57907 | 31.13730
322 | −174.54229 | 31.12663
323 | −174.48737 | 31.11001
324 | −174.43277 | 31.09266
325 | −174.39656 | 31.08069
326 | −174.36049 | 31.06840
327 | −174.32457 | 31.05579
328 | −174.28881 | 31.04287
329 | −174.25322 | 31.02962
330 | −174.21779 | 31.01607
331 | −174.16782 | 30.99630
332 | −174.12317 | 30.97807
333 | −174.08835 | 30.96342
334 | −174.03646 | 30.94087
335 | −174.00210 | 30.92545
336 | −173.95092 | 30.90176
337 | −173.91394 | 30.88410
338 | −173.88027 | 30.86763
339 | −173.83014 | 30.84236
340 | −173.79699 | 30.82515
341 | −173.74828 | 30.79912
342 | −173.71286 | 30.77965
343 | −173.67333 | 30.75735
344 | −173.63202 | 30.73338
345 | −173.60020 | 30.71444
346 | −173.56860 | 30.69522
347 | −173.52165 | 30.66586
348 | −173.49065 | 30.64594
349 | −173.45306 | 30.62120
350 | −173.40817 | 30.59091
351 | −173.37804 | 30.57004
352 | −173.34479 | 30.54651
353 | −173.30046 | 30.51431
354 | −173.25673 | 30.48153
355 | −173.22791 | 30.45935
356 | −173.19936 | 30.43692
357 | −173.15960 | 30.40490
358 | −173.12000 | 30.37227
359 | −173.09241 | 30.34897
360 | −173.06512 | 30.32542
361 | −173.02470 | 30.28965
362 | −172.98494 | 30.25335
363 | −172.95880 | 30.22886
364 | −172.93295 | 30.20413
365 | −172.89474 | 30.16662
366 | −172.85721 | 30.12860
367 | −172.83096 | 30.10131
368 | −172.79458 | 30.06247
369 | −172.77072 | 30.03631
370 | −172.74717 | 30.00995
371 | −172.71244 | 29.97001
372 | −172.67843 | 29.92961
373 | −172.65616 | 29.90243
374 | −172.62336 | 29.86129
375 | −172.60190 | 29.83362
376 | −172.57892 | 29.80334
377 | −172.55812 | 29.77530
378 | −172.52756 | 29.73290
379 | −172.50760 | 29.70441
380 | −172.48798 | 29.67574
381 | −172.46870 | 29.64690
382 | −172.44976 | 29.61789
383 | −172.42200 | 29.57406
384 | −172.40392 | 29.54464
385 | −172.37746 | 29.50021
386 | −172.35178 | 29.45544
387 | −172.33510 | 29.42540
388 | −172.31074 | 29.38007
389 | −172.29495 | 29.34967
390 | −172.27193 | 29.30382
391 | −172.25702 | 29.27308
392 | −172.23535 | 29.22673
393 | −172.22135 | 29.19567
394 | −172.20103 | 29.14885
395 | −172.18794 | 29.11749
396 | −172.18269 | 29.10461
397 | −172.14425 | 29.10857
398 | −172.10644 | 29.11211
399 | −172.06858 | 29.11531
400 | −172.01172 | 29.11948
401 | −171.95480 | 29.12286
402 | −171.91682 | 29.12469
403 | −171.87882 | 29.12618
404 | −171.82179 | 29.12776
405 | −171.78376 | 29.12839
406 | −171.73360 | 29.12869
407 | −171.67655 | 29.12830
408 | −171.63852 | 29.12761
409 | −171.60049 | 29.12658
410 | −171.54349 | 29.12439
411 | −171.50552 | 29.12250
412 | −171.45928 | 29.11977
413 | −171.42136 | 29.11719
414 | −171.38347 | 29.11427
415 | −171.32671 | 29.10925
416 | −171.28892 | 29.10547
417 | −171.25118 | 29.10135
418 | −171.21350 | 29.09689
419 | −171.17551 | 29.09204
420 | −171.13794 | 29.08690
421 | −171.10043 | 29.08142
422 | −171.04430 | 29.07256
423 | −171.00697 | 29.06623
424 | −170.96972 | 29.05956
425 | −170.93255 | 29.05256
426 | −170.89547 | 29.04522
427 | −170.85848 | 29.03755
428 | −170.82159 | 29.02954
429 | −170.78479 | 29.02120
430 | −170.74809 | 29.01253
431 | −170.69325 | 28.99890
432 | −170.65683 | 28.98940
433 | −170.60242 | 28.97453
434 | −170.56630 | 28.96421
435 | −170.53030 | 28.95356
436 | −170.49444 | 28.94259
437 | −170.44089 | 28.92552
438 | −170.40537 | 28.91374
439 | −170.36999 | 28.90164
440 | −170.33476 | 28.88922
441 | −170.29968 | 28.87648
442 | −170.24735 | 28.85678
443 | −170.21266 | 28.84325
444 | −170.16441 | 28.82380
445 | −170.11868 | 28.81843
446 | −170.06241 | 28.81110
447 | −170.00627 | 28.80301
448 | −169.95029 | 28.79415
449 | −169.89448 | 28.78454
450 | −169.85736 | 28.77770
451 | −169.80186 | 28.76683
452 | −169.74655 | 28.75519
453 | −169.69147 | 28.74281
454 | −169.63661 | 28.72968
455 | −169.60017 | 28.72051
456 | −169.54573 | 28.70614
457 | −169.49155 | 28.69103
458 | −169.45559 | 28.68055
459 | −169.40188 | 28.66422
460 | −169.34847 | 28.64716
461 | −169.29538 | 28.62937
462 | −169.24262 | 28.61087
463 | −169.19019 | 28.59165
464 | −169.13811 | 28.57172
465 | −169.08640 | 28.55108
466 | −169.03506 | 28.52974
467 | −169.00106 | 28.51513
468 | −168.95037 | 28.49264
469 | −168.90010 | 28.46945
470 | −168.85025 | 28.44559
471 | −168.81726 | 28.42931
472 | −168.76813 | 28.40432
473 | −168.71946 | 28.37867
474 | −168.67125 | 28.35237
475 | −168.62352 | 28.32541
476 | −168.58344 | 28.30203
477 | −168.53902 | 28.30813
478 | −168.48296 | 28.31510
479 | −168.42677 | 28.32131
480 | −168.37049 | 28.32675
481 | −168.33291 | 28.32995
482 | −168.27648 | 28.33411
483 | −168.21998 | 28.33750
484 | −168.16342 | 28.34011
485 | −168.10683 | 28.34195
486 | −168.05021 | 28.34302
487 | −168.00043 | 28.34332
488 | −167.94380 | 28.34293
489 | −167.88718 | 28.34177
490 | −167.83059 | 28.33984
491 | −167.77404 | 28.33713
492 | −167.73621 | 28.33489
493 | −167.67976 | 28.33089
494 | −167.62339 | 28.32613
495 | −167.56712 | 28.32059
496 | −167.51095 | 28.31429
497 | −167.45490 | 28.30722
498 | −167.39898 | 28.29939
499 | −167.34321 | 28.29079
500 | −167.30612 | 28.28464
501 | −167.25063 | 28.27477
502 | −167.21374 | 28.26778
503 | −167.15856 | 28.25665
504 | −167.10359 | 28.24478
505 | −167.04883 | 28.23215
506 | −166.99432 | 28.21878
507 | −166.94004 | 28.20466
508 | −166.88603 | 28.18981
509 | −166.85017 | 28.17950
510 | −166.81444 | 28.16886
511 | −166.79269 | 28.16221
512 | −166.76001 | 28.15196
513 | −166.72461 | 28.14051
514 | −166.68934 | 28.12874
515 | −166.65422 | 28.11665
516 | −166.61924 | 28.10424
517 | −166.58441 | 28.09152
518 | −166.54974 | 28.07847
519 | −166.51522 | 28.06511
520 | −166.48086 | 28.05144
521 | −166.42964 | 28.03034
522 | −166.39570 | 28.01589
523 | −166.36193 | 28.00113
524 | −166.31162 | 27.97842
525 | −166.27830 | 27.96290
526 | −166.24517 | 27.94707
527 | −166.21223 | 27.93095
528 | −166.17948 | 27.91452
529 | −166.14693 | 27.89780
530 | −166.11458 | 27.88078
531 | −166.06622 | 27.85459
532 | −166.03438 | 27.83684
533 | −166.00275 | 27.81881
534 | −165.97134 | 27.80048
535 | −165.94014 | 27.78187
536 | −165.90917 | 27.76298
537 | −165.87842 | 27.74381
538 | −165.83251 | 27.71439
539 | −165.80234 | 27.69452
540 | −165.77240 | 27.67438
541 | −165.74242 | 27.65378
542 | −165.71296 | 27.63310
543 | −165.68375 | 27.61215
544 | −165.65478 | 27.59094
545 | −165.62607 | 27.56946
546 | −165.59760 | 27.54773
547 | −165.56939 | 27.52573
548 | −165.54144 | 27.50348
549 | −165.50001 | 27.46963
550 | −165.47272 | 27.44675
551 | −165.44570 | 27.42363
552 | −165.41895 | 27.40026
553 | −165.39248 | 27.37664
554 | −165.36628 | 27.35279
555 | −165.34036 | 27.32870
556 | −165.30201 | 27.29213
557 | −165.27680 | 27.26746
558 | −165.25188 | 27.24255
559 | −165.21504 | 27.20478
560 | −165.19085 | 27.17932
561 | −165.16695 | 27.15365
562 | −165.14335 | 27.12775
563 | −165.12006 | 27.10165
564 | −165.09707 | 27.07533
565 | −165.07732 | 27.05226
566 | −165.03132 | 27.03829
567 | −164.99614 | 27.02718
568 | −164.96109 | 27.01574
569 | −164.90877 | 26.99799
570 | −164.85677 | 26.97951
571 | −164.82201 | 26.96670
572 | −164.70700 | 26.92271
573 | −164.68299 | 26.92268
574 | −164.64572 | 26.92233
575 | −164.58983 | 26.92118
576 | −164.55259 | 26.91997
577 | −164.51536 | 26.91843
578 | −164.45955 | 26.91547
579 | −164.40380 | 26.91174
580 | −164.34813 | 26.90724
581 | −164.29254 | 26.90197
582 | −164.25554 | 26.89803
583 | −164.21858 | 26.89375
584 | −164.16325 | 26.88669
585 | −164.10804 | 26.87887
586 | −164.05299 | 26.87029
587 | −164.01637 | 26.86414
588 | −163.97983 | 26.85766
589 | −163.92516 | 26.84731
590 | −163.87068 | 26.83620
591 | −163.81641 | 26.82434
592 | −163.78034 | 26.81602
593 | −163.74438 | 26.80737
594 | −163.69063 | 26.79377
595 | −163.63712 | 26.77943
596 | −163.58387 | 26.76435
597 | −163.54853 | 26.75389
598 | −163.51331 | 26.74311
599 | −163.46071 | 26.72632
600 | −163.40842 | 26.70881
601 | −163.35645 | 26.69058
602 | −163.30480 | 26.67164
603 | −163.27056 | 26.65861
604 | −163.21948 | 26.63848
605 | −163.16876 | 26.61765
606 | −163.13516 | 26.60338
607 | −163.08506 | 26.58138
608 | −163.03536 | 26.55870
609 | −163.00000 | 26.54202
610 | −163.00000 | 24.11409
611 | −164.53740 | 24.39976
612 | −165.58333 | 24.59413
613 | −166.05600 | 24.68197
614 | −166.75000 | 25.17393
615 | −167.32998 | 25.58506
616 | −167.44143 | 25.66407
617 | −167.61200 | 25.78498
618 | −167.80596 | 25.81664
619 | −167.96475 | 25.84257
620 | −170.38404 | 26.23759
621 | −171.41934 | 26.55588
622 | −171.45849 | 26.56791
623 | −171.51400 | 26.58498
624 | −171.56405 | 26.59157
625 | −171.62846 | 26.60005
626 | −173.51320 | 26.84822
627 | −175.00000 | 28.26784
628 | −175.17766 | 28.43748
629 | −175.32900 | 28.58198
630 | −175.57260 | 28.64457
631 | −175.59127 | 28.64937
632 | −177.12157 | 29.04257
633 | −177.20130 | 29.05797
634 | −178.14636 | 29.24060
635 | −178.20545 | 29.24908
636 | −178.26503 | 29.25427
637 | −178.32487 | 29.25614
638 | −178.38473 | 29.25468
639 | −178.44436 | 29.24991
640 | −178.50352 | 29.24183
641 | −178.56197 | 29.23049
642 | −178.61949 | 29.21593
643 | −178.67583 | 29.19820
644 | −178.73077 | 29.17738
645 | −178.78409 | 29.15356
646 | −178.83557 | 29.12682
647 | −178.88501 | 29.09728
648 | −178.93222 | 29.06506
649 | −178.97700 | 29.03028
650 | −179.01917 | 28.99308
651 | −179.05858 | 28.95361
652 | −179.09506 | 28.91204
653 | −179.12848 | 28.86852
654 | −179.15870 | 28.82324
655 | −179.18560 | 28.77636
656 | −179.20909 | 28.72809
657 | −179.22907 | 28.67861
658 | −179.24548 | 28.62811
659 | −179.25824 | 28.57681
660 | −179.26732 | 28.52490
661 | −179.27269 | 28.47258
662 | −179.27400 | 28.43037
663 | −179.27432 | 28.42008
664 | −179.27400 | 28.41208
665 | −179.27222 | 28.36758
666 | −179.26640 | 28.31530
667 | −179.25689 | 28.26345
668 | −179.24374 | 28.21223
669 | −179.22699 | 28.16184
670 | −179.20673 | 28.11247
671 | −179.18302 | 28.06433
672 | −179.15598 | 28.01760
673 | −179.12572 | 27.97246
674 | −179.09234 | 27.92909
675 | −179.05599 | 27.88765
676 | −179.01681 | 27.84832
677 | −178.97496 | 27.81123
678 | −178.93061 | 27.77654
679 | −178.88391 | 27.74438
680 | −178.83507 | 27.71488
681 | −178.78427 | 27.68814
682 | −178.73170 | 27.66428
683 | −178.67758 | 27.64338
684 | −178.62211 | 27.62552
685 | −178.56551 | 27.61078
686 | −178.49843 | 27.59784
687 | −177.55523 | 27.41586
688 | −176.49794 | 27.24611
689 | −175.00000 | 25.83069
690 | −174.41400 | 25.27697
691 | −171.83651 | 24.93729
692 | −170.86958 | 24.62936
693 | −170.83964 | 24.61983
694 | −170.79300 | 24.60497
695 | −170.73999 | 24.59633
696 | −168.38105 | 24.21167
697 | −168.38083 | 24.21163
698 | −168.38072 | 24.21155
699 | −166.79085 | 23.09144
700 | −166.75000 | 23.06265
701 | −166.60000 | 22.95697
702 | −166.38872 | 22.93221
703 | −166.32723 | 22.92501
704 | −165.58333 | 22.83782
705 | −164.86038 | 22.75309
706 | −163.00000 | 22.40727
707 | −163.00000 | 19.23458
708 | −163.02954 | 19.26137
709 | −163.05474 | 19.28472
710 | −163.07970 | 19.30831
711 | −163.10443 | 19.33213
712 | −163.12891 | 19.35619
713 | −163.15314 | 19.38047
714 | −163.18902 | 19.41731
715 | −163.21262 | 19.44214
716 | −163.23597 | 19.46720
717 | −163.25906 | 19.49247
718 | −163.28189 | 19.51796
719 | −163.31564 | 19.55659
720 | −163.33781 | 19.58261
721 | −163.35971 | 19.60883
722 | −163.38134 | 19.63525
723 | −163.41328 | 19.67526
724 | −163.43423 | 19.70218
725 | −163.45489 | 19.72929
726 | −163.47678 | 19.75859
727 | −163.49689 | 19.78608
728 | −163.51671 | 19.81376
729 | −163.54591 | 19.85563
730 | −163.56501 | 19.88376
731 | −163.58383 | 19.91207
732 | −163.60235 | 19.94056
733 | −163.62957 | 19.98361
734 | −163.64735 | 20.01252
735 | −163.66483 | 20.04159
736 | −163.68201 | 20.07082
737 | −163.69888 | 20.10022
738 | −163.71545 | 20.12977
739 | −163.73841 | 20.17193
740 | −163.75664 | 20.18197
741 | −163.78708 | 20.19906
742 | −163.81734 | 20.21644
743 | −163.84743 | 20.23409
744 | −163.87734 | 20.25202
745 | −163.90706 | 20.27023
746 | −163.93659 | 20.28870
747 | −163.95588 | 20.30099
748 | −163.98535 | 20.29532
749 | −164.02014 | 20.28893
750 | −164.07244 | 20.27996
751 | −164.12487 | 20.27171
752 | −164.17742 | 20.26419
753 | −164.23008 | 20.25739
754 | −164.28284 | 20.25133
755 | −164.33569 | 20.24599
756 | −164.38861 | 20.24139
757 | −164.44159 | 20.23752
758 | −164.49463 | 20.23438
759 | −164.54771 | 20.23197
760 | −164.58106 | 20.23084
761 | −164.60571 | 20.23016
762 | −164.65884 | 20.22922
763 | −164.71217 | 20.22902
764 | −164.74760 | 20.22930
765 | −164.78302 | 20.22990
766 | −164.83614 | 20.23141
767 | −164.88922 | 20.23366
768 | −164.92459 | 20.23557
769 | −164.97761 | 20.23904
770 | −165.01292 | 20.24176
771 | −165.04914 | 20.24489
772 | −165.10200 | 20.25007
773 | −165.13720 | 20.25393
774 | −165.18992 | 20.26033
775 | −165.24253 | 20.26745
776 | −165.27754 | 20.27261
777 | −165.31250 | 20.27808
778 | −165.36483 | 20.28690
779 | −165.41702 | 20.29644
780 | −165.45173 | 20.30321
781 | −165.50401 | 20.31402
782 | −165.54798 | 20.32372
783 | −165.60124 | 20.31609
784 | −165.65391 | 20.30930
785 | −165.70669 | 20.30323
786 | −165.75955 | 20.29790
787 | −165.81249 | 20.29329
788 | −165.86549 | 20.28942
789 | −165.91855 | 20.28628
790 | −165.97164 | 20.28388
791 | −166.02477 | 20.28221
792 | −166.07792 | 20.28127
793 | −166.13108 | 20.28107
794 | −166.18423 | 20.28160
795 | −166.23737 | 20.28288
796 | −166.29049 | 20.28488
797 | −166.34357 | 20.28762
798 | −166.36478 | 20.28892
799 | −166.39682 | 20.29110
800 | −166.43214 | 20.29382
801 | −166.48507 | 20.29852
802 | −166.52032 | 20.30205
803 | −166.57311 | 20.30796
804 | −166.61798 | 20.31350
805 | −166.65308 | 20.31816
806 | −166.70563 | 20.32577
807 | −166.74060 | 20.33125
808 | −166.77552 | 20.33705
809 | −166.82777 | 20.34635
810 | −166.87988 | 20.35637
811 | −166.91453 | 20.36345
812 | −166.94911 | 20.37085
813 | −166.99267 | 20.38061
814 | −167.02709 | 20.38865
815 | −167.07857 | 20.40130
816 | −167.11278 | 20.41012
817 | −167.14689 | 20.41926
818 | −167.19433 | 20.43226
819 | −167.22831 | 20.44187
820 | −167.26218 | 20.45180
821 | −167.29596 | 20.46203
822 | −167.32963 | 20.47258
823 | −167.36319 | 20.48344
824 | −167.39664 | 20.49460
825 | −167.44659 | 20.51193
826 | −167.47975 | 20.52386
827 | −167.51278 | 20.53610
828 | −167.54695 | 20.54913
829 | −167.57973 | 20.56197
830 | −167.61238 | 20.57511
831 | −167.64489 | 20.58856
832 | −167.67726 | 20.60230
833 | −167.70949 | 20.61634
834 | −167.74158 | 20.63068
835 | −167.77351 | 20.64532
836 | −167.80530 | 20.66024
837 | −167.83694 | 20.67546
838 | −167.86841 | 20.69097
839 | −167.91533 | 20.71478
840 | −167.94640 | 20.73101
841 | −167.97731 | 20.74752
842 | −168.00804 | 20.76432
843 | −168.03861 | 20.78140
844 | −168.08412 | 20.80755
845 | −168.11424 | 20.82533
846 | −168.14417 | 20.84338
847 | −168.17392 | 20.86172
848 | −168.20348 | 20.88032
849 | −168.24746 | 20.90873
850 | −168.27653 | 20.92801
851 | −168.31977 | 20.95743
852 | −168.36255 | 20.98744
853 | −168.40487 | 21.01804
854 | −168.43282 | 21.03877
855 | −168.47433 | 21.07033
856 | −168.50174 | 21.09169
857 | −168.54244 | 21.12420
858 | −168.58263 | 21.15727
859 | −168.62230 | 21.19089
860 | −168.66145 | 21.22506
861 | −168.68726 | 21.24813
862 | −168.71283 | 21.27145
863 | −168.75073 | 21.30685
864 | −168.77569 | 21.33075
865 | −168.81266 | 21.36701
866 | −168.83700 | 21.39147
867 | −168.87302 | 21.42858
868 | −168.90847 | 21.46618
869 | −168.93178 | 21.49152
870 | −168.96624 | 21.52992
871 | −168.99177 | 21.55913
872 | −169.02276 | 21.59546
873 | −169.04473 | 21.62184
874 | −169.07716 | 21.66178
875 | −169.09844 | 21.68866
876 | −169.12982 | 21.72934
877 | −169.15039 | 21.75669
878 | −169.18071 | 21.79808
879 | −169.20233 | 21.82840
880 | −169.21703 | 21.84743
881 | −169.23883 | 21.85466
882 | −169.27247 | 21.86611
883 | −169.32272 | 21.88387
884 | −169.37269 | 21.90231
885 | −169.42237 | 21.92143
886 | −169.47175 | 21.94122
887 | −169.52083 | 21.96170
888 | −169.56958 | 21.98284
889 | −169.61800 | 22.00464
890 | −169.66609 | 22.02710
891 | −169.71382 | 22.05022
892 | −169.76119 | 22.07399
893 | −169.80819 | 22.09840
894 | −169.85481 | 22.12345
895 | −169.90103 | 22.14914
896 | −169.94686 | 22.17546
897 | −169.97718 | 22.19335
898 | −170.00653 | 22.21103
899 | −170.05123 | 22.20415
900 | −170.08671 | 22.19907
901 | −170.12224 | 22.19431
902 | −170.15783 | 22.18987
903 | −170.19345 | 22.18575
904 | −170.22911 | 22.18196
905 | −170.28268 | 22.17688
906 | −170.31843 | 22.17390
907 | −170.35421 | 22.17125
908 | −170.39002 | 22.16891
909 | −170.42584 | 22.16691
910 | −170.46169 | 22.16523
911 | −170.51549 | 22.16332
912 | −170.55136 | 22.16245
913 | −170.58725 | 22.16191
914 | −170.62314 | 22.16170
915 | −170.65929 | 22.16181
916 | −170.69518 | 22.16224
917 | −170.73106 | 22.16301
918 | −170.76693 | 22.16410
919 | −170.80279 | 22.16551
920 | −170.83863 | 22.16725
921 | −170.89236 | 22.17047
922 | −170.92815 | 22.17302
923 | −170.96391 | 22.17590
924 | −170.99964 | 22.17910
925 | −171.03533 | 22.18263
926 | −171.07099 | 22.18648
927 | −171.12440 | 22.19286
928 | −171.15995 | 22.19751
929 | −171.19545 | 22.20249
930 | −171.23089 | 22.20780
931 | −171.28396 | 22.21635
932 | −171.33689 | 22.22563
933 | −171.38967 | 22.23563
934 | −171.42477 | 22.24269
935 | −171.47727 | 22.25389
936 | −171.52961 | 22.26579
937 | −171.58175 | 22.27841
938 | −171.63369 | 22.29174
939 | −171.68543 | 22.30577
940 | −171.73694 | 22.32050
941 | −171.78823 | 22.33594
942 | −171.83927 | 22.35207
943 | −171.89005 | 22.36889
944 | −171.94057 | 22.38641
945 | −171.99082 | 22.40461
946 | −172.03998 | 22.42318
947 | −172.09233 | 22.42751
948 | −172.12811 | 22.43088
949 | −172.18170 | 22.43653
950 | −172.21738 | 22.44070
951 | −172.25302 | 22.44519
952 | −172.28861 | 22.45001
953 | −172.32414 | 22.45515
954 | −172.37735 | 22.46346
955 | −172.41274 | 22.46941
956 | −172.46572 | 22.47892
957 | −172.50095 | 22.48567
958 | −172.55366 | 22.49638
959 | −172.58872 | 22.50392
960 | −172.64114 | 22.51582
961 | −172.67599 | 22.52415
962 | −172.71075 | 22.53279
963 | −172.76272 | 22.54635
964 | −172.79725 | 22.55578
965 | −172.83168 | 22.56552
966 | −172.86601 | 22.57558
967 | −172.90023 | 22.58594
968 | −172.95136 | 22.60207
969 | −172.98531 | 22.61320
970 | −173.03602 | 22.63048
971 | −173.08645 | 22.64845
972 | −173.11992 | 22.66081
973 | −173.15325 | 22.67347
974 | −173.18646 | 22.68643
975 | −173.23601 | 22.70643
976 | −173.26888 | 22.72014
977 | −173.30160 | 22.73415
978 | −173.34556 | 22.75354
979 | −173.37723 | 22.74830
980 | −173.41277 | 22.74274
981 | −173.44836 | 22.73750
982 | −173.48400 | 22.73258
983 | −173.51970 | 22.72798
984 | −173.55544 | 22.72371
985 | −173.59122 | 22.71976
986 | −173.62704 | 22.71613
987 | −173.66290 | 22.71283
988 | −173.69879 | 22.70985
989 | −173.73470 | 22.70720
990 | −173.77065 | 22.70487
991 | −173.80661 | 22.70286
992 | −173.84260 | 22.70118
993 | −173.87860 | 22.69983
994 | −173.91461 | 22.69880
995 | −173.95063 | 22.69810
996 | −173.98666 | 22.69772
997 | −174.02268 | 22.69767
998 | −174.05871 | 22.69794
999 | −174.09473 | 22.69854
1000 | −174.13075 | 22.69947
1001 | −174.16675 | 22.70072
1002 | −174.20274 | 22.70229
1003 | −174.23871 | 22.70419
1004 | −174.27466 | 22.70642
1005 | −174.31059 | 22.70897
1006 | −174.34649 | 22.71185
1007 | −174.38235 | 22.71505
1008 | −174.41819 | 22.71857
1009 | −174.45398 | 22.72242
1010 | −174.48974 | 22.72659
1011 | −174.52545 | 22.73108
1012 | −174.56111 | 22.73589
1013 | −174.59672 | 22.74103
1014 | −174.63227 | 22.74649
1015 | −174.66777 | 22.75227
1016 | −174.70321 | 22.75837
1017 | −174.73859 | 22.76479
1018 | −174.77389 | 22.77154
1019 | −174.82672 | 22.78224
1020 | −174.86184 | 22.78978
1021 | −174.89689 | 22.79763
1022 | −174.93185 | 22.80580
1023 | −174.96673 | 22.81429
1024 | −175.00151 | 22.82308
1025 | −175.03621 | 22.83220
1026 | −175.07081 | 22.84163
1027 | −175.10531 | 22.85136
1028 | −175.13972 | 22.86141
1029 | −175.17401 | 22.87178
1030 | −175.20820 | 22.88244
1031 | −175.24228 | 22.89342
1032 | −175.27624 | 22.90471
1033 | −175.31009 | 22.91630
1034 | −175.34381 | 22.92820
1035 | −175.37741 | 22.94040
1036 | −175.41089 | 22.95290
1037 | −175.44423 | 22.96571
1038 | −175.47744 | 22.97882
1039 | −175.51051 | 22.99222
1040 | −175.54345 | 23.00593
1041 | −175.57624 | 23.01993
1042 | −175.60888 | 23.03422
1043 | −175.64138 | 23.04881
1044 | −175.67372 | 23.06370
1045 | −175.70591 | 23.07887
1046 | −175.73795 | 23.09434
1047 | −175.76982 | 23.11009
1048 | −175.81731 | 23.13426
1049 | −175.84877 | 23.15073
1050 | −175.88005 | 23.16748
1051 | −175.91116 | 23.18451
1052 | −175.94209 | 23.20183
1053 | −175.98815 | 23.22832
1054 | −176.01862 | 23.24633
1055 | −176.04891 | 23.26461
1056 | −176.09398 | 23.29254
1057 | −176.12379 | 23.31150
1058 | −176.15339 | 23.33073
1059 | −176.18280 | 23.35022
1060 | −176.21200 | 23.36998
1061 | −176.25542 | 23.40011
1062 | −176.28410 | 23.42053
1063 | −176.31256 | 23.44120
1064 | −176.35486 | 23.47268
1065 | −176.38278 | 23.49399
1066 | −176.41048 | 23.51554
1067 | −176.43795 | 23.53735
1068 | −176.46520 | 23.55940
1069 | −176.50563 | 23.59294
1070 | −176.53229 | 23.61560
1071 | −176.55872 | 23.63850
1072 | −176.59790 | 23.67330
1073 | −176.62372 | 23.69679
1074 | −176.66199 | 23.73246
1075 | −176.68719 | 23.75653
1076 | −176.71213 | 23.78082
1077 | −176.73682 | 23.80534
1078 | −176.76125 | 23.83007
1079 | −176.78542 | 23.85503
1080 | −176.80933 | 23.88021
1081 | −176.83297 | 23.90559
1082 | −176.85635 | 23.93119
1083 | −176.87945 | 23.95700
1084 | −176.90229 | 23.98302
1085 | −176.93602 | 24.02243
1086 | −176.96913 | 24.06229
1087 | −176.99085 | 24.08911
1088 | −177.01229 | 24.11613
1089 | −177.03344 | 24.14334
1090 | −177.06462 | 24.18451
1091 | −177.08505 | 24.21218
1092 | −177.10518 | 24.24004
1093 | −177.12502 | 24.26808
1094 | −177.14456 | 24.29630
1095 | −177.17331 | 24.33895
1096 | −177.19209 | 24.36760
1097 | −177.21058 | 24.39642
1098 | −177.22875 | 24.42540
1099 | −177.25544 | 24.46918
1100 | −177.27284 | 24.49856
1101 | −177.28992 | 24.52810
1102 | −177.30670 | 24.55779
1103 | −177.32315 | 24.58763
1104 | −177.33929 | 24.61762
1105 | −177.36249 | 24.66210
1106 | −177.38606 | 24.67081
1107 | −177.41985 | 24.68359
1108 | −177.45352 | 24.69667
1109 | −177.48704 | 24.71005
1110 | −177.53706 | 24.73067
1111 | −177.57023 | 24.74479
1112 | −177.60325 | 24.75920
1113 | −177.63612 | 24.77391
1114 | −177.66883 | 24.78891
1115 | −177.71760 | 24.81195
1116 | −177.74992 | 24.82767
1117 | −177.78206 | 24.84367
1118 | −177.81404 | 24.85996
1119 | −177.83690 | 24.87185
1120 | −177.88667 | 24.87745
1121 | −177.94111 | 24.88429
1122 | −177.97195 | 24.88850
1123 | −177.99642 | 24.89200
1124 | −178.05062 | 24.90028
1125 | −178.10469 | 24.90929
1126 | −178.14066 | 24.91569
1127 | −178.16577 | 24.92034
1128 | −178.21953 | 24.93078
1129 | −178.27313 | 24.94194
1130 | −178.32655 | 24.95380
1131 | −178.37978 | 24.96637
1132 | −178.43281 | 24.97965
1133 | −178.48563 | 24.99363
1134 | −178.53822 | 25.00832
1135 | −178.59058 | 25.02370
1136 | −178.61445 | 25.03096
1137 | −178.64360 | 25.04005
1138 | −178.67821 | 25.05115
1139 | −178.70077 | 25.05859
1140 | −178.72148 | 25.06052
1141 | −178.75794 | 25.06420
1142 | −178.81257 | 25.07031
1143 | −178.86732 | 25.07718
1144 | −178.90360 | 25.08214
1145 | −178.93984 | 25.08742
1146 | −178.98140 | 25.09382
1147 | −179.01755 | 25.09959
1148 | −179.07166 | 25.10883
1149 | −179.10765 | 25.11539
1150 | −179.14357 | 25.12227
1151 | −179.19731 | 25.13318
1152 | −179.25088 | 25.14480
1153 | −179.28649 | 25.15295
1154 | −179.32201 | 25.16140
1155 | −179.35744 | 25.17018
1156 | −179.38198 | 25.17642
1157 | −179.43516 | 25.19048
1158 | −179.47030 | 25.20018
1159 | −179.50534 | 25.21020
1160 | −179.55770 | 25.22581
1161 | −179.60982 | 25.24211
1162 | −179.66168 | 25.25911
1163 | −179.69610 | 25.27081
1164 | −179.73039 | 25.28283
1165 | −179.76456 | 25.29514
1166 | −179.79860 | 25.30776
1167 | −179.83251 | 25.32068
1168 | −179.86628 | 25.33389
1169 | −179.89991 | 25.34741
1170 | −179.93340 | 25.36122
1171 | −179.96674 | 25.37533
1172 | −180.00000 | 25.38976

Appendix C to Subpart W of Part 922—Coordinates for the Midway Atoll Special Management Area

[Coordinates listed in this appendix are unprojected (Geographic) and based on the North American Datum of 1983]

The boundaries for the areas listed in this appendix, unless otherwise described in this rule, begin at Point 1 as indicated in the particular area's coordinate table and continue to each successive point in numerical order until ending at the last point in the table.

Point No. | Longitude | Latitude
1 | −177.08955 | 28.24843
2 | −177.08746 | 28.20746
3 | −177.08807 | 28.20039
4 | −177.08784 | 28.19413
5 | −177.08714 | 28.18773
6 | −177.08675 | 28.17981
7 | −177.08685 | 28.17805
8 | −177.09492 | 28.15837
9 | −177.10266 | 28.14167
10 | −177.10685 | 28.13347
11 | −177.12055 | 28.10937
12 | −177.12905 | 28.09614
13 | −177.13930 | 28.08402
14 | −177.14478 | 28.07745
15 | −177.14835 | 28.07359
16 | −177.15014 | 28.07029
17 | −177.15425 | 28.06622
18 | −177.16032 | 28.06163
19 | −177.17073 | 28.05368
20 | −177.18451 | 28.04293
21 | −177.19497 | 28.03652
22 | −177.20126 | 28.03328
23 | −177.21758 | 28.02455
24 | −177.22558 | 28.02062
25 | −177.24634 | 28.01309
26 | −177.26874 | 28.00536
27 | −177.28593 | 28.00286
28 | −177.29121 | 28.00182
29 | −177.31326 | 27.99812
30 | −177.32347 | 27.99681
31 | −177.33018 | 27.99592
32 | −177.34277 | 27.99426
33 | −177.35598 | 27.99264
34 | −177.36949 | 27.99083
35 | −177.37935 | 27.99086
36 | −177.40144 | 27.99078
37 | −177.40505 | 27.99113
38 | −177.43205 | 27.99376
39 | −177.47772 | 28.00286
40 | −177.49254 | 28.00680
41 | −177.50854 | 28.01094
42 | −177.52096 | 28.01549
43 | −177.53867 | 28.02638
44 | −177.55653 | 28.03706
45 | −177.57532 | 28.05208
46 | −177.58846 | 28.06265
47 | −177.59622 | 28.06789
48 | −177.60135 | 28.07601
49 | −177.62006 | 28.10264
50 | −177.63751 | 28.13400
51 | −177.64543 | 28.14824
52 | −177.64822 | 28.16145
53 | −177.65246 | 28.18050
54 | −177.65547 | 28.19434
55 | −177.65675 | 28.20088
56 | −177.65784 | 28.21354
57 | −177.65334 | 28.23184
58 | −177.65201 | 28.23753
59 | −177.65356 | 28.25431
60 | −177.65370 | 28.25897
61 | −177.64485 | 28.28180
62 | −177.63917 | 28.29737
63 | −177.63311 | 28.30658
64 | −177.62398 | 28.32071
65 | −177.61280 | 28.33404
66 | −177.60942 | 28.33819
67 | −177.60305 | 28.35468
68 | −177.59751 | 28.36931
69 | −177.59223 | 28.37618
70 | −177.58369 | 28.38566
71 | −177.57201 | 28.39836
72 | −177.56751 | 28.40427
73 | −177.56371 | 28.40708
74 | −177.56083 | 28.40921
75 | −177.54724 | 28.42088
76 | −177.53575 | 28.43063
77 | −177.53169 | 28.43369
78 | −177.52645 | 28.43765
79 | −177.51294 | 28.44685
80 | −177.50036 | 28.45508
81 | −177.49213 | 28.46057
82 | −177.48856 | 28.46154
83 | −177.44919 | 28.47563
84 | −177.43381 | 28.48016
85 | −177.42573 | 28.48263
86 | −177.41843 | 28.48290
87 | −177.41073 | 28.48296
88 | −177.40079 | 28.48392
89 | −177.39471 | 28.48423
90 | −177.38430 | 28.48485
91 | −177.37739 | 28.48485
92 | −177.36644 | 28.48402
93 | −177.35961 | 28.48348
94 | −177.34200 | 28.48260
95 | −177.33494 | 28.48212
96 | −177.32593 | 28.48150
97 | −177.31568 | 28.47855
98 | −177.30326 | 28.47485
99 | −177.28841 | 28.46971
100 | −177.26868 | 28.46353
101 | −177.24613 | 28.45463
102 | −177.22835 | 28.44555
103 | −177.20144 | 28.42977
104 | −177.18994 | 28.42291
105 | −177.17441 | 28.41273
106 | −177.16004 | 28.39797
107 | −177.14459 | 28.38222
108 | −177.13946 | 28.37700
109 | −177.13356 | 28.36519
110 | −177.12744 | 28.35256
111 | −177.12069 | 28.33683
112 | −177.10531 | 28.30631
113 | −177.09483 | 28.27704
114 | −177.09204 | 28.26549
115 | −177.09085 | 28.25735
116 | −177.08955 | 28.24843

Appendix D to Subpart W of Part 922—Coordinates for the Special Preservation Areas (SPAs)

[Coordinates listed in this appendix are unprojected (Geographic) and based on the North American Datum of 1983]

The boundaries for the areas listed in this appendix, unless otherwise described in this rule, begin at Point 1 as indicated in the particular area's coordinate table and continue to each successive point in numerical order until ending at the last point in the table.

Table 1—Coordinates for Hōlanikū (Kure Atoll) SPA
Point No. | Longitude | Latitude
1 | −178.23368 | 28.40709
2 | −178.23399 | 28.40003
3 | −178.23440 | 28.39722
4 | −178.23512 | 28.39369
5 | −178.23696 | 28.38789
6 | −178.23973 | 28.37883
7 | −178.24045 | 28.37702
8 | −178.24137 | 28.37512
9 | −178.24579 | 28.36635
10 | −178.24743 | 28.36318
11 | −178.24774 | 28.36273
12 | −178.24815 | 28.36228
13 | −178.24805 | 28.36164
14 | −178.24702 | 28.36038
15 | −178.24097 | 28.35222
16 | −178.24035 | 28.35167
17 | −178.23841 | 28.34996
18 | −178.23185 | 28.34488
19 | −178.23060 | 28.34403
20 | −178.22978 | 28.34357
21 | −178.22753 | 28.34312
22 | −178.22690 | 28.34302
23 | −178.21697 | 28.34140
24 | −178.21615 | 28.34122
25 | −178.21584 | 28.34095
26 | −178.21338 | 28.33004
27 | −178.21297 | 28.32826
28 | −178.21779 | 28.32083
29 | −178.21879 | 28.32061
30 | −178.22845 | 28.31847
31 | −178.23319 | 28.32410
32 | −178.23501 | 28.32627
33 | −178.23552 | 28.32681
34 | −178.25079 | 28.32971
35 | −178.26350 | 28.33225
36 | −178.26422 | 28.34231
37 | −178.26818 | 28.34555
38 | −178.26842 | 28.34575
39 | −178.26909 | 28.34532
40 | −178.27099 | 28.34412
41 | −178.27658 | 28.34131
42 | −178.28211 | 28.33895
43 | −178.28642 | 28.33768
44 | −178.29103 | 28.33696
45 | −178.29540 | 28.33661
46 | −178.29554 | 28.33660
47 | −178.30384 | 28.33578
48 | −178.30907 | 28.33569
49 | −178.31266 | 28.33578
50 | −178.31573 | 28.33605
51 | −178.31768 | 28.33605
52 | −178.35403 | 28.33853
53 | −178.38276 | 28.34385
54 | −178.39558 | 28.33339
55 | −178.40626 | 28.32467
56 | −178.40687 | 28.32413
57 | −178.40784 | 28.32370
58 | −178.41318 | 28.32313
59 | −178.43005 | 28.32132
60 | −178.43175 | 28.34030
61 | −178.43425 | 28.36460
62 | −178.43437 | 28.36643
63 | −178.43437 | 28.36848
64 | −178.43413 | 28.37064
65 | −178.43315 | 28.37926
66 | −178.43156 | 28.39259
67 | −178.43742 | 28.39905
68 | −178.44199 | 28.40585
69 | −178.44313 | 28.40899
70 | −178.44498 | 28.41716
71 | −178.44597 | 28.43612
72 | −178.44569 | 28.44605
73 | −178.44512 | 28.44843
74 | −178.44057 | 28.46036
75 | −178.43246 | 28.47827
76 | −178.41611 | 28.49509
77 | −178.41398 | 28.49698
78 | −178.40985 | 28.49986
79 | −178.40098 | 28.50595
80 | −178.40072 | 28.50608
81 | −178.39600 | 28.50846
82 | −178.38392 | 28.51398
83 | −178.38193 | 28.51473
84 | −178.37937 | 28.51548
85 | −178.37098 | 28.51712
86 | −178.35889 | 28.51963
87 | −178.35661 | 28.52000
88 | −178.35164 | 28.52050
89 | −178.34909 | 28.52081
90 | −178.33751 | 28.52180
91 | −178.33658 | 28.52189
92 | −178.33228 | 28.52587
93 | −178.33115 | 28.52660
94 | −178.32931 | 28.52759
95 | −178.32480 | 28.52913
96 | −178.31988 | 28.53437
97 | −178.30929 | 28.54572
98 | −178.29832 | 28.54382
99 | −178.29186 | 28.53171
100 | −178.28776 | 28.52320
101 | −178.28725 | 28.52212
102 | −178.28653 | 28.51823
103 | −178.28426 | 28.50560
104 | −178.28365 | 28.50270
105 | −178.28252 | 28.50180
106 | −178.27832 | 28.49935
107 | −178.27504 | 28.49682
108 | −178.26581 | 28.48958
109 | −178.26013 | 28.48471
110 | −178.24899 | 28.47256
111 | −178.24752 | 28.47095
112 | −178.24660 | 28.46951
113 | −178.24578 | 28.46733
114 | −178.24281 | 28.45684
115 | −178.24106 | 28.45195
116 | −178.24024 | 28.44950
117 | −178.23953 | 28.44616
118 | −178.23758 | 28.43731
119 | −178.23337 | 28.41884
120 | −178.23317 | 28.41739
121 | −178.23327 | 28.41441
122 | −178.23368 | 28.40709

Table 2—Coordinates for Manawai (Pearl and Hermes Atoll) SPA
Point ID | Longitude | Latitude
1 | −175.73629 | 28.02156
2 | −175.71790 | 28.00837
3 | −175.71623 | 28.00719
4 | −175.71293 | 27.99705
5 | −175.71278 | 27.99658
6 | −175.71189 | 27.99385
7 | −175.71115 | 27.99258
8 | −175.70898 | 27.99050
9 | −175.69243 | 27.97745
10 | −175.69085 | 27.97602
11 | −175.69057 | 27.97577
12 | −175.68524 | 27.97093
13 | −175.67939 | 27.96411
14 | −175.67571 | 27.95877
15 | −175.67371 | 27.95477
16 | −175.67020 | 27.94735
17 | −175.66886 | 27.94409
18 | −175.66752 | 27.94038
19 | −175.66602 | 27.93549
20 | −175.66489 | 27.92948
21 | −175.66468 | 27.92837
22 | −175.66384 | 27.92295
23 | −175.66334 | 27.91686
24 | −175.66328 | 27.91526
25 | −175.66326 | 27.91489
26 | −175.66317 | 27.91271
27 | −175.66317 | 27.90692
28 | −175.66368 | 27.89921
29 | −175.66418 | 27.89461
30 | −175.66602 | 27.88304
31 | −175.67187 | 27.86600
32 | −175.67421 | 27.85962
33 | −175.67471 | 27.85725
34 | −175.67655 | 27.85012
35 | −175.67885 | 27.84184
36 | −175.67973 | 27.83869
37 | −175.68140 | 27.83409
38 | −175.68441 | 27.82770
39 | −175.68727 | 27.82333
40 | −175.68742 | 27.82310
41 | −175.68976 | 27.81946
42 | −175.69041 | 27.81831
43 | −175.69080 | 27.81751
44 | −175.69131 | 27.81589
45 | −175.69352 | 27.80876
46 | −175.69355 | 27.80857
47 | −175.69378 | 27.80738
48 | −175.69416 | 27.80646
49 | −175.69494 | 27.80542
50 | −175.69533 | 27.80462
51 | −175.69585 | 27.80335
52 | −175.69870 | 27.79552
53 | −175.69909 | 27.79437
54 | −175.70077 | 27.79196
55 | −175.70453 | 27.78562
56 | −175.71062 | 27.77711
57 | −175.71528 | 27.77077
58 | −175.71295 | 27.76548
59 | −175.71268 | 27.76488
60 | −175.71218 | 27.76378
61 | −175.71231 | 27.76297
62 | −175.71322 | 27.76193
63 | −175.71931 | 27.75756
64 | −175.72151 | 27.75572
65 | −175.72228 | 27.75560
66 | −175.72578 | 27.75526
67 | −175.72695 | 27.75491
68 | −175.72747 | 27.75445
69 | −175.72980 | 27.75100
70 | −175.73135 | 27.74881
71 | −175.73355 | 27.74708
72 | −175.73796 | 27.74386
73 | −175.74327 | 27.74109
74 | −175.75091 | 27.73741
75 | −175.75698 | 27.73511
76 | −175.75791 | 27.73476
77 | −175.76283 | 27.73372
78 | −175.76796 | 27.73254
79 | −175.77107 | 27.73231
80 | −175.78169 | 27.73128
81 | −175.79452 | 27.73035
82 | −175.79996 | 27.73035
83 | −175.81744 | 27.73105
84 | −175.82120 | 27.73139
85 | −175.84245 | 27.73496
86 | −175.84329 | 27.73496
87 | −175.84394 | 27.73484
88 | −175.84510 | 27.73392
89 | −175.85378 | 27.72793
90 | −175.85598 | 27.72667
91 | −175.86168 | 27.72379
92 | −175.86855 | 27.72068
93 | −175.87632 | 27.71722
94 | −175.88163 | 27.71515
95 | −175.88928 | 27.71215
96 | −175.89627 | 27.70962
97 | −175.89926 | 27.70853
98 | −175.90612 | 27.70605
99 | −175.91616 | 27.70257
100 | −175.91914 | 27.70177
101 | −175.92277 | 27.70108
102 | −175.93248 | 27.69923
103 | −175.93689 | 27.69877
104 | −175.94039 | 27.69831
105 | −175.94660 | 27.69762
106 | −175.95023 | 27.69762
107 | −175.95632 | 27.69773
108 | −175.95943 | 27.69796
109 | −175.96267 | 27.69843
110 | −175.96837 | 27.69935
111 | −175.96966 | 27.69992
112 | −175.97834 | 27.70338
113 | −175.98826 | 27.70847
114 | −175.99473 | 27.71262
115 | −176.00250 | 27.71872
116 | −176.00833 | 27.72299
117 | −176.01585 | 27.72967
118 | −176.02401 | 27.73784
119 | −176.02918 | 27.74373
120 | −176.03139 | 27.74625
121 | −176.03359 | 27.74913
122 | −176.03489 | 27.75120
123 | −176.03880 | 27.75840
124 | −176.04036 | 27.76151
125 | −176.04360 | 27.76819
126 | −176.04424 | 27.76877
127 | −176.04619 | 27.76911
128 | −176.04968 | 27.76992
129 | −176.05098 | 27.77049
130 | −176.05733 | 27.77521
131 | −176.05831 | 27.77593
132 | −176.06717 | 27.78235
133 | −176.06225 | 27.79271
134 | −176.05820 | 27.80097
135 | −176.04866 | 27.82041
136 | −176.04154 | 27.83526
137 | −176.03920 | 27.84003
138 | −176.03868 | 27.84107
139 | −176.03830 | 27.84256
140 | −176.03622 | 27.85464
141 | −176.03609 | 27.85660
142 | −176.03661 | 27.87231
143 | −176.03635 | 27.87484
144 | −176.03467 | 27.87886
145 | −176.02936 | 27.89151
146 | −176.02871 | 27.89232
147 | −176.02637 | 27.89422
148 | −176.01452 | 27.89948
149 | −176.00953 | 27.90169
150 | −175.98505 | 27.91078
151 | −175.97974 | 27.91767
152 | −175.97806 | 27.91986
153 | −175.97559 | 27.92227
154 | −175.96800 | 27.92876
155 | −175.96515 | 27.93071
156 | −175.96243 | 27.93244
157 | −175.95893 | 27.93474
158 | −175.95751 | 27.93554
159 | −175.95531 | 27.93634
160 | −175.94676 | 27.93979
161 | −175.93976 | 27.94313
162 | −175.93730 | 27.94462
163 | −175.93019 | 27.94940
164 | −175.91849 | 27.95667
165 | −175.89960 | 27.96883
166 | −175.88990 | 27.97506
167 | −175.88673 | 27.97684
168 | −175.87603 | 27.98202
169 | −175.86868 | 27.98514
170 | −175.84284 | 27.99650
171 | −175.81723 | 28.00661
172 | −175.81543 | 28.00732
173 | −175.80908 | 28.00970
174 | −175.80440 | 28.01088
175 | −175.79989 | 28.01133
176 | −175.79170 | 28.01118
177 | −175.78250 | 28.01088
178 | −175.78033 | 28.01074
179 | −175.78013 | 28.01073
180 | −175.77097 | 28.01014
181 | −175.76796 | 28.00984
182 | −175.73629 | 28.02156

Table 3—Coordinates for Kapou (Lisianski Island) SPA
Point No. | Longitude | Latitude
1 | −173.82216 | 26.08261
2 | −173.81417 | 26.06651
3 | −173.81089 | 26.06033
4 | −173.80358 | 26.04582
5 | −173.80187 | 26.04312
6 | −173.79902 | 26.03951
7 | −173.79216 | 26.03255
8 | −173.78288 | 26.02340
9 | −173.76999 | 26.01042
10 | −173.76842 | 26.00888
11 | −173.76714 | 26.00720
12 | −173.75672 | 25.99276
13 | −173.75329 | 25.98625
14 | −173.75257 | 25.98316
15 | −173.75272 | 25.98019
16 | −173.75357 | 25.97607
17 | −173.75414 | 25.97272
18 | −173.75429 | 25.97130
19 | −173.75457 | 25.97065
20 | −173.75629 | 25.96949
21 | −173.77427 | 25.95518
22 | −173.79226 | 25.94087
23 | −173.79613 | 25.91463
24 | −173.79656 | 25.91231
25 | −173.79685 | 25.91089
26 | −173.79770 | 25.91025
27 | −173.84842 | 25.87454
28 | −173.85185 | 25.87235
29 | −173.85299 | 25.87209
30 | −173.86184 | 25.87364
31 | −173.88326 | 25.87777
32 | −173.89205 | 25.87946
33 | −173.89348 | 25.87959
34 | −173.89805 | 25.87971
35 | −173.90349 | 25.87978
36 | −173.90608 | 25.87981
37 | −173.91654 | 25.87993
38 | −173.91667 | 25.87993
39 | −173.91893 | 25.87996
40 | −173.91989 | 25.87997
41 | −173.93702 | 25.88023
42 | −173.94445 | 25.88023
43 | −173.94602 | 25.88062
44 | −173.95530 | 25.88526
45 | −173.99537 | 25.90548
46 | −174.00031 | 25.90797
47 | −174.00548 | 25.91058
48 | −174.02703 | 25.92167
49 | −174.09677 | 25.95696
50 | −174.11041 | 25.96396
51 | −174.11155 | 25.96538
52 | −174.11498 | 25.97067
53 | −174.12111 | 25.97892
54 | −174.12311 | 25.98124
55 | −174.12483 | 25.98279
56 | −174.14281 | 25.99916
57 | −174.14396 | 26.00019
58 | −174.14453 | 26.00083
59 | −174.14595 | 26.00560
60 | −174.15196 | 26.02194
61 | −174.15682 | 26.03560
62 | −174.15782 | 26.03831
63 | −174.15839 | 26.04089
64 | −174.15867 | 26.04295
65 | −174.15839 | 26.05197
66 | −174.15740 | 26.08891
67 | −174.15668 | 26.10643
68 | −174.15669 | 26.11617
69 | −174.15600 | 26.12038
70 | −174.13944 | 26.16391
71 | −174.13478 | 26.17505
72 | −174.12292 | 26.18449
73 | −174.09565 | 26.20576
74 | −174.08837 | 26.21129
75 | −174.08723 | 26.21206
76 | −174.08651 | 26.21232
77 | −174.08452 | 26.21258
78 | −174.07352 | 26.21412
79 | −174.05468 | 26.21682
80 | −174.05239 | 26.21721
81 | −174.05082 | 26.21721
82 | −174.01328 | 26.21451
83 | −173.98436 | 26.21258
84 | −173.95210 | 26.19379
85 | −173.93939 | 26.18620
86 | −173.93511 | 26.18350
87 | −173.93411 | 26.18260
88 | −173.93140 | 26.17951
89 | −173.91733 | 26.16389
90 | −173.90177 | 26.14625
91 | −173.89892 | 26.14329
92 | −173.89749 | 26.14200
93 | −173.89663 | 26.14123
94 | −173.88792 | 26.13569
95 | −173.88360 | 26.13292
96 | −173.87247 | 26.12532
97 | −173.86333 | 26.11940
98 | −173.86176 | 26.11798
99 | −173.85890 | 26.11566
100 | −173.84391 | 26.10291
101 | −173.83458 | 26.09485
102 | −173.82473 | 26.08661
103 | −173.82373 | 26.08545
104 | −173.82216 | 26.08261

Table 4—Coordinates for Kamole (Laysan Island) SPA
Point No. | Longitude | Latitude
1 | −171.79754 | 25.90062
2 | −171.77776 | 25.90028
3 | −171.76856 | 25.90040
4 | −171.76743 | 25.90017
5 | −171.76440 | 25.89960
6 | −171.72850 | 25.89300
7 | −171.68258 | 25.88476
8 | −171.67766 | 25.88385
9 | −171.67552 | 25.88328
10 | −171.67325 | 25.88260
11 | −171.65713 | 25.87714
12 | −171.63979 | 25.87153
13 | −171.63303 | 25.86920
14 | −171.62757 | 25.86732
15 | −171.62656 | 25.86686
16 | −171.62568 | 25.86595
17 | −171.62502 | 25.86507
18 | −171.61749 | 25.85490
19 | −171.60335 | 25.83593
20 | −171.60146 | 25.83319
21 | −171.60007 | 25.82681
22 | −171.59667 | 25.80984
23 | −171.59327 | 25.79245
24 | −171.59327 | 25.79165
25 | −171.60171 | 25.76624
26 | −171.60528 | 25.76115
27 | −171.61460 | 25.74736
28 | −171.61775 | 25.74280
29 | −171.61863 | 25.74166
30 | −171.62266 | 25.73779
31 | −171.63183 | 25.72850
32 | −171.63489 | 25.72540
33 | −171.63640 | 25.72415
34 | −171.65101 | 25.71708
35 | −171.65341 | 25.71571
36 | −171.65643 | 25.71354
37 | −171.66122 | 25.70739
38 | −171.66827 | 25.70032
39 | −171.66915 | 25.70009
40 | −171.70065 | 25.69222
41 | −171.70153 | 25.69210
42 | −171.70216 | 25.69245
43 | −171.70695 | 25.69735
44 | −171.70879 | 25.69916
45 | −171.70980 | 25.69985
46 | −171.71156 | 25.70019
47 | −171.72781 | 25.70027
48 | −171.73461 | 25.70030
49 | −171.73537 | 25.70007
50 | −171.75112 | 25.69221
51 | −171.75162 | 25.69198
52 | −171.75351 | 25.69186
53 | −171.77795 | 25.69209
54 | −171.78475 | 25.69198
55 | −171.79678 | 25.69800
56 | −171.80964 | 25.70443
57 | −171.81782 | 25.70853
58 | −171.81846 | 25.70946
59 | −171.83395 | 25.73225
60 | −171.83916 | 25.74030
61 | −171.84621 | 25.75067
62 | −171.85049 | 25.75694
63 | −171.85175 | 25.75900
64 | −171.85377 | 25.76298
65 | −171.86802 | 25.79154
66 | −171.86827 | 25.79234
67 | −171.86991 | 25.80031
68 | −171.87319 | 25.81695
69 | −171.87634 | 25.83252
70 | −171.87634 | 25.83343
71 | −171.87596 | 25.83457
72 | −171.86853 | 25.84402
73 | −171.83837 | 25.88003
74 | −171.83602 | 25.88246
75 | −171.83519 | 25.88335
76 | −171.83459 | 25.88376
77 | −171.83330 | 25.88437
78 | −171.82477 | 25.88874
79 | −171.82223 | 25.89004
80 | −171.80446 | 25.89880
81 | −171.80283 | 25.89960
82 | −171.80106 | 25.90017
83 | −171.79754 | 25.90062

Table 5—Coordinates for Kamokuokamohoali'i (Maro Reef) SPA
Point No. | Longitude | Latitude
1 | −170.51849 | 25.56689
2 | −170.42884 | 25.48429
3 | −170.40989 | 25.46684
4 | −170.36498 | 25.39615
5 | −170.35211 | 25.37520
6 | −170.38052 | 25.31861
7 | −170.41008 | 25.25900
8 | −170.42639 | 25.25050
9 | −170.49312 | 25.25500
10 | −170.54275 | 25.25849
11 | −170.59335 | 25.28380
12 | −170.65120 | 25.29999
13 | −170.71939 | 25.30982
14 | −170.76864 | 25.31704
15 | −170.80164 | 25.33336
16 | −170.81026 | 25.35866
17 | −170.86881 | 25.39206
18 | −170.89413 | 25.45071
19 | −170.90203 | 25.52562
20 | −170.90204 | 25.55000
21 | −170.87689 | 25.58379
22 | −170.80870 | 25.62631
23 | −170.77706 | 25.63386
24 | −170.71015 | 25.63370
25 | −170.68577 | 25.61709
26 | −170.57600 | 25.59194
27 | −170.52174 | 25.56835
28 | −170.51849 | 25.56689

Table 6—Coordinates for 'Ōnūnui and 'Ōnuiki (Gardner Pinnacles) SPA
Point ID | Longitude | Latitude
1 | −167.90376 | 24.42883
2 | −167.95520 | 24.41130
3 | −167.99102 | 24.42020
4 | −168.00495 | 24.43820
5 | −168.00858 | 24.45765
6 | −168.01169 | 24.47484
7 | −168.01779 | 24.50855
8 | −168.05095 | 24.57549
9 | −168.08488 | 24.59196
10 | −168.10261 | 24.63819
11 | −168.12654 | 24.70001
12 | −168.12689 | 24.70299
13 | −168.13443 | 24.77502
14 | −168.15180 | 24.81718
15 | −168.15133 | 24.82629
16 | −168.15166 | 24.88353
17 | −168.16317 | 24.89394
18 | −168.22632 | 24.95007
19 | −168.26782 | 25.00868
20 | −168.27946 | 25.06562
21 | −168.26946 | 25.09337
22 | −168.25241 | 25.10411
23 | −168.24399 | 25.12438
24 | −168.22776 | 25.16582
25 | −168.19810 | 25.18222
26 | −168.14391 | 25.19196
27 | −168.08884 | 25.19330
28 | −168.04250 | 25.17414
29 | −167.98399 | 25.12434
30 | −167.93393 | 25.07053
31 | −167.92639 | 25.04237
32 | −167.94327 | 25.01312
33 | −167.94328 | 24.94223
34 | −167.92440 | 24.90657
35 | −167.90375 | 24.88387
36 | −167.89337 | 24.85096
37 | −167.89917 | 24.74685
38 | −167.87394 | 24.63042
39 | −167.87471 | 24.59063
40 | −167.86815 | 24.56390
41 | −167.87627 | 24.49318
42 | −167.88943 | 24.45607
43 | −167.89140 | 24.45052
44 | −167.90376 | 24.42883

Table 7—Coordinates for Lalo (French Frigate Shoals) SPA
Point No. | Longitude | Latitude
1 | −165.88287 | 24.04302
2 | −165.81715 | 24.03363
3 | −165.81598 | 24.03346
4 | −165.68957 | 24.01561
5 | −165.61030 | 24.00420
6 | −165.58476 | 24.00053
7 | −165.58475 | 23.99013
8 | −165.58469 | 23.89901
9 | −165.58473 | 23.88171
10 | −165.58487 | 23.82706
11 | −165.58493 | 23.80510
12 | −165.58474 | 23.74606
13 | −165.58467 | 23.72209
14 | −165.58477 | 23.69139
15 | −165.58493 | 23.64173
16 | −165.58492 | 23.64015
17 | −165.58472 | 23.55814
18 | −165.58465 | 23.53104
19 | −165.58492 | 23.50047
20 | −165.68850 | 23.51533
21 | −165.82902 | 23.53508
22 | −165.88403 | 23.54307
23 | −165.90329 | 23.54586
24 | −165.90597 | 23.54625
25 | −165.99383 | 23.55900
26 | −166.03245 | 23.56447
27 | −166.08499 | 23.57190
28 | −166.10117 | 23.57420
29 | −166.13444 | 23.57892
30 | −166.16019 | 23.58257
31 | −166.19002 | 23.58681
32 | −166.22864 | 23.59229
33 | −166.23919 | 23.59378
34 | −166.26236 | 23.59707
35 | −166.28601 | 23.60043
36 | −166.33447 | 23.60733
37 | −166.35885 | 23.61080
38 | −166.37208 | 23.61269
39 | −166.39868 | 23.61648
40 | −166.40303 | 23.61710
41 | −166.40724 | 23.61770
42 | −166.50660 | 23.63186
43 | −166.60789 | 23.64643
44 | −166.72350 | 23.66307
45 | −166.92987 | 23.68841
46 | −166.92855 | 23.74505
47 | −166.92820 | 23.78485
48 | −166.92779 | 23.83124
49 | −166.92817 | 23.83749
50 | −166.92683 | 23.92953
51 | −166.92567 | 24.00460
52 | −166.92523 | 24.03315
53 | −166.92517 | 24.03699
54 | −166.90344 | 24.03664
55 | −166.75320 | 24.03423
56 | −166.75144 | 24.16680
57 | −166.69607 | 24.15879
58 | −166.66261 | 24.15394
59 | −166.60150 | 24.14542
60 | −166.50010 | 24.13128
61 | −166.49143 | 24.13008
62 | −166.46034 | 24.12556
63 | −166.43233 | 24.12150
64 | −166.32588 | 24.10620
65 | −166.31489 | 24.10462
66 | −166.10509 | 24.07477
67 | −166.02473 | 24.06329
68 | −165.88287 | 24.04302

Table 8—Coordinates for Mokumanamana (Necker) SPA
Point ID | Longitude | Latitude
1 | −164.54332 | 23.62574
2 | −164.53774 | 23.61546
3 | −164.53568 | 23.61072
4 | −164.53436 | 23.60261
5 | −164.53111 | 23.58291
6 | −164.52906 | 23.55327
7 | −164.52347 | 23.54272
8 | −164.51842 | 23.53517
9 | −164.51078 | 23.52258
10 | −164.50137 | 23.51811
11 | −164.48756 | 23.51042
12 | −164.47390 | 23.50281
13 | −164.45451 | 23.49239
14 | −164.45025 | 23.48860
15 | −164.44290 | 23.48074
16 | −164.42150 | 23.47295
17 | −164.40063 | 23.46523
18 | −164.39476 | 23.46347
19 | −164.38256 | 23.46334
20 | −164.37022 | 23.46374
21 | −164.36817 | 23.46306
22 | −164.35392 | 23.45819
23 | −164.34628 | 23.45541
24 | −164.32877 | 23.44951
25 | −164.31431 | 23.43772
26 | −164.30609 | 23.43154
27 | −164.29543 | 23.41512
28 | −164.28443 | 23.39873
29 | −164.28154 | 23.38946
30 | −164.27484 | 23.36629
31 | −164.26980 | 23.35201
32 | −164.25929 | 23.32687
33 | −164.25290 | 23.31240
34 | −164.25199 | 23.30818
35 | −164.25305 | 23.30467
36 | −164.25391 | 23.30232
37 | −164.25937 | 23.28868
38 | −164.26848 | 23.27932
39 | −164.27039 | 23.27580
40 | −164.27641 | 23.25830
41 | −164.28332 | 23.25152
42 | −164.29933 | 23.23578
43 | −164.31485 | 23.23457
44 | −164.32999 | 23.23375
45 | −164.33983 | 23.23321
46 | −164.37024 | 23.23810
47 | −164.38214 | 23.24651
48 | −164.39668 | 23.25641
49 | −164.40006 | 23.25695
50 | −164.41146 | 23.25833
51 | −164.45730 | 23.26308
52 | −164.46347 | 23.26620
53 | −164.47251 | 23.27100
54 | −164.48529 | 23.29229
55 | −164.51115 | 23.30260
56 | −164.52540 | 23.30843
57 | −164.56870 | 23.30925
58 | −164.59206 | 23.30912
59 | −164.60425 | 23.30763
60 | −164.63246 | 23.29963
61 | −164.64245 | 23.30098
62 | −164.64083 | 23.31400
63 | −164.63466 | 23.32091
64 | −164.62891 | 23.32479
65 | −164.62024 | 23.32764
66 | −164.62303 | 23.34282
67 | −164.61612 | 23.34892
68 | −164.61039 | 23.35488
69 | −164.60465 | 23.36962
70 | −164.60009 | 23.38141
71 | −164.59358 | 23.39656
72 | −164.59304 | 23.39780
73 | −164.58670 | 23.42106
74 | −164.58127 | 23.44558
75 | −164.59302 | 23.45045
76 | −164.60713 | 23.45628
77 | −164.61021 | 23.46671
78 | −164.61221 | 23.46868
79 | −164.62367 | 23.48006
80 | −164.62734 | 23.48141
81 | −164.64776 | 23.48913
82 | −164.65452 | 23.49062
83 | −164.66774 | 23.49265
84 | −164.69032 | 23.49644
85 | −164.70192 | 23.49738
86 | −164.71470 | 23.49725
87 | −164.71956 | 23.49693
88 | −164.73882 | 23.49564
89 | −164.73909 | 23.49562
90 | −164.76295 | 23.48763
91 | −164.77141 | 23.48479
92 | −164.77495 | 23.49017
93 | −164.78145 | 23.50004
94 | −164.78336 | 23.50315
95 | −164.78689 | 23.50423
96 | −164.80114 | 23.51019
97 | −164.81245 | 23.52400
98 | −164.83023 | 23.53537
99 | −164.83393 | 23.53828
100 | −164.84010 | 23.54992
101 | −164.84847 | 23.56805
102 | −164.84022 | 23.59032
103 | −164.83507 | 23.60223
104 | −164.82699 | 23.61034
105 | −164.82082 | 23.61684
106 | −164.80231 | 23.62265
107 | −164.79438 | 23.62265
108 | −164.76970 | 23.62170
109 | −164.76123 | 23.62470
110 | −164.74668 | 23.62929
111 | −164.72141 | 23.63890
112 | −164.69989 | 23.64668
113 | −164.69637 | 23.64884
114 | −164.68168 | 23.65276
115 | −164.62967 | 23.66304
116 | −164.62570 | 23.66372
117 | −164.60491 | 23.66058
118 | −164.58332 | 23.65788
119 | −164.57670 | 23.65626
120 | −164.56260 | 23.64801
121 | −164.55305 | 23.64260
122 | −164.55023 | 23.63696
123 | −164.54332 | 23.62574

Table 9—Coordinates for Nihoa Island SPA
Point No. | Longitude | Latitude
1 | −161.85602 | 23.06825
2 | −161.85586 | 23.06145
3 | −161.85681 | 23.05444
4 | −161.85854 | 23.04933
5 | −161.86360 | 23.03839
6 | −161.86786 | 23.03182
7 | −161.87322 | 23.02583
8 | −161.88254 | 23.01897
9 | −161.89754 | 23.01138
10 | −161.91456 | 23.00813
11 | −161.91743 | 23.00758
12 | −161.93400 | 23.00846
13 | −161.94876 | 23.01210
14 | −161.95413 | 23.01502
15 | −161.95873 | 23.01760
16 | −161.96534 | 23.02130
17 | −161.97875 | 23.03532
18 | −161.98075 | 23.03875
19 | −161.98502 | 23.04586
20 | −161.98748 | 23.05667
21 | −161.98809 | 23.06216
22 | −161.98748 | 23.07391
23 | −161.98297 | 23.08604
24 | −161.97743 | 23.09476
25 | −161.97071 | 23.10243
26 | −161.96076 | 23.11031
27 | −161.94498 | 23.11717
28 | −161.92966 | 23.12052
29 | −161.91767 | 23.12081
30 | −161.90064 | 23.11819
31 | −161.90062 | 23.11819
32 | −161.88846 | 23.11323
33 | −161.87906 | 23.10751
34 | −161.86691 | 23.09642
35 | −161.86217 | 23.08883
36 | −161.85933 | 23.08270
37 | −161.85665 | 23.07424
38 | −161.85602 | 23.06825

Appendix E to Subpart W of Part 922—Coordinates for the Ship Reporting Area

[Coordinates listed in this appendix are unprojected (Geographic) and based on the North American Datum of 1983]

The boundaries for the areas listed in this appendix, unless otherwise described in this rule, begin at Point 1 as indicated in the particular area's coordinate table and continue to each successive point in numerical order until ending at the last point in the table.

Table 1—Coordinates for the Reporting Area Outer Boundary
Point No. | Longitude | Latitude
1 | −178.28283 | 29.42450
2 | −175.23067 | 28.72883
3 | −173.42967 | 27.01283
4 | −171.46783 | 26.74850
5 | −170.34317 | 26.40383
6 | −167.53500 | 25.94050
7 | −165.97817 | 24.83667
8 | −161.94767 | 24.09200
9 | −161.94367 | 24.08817
10 | −161.85883 | 24.07283
11 | −161.77417 | 24.05733
12 | −161.68983 | 24.04017
13 | −161.60583 | 24.02183
14 | −161.52583 | 23.99467
15 | −161.44750 | 23.96417
16 | −161.37183 | 23.92567
17 | −161.29867 | 23.88267
18 | −161.22867 | 23.83533
19 | −161.16800 | 23.78233
20 | −161.10783 | 23.72483
21 | −161.05150 | 23.66183
22 | −161.00233 | 23.59533
23 | −160.95767 | 23.52650
24 | −160.92050 | 23.45533
25 | −160.89517 | 23.37900
26 | −160.86950 | 23.30483
27 | −160.85067 | 23.22617
28 | −160.84100 | 23.14467
29 | −160.83617 | 23.06167
30 | −160.83917 | 22.97783
31 | −160.85067 | 22.89733
32 | −160.87000 | 22.81850
33 | −160.89267 | 22.74100
34 | −160.92533 | 22.66717
35 | −160.96133 | 22.59550
36 | −161.00417 | 22.52567
37 | −161.05383 | 22.45950
38 | −161.11067 | 22.39600
39 | −161.17050 | 22.33733
40 | −161.23550 | 22.28367
41 | −161.30567 | 22.23400
42 | −161.38000 | 22.18917
43 | −161.45750 | 22.15317
44 | −161.53517 | 22.12150
45 | −161.61567 | 22.09783
46 | −161.69817 | 22.07700
47 | −161.78483 | 22.06567
48 | −161.87267 | 22.05683
49 | −161.95850 | 22.05683
50 | −162.04717 | 22.06367
51 | −162.13400 | 22.07483
52 | −162.21867 | 22.09050
53 | −162.27350 | 22.09950
54 | −162.28083 | 22.10483
55 | −164.78783 | 22.57617
56 | −166.63717 | 22.79333
57 | −168.46517 | 24.06367
58 | −170.75650 | 24.42933
59 | −171.88383 | 24.77567
60 | −174.47850 | 25.12667
61 | −176.59183 | 27.09700
62 | −178.64433 | 27.45533
63 | −178.72600 | 27.48217
64 | −178.80667 | 27.51067
65 | −178.88267 | 27.54567
66 | −178.95500 | 27.58433
67 | −179.02483 | 27.63150
68 | −179.09333 | 27.68167
69 | −179.15683 | 27.73617
70 | −179.21417 | 27.79567
71 | −179.26667 | 27.85750
72 | −179.31367 | 27.92200
73 | −179.35217 | 27.98883
74 | −179.38583 | 28.05817
75 | −179.41267 | 28.13033
76 | −179.43633 | 28.20517
77 | −179.45083 | 28.28250
78 | −179.46050 | 28.36017
79 | −179.46283 | 28.43633
80 | −179.45800 | 28.51450
81 | −179.44917 | 28.59350
82 | −179.42917 | 28.66817
83 | −179.40517 | 28.74100
84 | −179.37500 | 28.81167
85 | −179.34050 | 28.88017
86 | −179.29617 | 28.94517
87 | −179.24867 | 29.00967
88 | −179.19483 | 29.06967
89 | −179.13667 | 29.12700
90 | −179.07283 | 29.18100
91 | −179.00350 | 29.22933
92 | −178.92967 | 29.27067
93 | −178.85433 | 29.30850
94 | −178.77500 | 29.34083
95 | −178.69450 | 29.37100
96 | −178.61067 | 29.39200
97 | −178.52567 | 29.40883
98 | −178.43850 | 29.41933
99 | −178.34867 | 29.42367
100 | −178.27833 | 29.42150
101 | −178.28283 | 29.42450

Table 2—Coordinates of the Inner Reporting Area Boundary Around Hōlanikū (Kure Atoll), Kuaihelani (Midway Atoll), Manawai (Pearl and Hermes Atoll) Area To Be Avoided (ATBA)
Point No. | Longitude | Latitude
1 | −175.78700 | 27.01217
2 | −175.87900 | 27.01133
3 | −175.96933 | 27.01817
4 | −176.05883 | 27.03317
5 | −176.14683 | 27.05567
6 | −176.23183 | 27.08533
7 | −176.31317 | 27.12283
8 | −176.39000 | 27.16633
9 | −176.46233 | 27.21700
10 | −176.47833 | 27.22950
11 | −176.49783 | 27.24600
12 | −177.55517 | 27.41583
13 | −178.49833 | 27.59783
14 | −178.56550 | 27.61067
15 | −178.62200 | 27.62550
16 | −178.67750 | 27.64333
17 | −178.73167 | 27.66417
18 | −178.78417 | 27.68800
19 | −178.83500 | 27.71483
20 | −178.88383 | 27.74433
21 | −178.93050 | 27.77650
22 | −178.97483 | 27.81117
23 | −179.01667 | 27.84817
24 | −179.05650 | 27.88700
25 | −179.09350 | 27.92817
26 | −179.12683 | 27.97150
27 | −179.15783 | 28.01683
28 | −179.18500 | 28.06350
29 | −179.20883 | 28.11183
30 | −179.22917 | 28.16117
31 | −179.24583 | 28.21167
32 | −179.25900 | 28.26300
33 | −179.26850 | 28.31517
34 | −179.27417 | 28.36733
35 | −179.27600 | 28.41200
36 | −179.27617 | 28.42000
37 | −179.27600 | 28.43017
38 | −179.27400 | 28.47250
39 | −179.26833 | 28.52483
40 | −179.25900 | 28.57683
41 | −179.24583 | 28.62817
42 | −179.22900 | 28.67850
43 | −179.20900 | 28.72800
44 | −179.18550 | 28.77633
45 | −179.15867 | 28.82317
46 | −179.12833 | 28.86850
47 | −179.09500 | 28.91200
48 | −179.05850 | 28.95350
49 | −179.01917 | 28.99300
50 | −178.97700 | 29.03017
51 | −178.93217 | 29.06500
52 | −178.88500 | 29.09717
53 | −178.83550 | 29.12667
54 | −178.78400 | 29.15350
55 | −178.73067 | 29.17733
56 | −178.67567 | 29.19817
57 | −178.61933 | 29.21583
58 | −178.56183 | 29.23033
59 | −178.50350 | 29.24167
60 | −178.44433 | 29.24983
61 | −178.38467 | 29.25467
62 | −178.32483 | 29.25600
63 | −178.26500 | 29.25417
64 | −178.20533 | 29.24900
65 | −178.14633 | 29.24050
66 | −177.20117 | 29.05783
67 | −177.12150 | 29.04250
68 | −175.59117 | 28.64933
69 | −175.57250 | 28.64450
70 | −175.32900 | 28.58183
71 | −175.17750 | 28.43733
72 | −175.14917 | 28.41017
73 | −175.15067 | 28.40883
74 | −175.08183 | 28.33483
75 | −175.03200 | 28.26750
76 | −174.98883 | 28.19633
77 | −174.95383 | 28.12150
78 | −174.92800 | 28.04383
79 | −174.91033 | 27.96400
80 | −174.90083 | 27.88350
81 | −174.90083 | 27.80200
82 | −174.91033 | 27.72133
83 | −174.92850 | 27.64133
84 | −174.95533 | 27.56350
85 | −174.99050 | 27.48833
86 | −175.03383 | 27.41667
87 | −175.08450 | 27.34883
88 | −175.14317 | 27.28633
89 | −175.20783 | 27.22883
90 | −175.27783 | 27.17650
91 | −175.35417 | 27.13133
92 | −175.43483 | 27.09283
93 | −175.51917 | 27.06100
94 | −175.60667 | 27.03700
95 | −175.69633 | 27.02150
96 | −175.78700 | 27.01217

Table 3—Coordinates for the Inner Reporting Area Boundary Around 'Ōnūi and 'Ōnuiki (Gardner Pinnacles), Lalo (French Frigate Shoals), Mokumanamana (Necker) ATBA
Point No. | Longitude | Latitude
1 | −168.00150 | 25.83633
2 | −167.87767 | 25.82733
3 | −167.87750 | 25.82833
4 | −167.80583 | 25.81650
5 | −167.61200 | 25.78483
6 | −167.44133 | 25.66400
7 | −167.32983 | 25.58500
8 | −166.75000 | 25.17383
9 | −166.05600 | 24.68183
10 | −165.58317 | 24.59400
11 | −164.51867 | 24.39633
12 | −164.51900 | 24.39317
13 | −164.49567 | 24.38850
14 | −164.40867 | 24.36417
15 | −164.32317 | 24.33500
16 | −164.24267 | 24.29583
17 | −164.16617 | 24.24983
18 | −164.09483 | 24.19767
19 | −164.03000 | 24.13833
20 | −163.97050 | 24.07467
21 | −163.92033 | 24.00450
22 | −163.87650 | 23.93083
23 | −163.84267 | 23.85283
24 | −163.81633 | 23.77217
25 | −163.79983 | 23.68950
26 | −163.79267 | 23.60567
27 | −163.79333 | 23.52117
28 | −163.80467 | 23.43783
29 | −163.82500 | 23.35567
30 | −163.85233 | 23.27550
31 | −163.89117 | 23.19933
32 | −163.93583 | 23.12567
33 | −163.98967 | 23.05767
34 | −164.05017 | 22.99417
35 | −164.11833 | 22.93783
36 | −164.19150 | 22.88700
37 | −164.26967 | 22.84333
38 | −164.35267 | 22.80800
39 | −164.43800 | 22.77883
40 | −164.52667 | 22.75817
41 | −164.61717 | 22.74717
42 | −164.70850 | 22.74417
43 | −164.79983 | 22.74867
44 | −164.82533 | 22.75183
45 | −164.85800 | 22.75650
46 | −164.85883 | 22.75283
47 | −165.58317 | 22.83767
48 | −166.32717 | 22.92500
49 | −166.38867 | 22.93217
50 | −166.60000 | 22.95683
51 | −166.75000 | 23.06250
52 | −166.79083 | 23.09133
53 | −168.38100 | 24.21167
54 | −168.37967 | 24.21467
55 | −168.45467 | 24.26750
56 | −168.52767 | 24.31917
57 | −168.59917 | 24.37117
58 | −168.66567 | 24.42850
59 | −168.72583 | 24.49183
60 | −168.77717 | 24.56117
61 | −168.82150 | 24.63433
62 | −168.85767 | 24.71133
63 | −168.88533 | 24.79083
64 | −168.90467 | 24.87233
65 | −168.91367 | 24.95533
66 | −168.91583 | 25.03867
67 | −168.90717 | 25.12167
68 | −168.88867 | 25.20317
69 | −168.86267 | 25.28317
70 | −168.82667 | 25.35950
71 | −168.78217 | 25.43233
72 | −168.73100 | 25.50150
73 | −168.67367 | 25.56483
74 | −168.60867 | 25.62283
75 | −168.53733 | 25.67483
76 | −168.46133 | 25.72067
77 | −168.38033 | 25.75950
78 | −168.29600 | 25.79050
79 | −168.20783 | 25.81317
80 | −168.11817 | 25.82867
81 | −168.02700 | 25.83517
82 | −168.00150 | 25.83633

Table 4—Coordinates for Inner Reporting Area Boundary Around the Kapou (Lisianski Island), Kamole (Laysan Island), Kamokuokamohoali'i (Maro Reef), Raita Bank ATBA
Point No. | Longitude | Latitude
1 | −173.56150 | 26.85217
2 | −173.51450 | 26.84583
3 | −173.51317 | 26.84817
4 | −171.62833 | 26.60000
5 | −171.56400 | 26.59150
6 | −171.51400 | 26.58500
7 | −171.45833 | 26.56783
8 | −171.41933 | 26.55583
9 | −170.38400 | 26.23767
10 | −169.81600 | 26.14483
11 | −169.81717 | 26.13933
12 | −169.76383 | 26.12700
13 | −169.67617 | 26.10050
14 | −169.59400 | 26.06617
15 | −169.51517 | 26.02517
16 | −169.44083 | 25.97750
17 | −169.37233 | 25.92200
18 | −169.31000 | 25.86117
19 | −169.25317 | 25.79633
20 | −169.20567 | 25.72567
21 | −169.16550 | 25.65083
22 | −169.13467 | 25.57283
23 | −169.11267 | 25.49233
24 | −169.09883 | 25.41017
25 | −169.09400 | 25.32717
26 | −169.09883 | 25.24417
27 | −169.11100 | 25.16150
28 | −169.13367 | 25.08083
29 | −169.16600 | 25.00283
30 | −169.20583 | 24.92767
31 | −169.25233 | 24.85583
32 | −169.30800 | 24.78950
33 | −169.37033 | 24.72817
34 | −169.43850 | 24.67233
35 | −169.51300 | 24.62367
36 | −169.59400 | 24.58333
37 | −169.67767 | 24.55033
38 | −169.76467 | 24.52233
39 | −169.85133 | 24.50517
40 | −169.94217 | 24.49467
41 | −170.03017 | 24.49267
42 | −170.07617 | 24.49350
43 | −170.73983 | 24.59617
44 | −170.79300 | 24.60483
45 | −170.83950 | 24.61967
46 | −170.86950 | 24.62933
47 | −171.83650 | 24.93717
48 | −174.41400 | 25.27683
49 | −174.64083 | 25.49267
50 | −174.70050 | 25.55467
51 | −174.75333 | 25.62217
52 | −174.79733 | 25.69467
53 | −174.83417 | 25.77050
54 | −174.86283 | 25.84883
55 | −174.88183 | 25.93000
56 | −174.89117 | 26.01183
57 | −174.89350 | 26.09450
58 | −174.88450 | 26.17650
59 | −174.86800 | 26.25767
60 | −174.84283 | 26.33667
61 | −174.80733 | 26.41250
62 | −174.76567 | 26.48583
63 | −174.71600 | 26.55433
64 | −174.65817 | 26.61850
65 | −174.59383 | 26.67667
66 | −174.52383 | 26.72917
67 | −174.44783 | 26.77483
68 | −174.36817 | 26.81500
69 | −174.28383 | 26.84650
70 | −174.19650 | 26.87000
71 | −174.10717 | 26.88683
72 | −174.01633 | 26.89567
73 | −173.92467 | 26.89567
74 | −173.83367 | 26.88817
75 | −173.74300 | 26.87600
76 | −173.65233 | 26.86417
77 | −173.56150 | 26.85217

Table 5—Coordinates for the Inner Reporting Area boundary Around Nihoa ATBA
Point No. | Longitude | Latitude
1 | −161.78483 | 23.88033
2 | −161.74450 | 23.87317
3 | −161.74233 | 23.88033
4 | −161.68667 | 23.86833
5 | −161.63200 | 23.85300
6 | −161.57850 | 23.83467
7 | −161.52633 | 23.81317
8 | −161.47583 | 23.78883
9 | −161.42700 | 23.76150
10 | −161.38017 | 23.73133
11 | −161.33550 | 23.69867
12 | −161.29333 | 23.66333
13 | −161.25350 | 23.62567
14 | −161.21650 | 23.58567
15 | −161.18217 | 23.54367
16 | −161.15083 | 23.49983
17 | −161.12250 | 23.45417
18 | −161.09750 | 23.40700
19 | −161.07567 | 23.35850
20 | −161.05717 | 23.30867
21 | −161.04217 | 23.25800
22 | −161.03067 | 23.20650
23 | −161.02250 | 23.15450
24 | −161.01817 | 23.10217
25 | −161.01717 | 23.04950
26 | −161.01983 | 22.99700
27 | −161.02617 | 22.94483
28 | −161.03583 | 22.89300
29 | −161.04917 | 22.84183
30 | −161.06583 | 22.79167
31 | −161.08583 | 22.74250
32 | −161.10900 | 22.69450
33 | −161.13550 | 22.64800
34 | −161.16500 | 22.60317
35 | −161.19750 | 22.56017
36 | −161.23283 | 22.51900
37 | −161.27083 | 22.48017
38 | −161.31150 | 22.44350
39 | −161.35433 | 22.40933
40 | −161.39950 | 22.37767
41 | −161.44667 | 22.34867
42 | −161.49567 | 22.32250
43 | −161.54633 | 22.29917
44 | −161.59833 | 22.27883
45 | −161.65167 | 22.26167
46 | −161.70617 | 22.24750
47 | −161.76133 | 22.23667
48 | −161.81717 | 22.22883
49 | −161.87350 | 22.22450
50 | −161.93000 | 22.22333
51 | −161.98633 | 22.22550
52 | −162.04250 | 22.23083
53 | −162.09083 | 22.23850
54 | −162.09817 | 22.23950
55 | −162.11467 | 22.24317
56 | −162.20300 | 22.26450
57 | −162.28850 | 22.29500
58 | −162.37000 | 22.33283
59 | −162.44733 | 22.37883
60 | −162.51917 | 22.43133
61 | −162.58483 | 22.49017
62 | −162.64350 | 22.55467
63 | −162.69533 | 22.62450
64 | −162.73900 | 22.69883
65 | −162.77450 | 22.77717
66 | −162.80083 | 22.85800
67 | −162.81817 | 22.94100
68 | −162.82633 | 23.02500
69 | −162.82483 | 23.10967
70 | −162.81483 | 23.19350
71 | −162.79500 | 23.27617
72 | −162.76633 | 23.35600
73 | −162.72917 | 23.43367
74 | −162.68350 | 23.50667
75 | −162.63050 | 23.57517
76 | −162.56967 | 23.63767
77 | −162.50300 | 23.69483
78 | −162.42983 | 23.74533
79 | −162.35183 | 23.78933
80 | −162.26933 | 23.82583
81 | −162.18317 | 23.85400
82 | −162.09383 | 23.87400
83 | −162.00417 | 23.88567
84 | −161.91250 | 23.88933
85 | −161.82133 | 23.88483
86 | −161.78483 | 23.88033

Appendix F to Subpart W of Part 922—IMO Standard Reporting Format and Data Syntax for Ship Reporting System

Telegraphy | Function: System identifier | Information required: CORAL SHIPREP // | Example field text: CORAL SHIPREP //
A | Ship | Vessel name/call sign/flag/IMO number/Federal documentation or State registration number if applicable // | A/OCEAN VOYAGER/C5FU8/BAHAMAS/IMO 9359165/
B | Date, time (UTC), and month of entry | A 6-digit group giving day of month (first two digits), hours and minutes (last four digits) in coordinated universal time, suffixed by the letter Z (indicating time in UTC), and three letters indicating month // | B/271107Z DEC//
C | Position | A 4-digit group giving latitude in degrees and minutes, suffixed with the letter N (indicating north), followed by a single /, and a five-digit group giving longitude in degrees and minutes, suffixed with the letter W (indicating west) // [Report in the World Geodetic System 1984 Datum (WGS-84)] | C/2728N/17356W//
E | True course | 3 digit number indicating true course | E/180//
F | Speed in knots and tenths | 3-digit group indicating knots decimal tenths // | F/20.5//
I | Destination and estimated time of arrival | Name of port city/country/estimated arrival date and time group expressed as in (B) // | I/SEATTLE/USA/311230Z DEC//
L | Intended route through the reporting area | Route information should be reported as a direct rhumbline (RL) course through the reporting area and intended speed (expressed as in E and F) or a series of waypoints (WP). Each waypoint entry should be reported as latitude and longitude, expressed as in (C), and intended speed between waypoints (as in F) // (Note: As many “L” lines as needed may be used to describe the vessel's intended route.) | L/RL/215/20.5// -OR- L/WP/2734N/17352W/20.5// L/WP/2641N/17413W/20.5// L/WP/2605N/17530W/20.5//
O | Vessel draft in meters | Maximum present static draft reported in meters decimal centimeters // | O/11.50//
P | Categories of Hazardous Cargoes * | Classification Code (e.g., IMDG, IBC, IGC, INF) / and all corresponding Categories of Hazardous Cargoes (delimited by commas) // Note: If necessary, use a separate “P” line for each type of Classification Code | P/IMDG/1.4G,2.1,2.2,2.3,3,4.1,6.1,8,9//
Q | Defects or deficiencies ** | Brief details of defects, damage, deficiencies or limitations that restrict maneuverability or impair normal navigation // (If none, enter the number zero.) | Q/Include details as required//
R | Pollution incident or goods lost overboard ** | Description of pollution incident or goods lost overboard within the Monument, the Reporting Area, or the U.S. Exclusive Economic Zone// (If none, enter the number zero.) | R/0//
T | Contact information of ship's agent or owner | Name/address/and phone number of ship's agent or owner // | T/JOHN DOE/GENERIC SHIPPING COMPANY INC, 6101 ACME ROAD, ROOM 123, CITY, STATE, COUNTRY 12345/123-123-1234//
U | Ship size (length overall and gross tonnage) and type | Length overall reported in meters decimal centimeters/number of gross tons/type of ship (e.g. bulk carrier, chemical tanker, oil tanker, gas tanker, container, general cargo, fishing vessel, research, passenger, OBO, RORO) // | U/294.14/54592/CONTAINER SHIP//
W | Persons | Total number of persons on board // | W/15//
TABLE NOTES
* Categories of hazardous cargoes means goods classified in the International Maritime Dangerous Goods (IMDG) Code; substances classified in chapter 17 of the International Code for the Construction and Equipment of Ships Carrying Dangerous Chemicals in Bulk (IBC Code) and chapter 19 of the International Code for the Construction and Equipment of Ships Carrying Liquefied Gases in Bulk (IGC Code); oils as defined in MARPOL Annex I; noxious liquid substances as defined in MARPOL Annex II; harmful substances as defined in MARPOL Annex III; and radioactive materials specified in the Code for the Safe Carriage of the Irradiated Nuclear Fuel, Plutonium and High-Level Radioactive Wastes in Flasks on Board Ships (INF Code).
** In accordance with the provisions of the MARPOL Convention, ships must report information relating to defects, damage, deficiencies or other limitations as well as, if necessary, information relating to pollution incidents or loss of cargo. Safety related reports must be provided to CORAL SHIPREP without delay should a ship suffer damage, failure or breakdown affecting the safety of the ship (Item Q), or if a ship makes a marked deviation from a route, course or speed previously advised (Item L). Pollution or cargo lost overboard must be reported without delay (Item R).

[FR Doc. 2024-03820 Filed 2-29-24; 8:45 am]

BILLING CODE 3510-NK-P